DEPARTMENT OF THE TREASURY

Internal Revenue Service

26 CFR Parts 1, 20, and 25

[TD 8886]

RIN 1545-AX07

Use of Actuarial Tables in Valuing Annuities, Interests for Life or Terms of Years, and Remainder or Reversionary Interests

AGENCY: Internal Revenue Service (IRS), Treasury.

ACTION: Final regulations.

SUMMARY: This document contains final regulations relating to the use of actuarial tables in valuing annuities, interests for life or terms of years, and remainder or reversionary interests. These regulations will effect the valuation of inter vivos and testamentary transfers of interests dependent on one or more measuring lives. Section 7520 of the Internal Revenue Code of 1986 (Code) was enacted by section 5031 of the Technical and Miscellaneous Revenue Act of 1988 and was effective on May 1, 1989. These regulations are necessary because section 7520(c)(3) directs the Secretary to revise the actuarial tables used in valuing interests dependent on mortality experience not less frequently than once each 10 years to take into account the most recent mortality experience available as of the time of the revision. This document contains amendments to the regulations revising certain tables used for the valuation of partial interests in property under section 7520 to reflect the most recent mortality experience available.

DATES: These regulations are effective June 12, 2000.

FOR FURTHER INFORMATION CONTACT: William L. Blodgett, (202) 622-3090 (not a toll-free number).

SUPPLEMENTARY INFORMATION:

Background

On April 30, 1999, the IRS published in the Federal Register (64 FR 23187 and 64 FR 23245) temporary regulations and a notice of proposed rulemaking by cross reference to temporary regulations (REG-103851-99) under sections 642, 664, 2031, 2512, and 7520 relating to the use of actuarial tables in valuing annuities, interests for life or terms of years, and remainder or reversionary interests. No written comments responding to the notice of proposed rulemaking by cross reference to temporary regulations were received and, thus, no hearing was held. This document adopts, with no substantive changes, final regulations with respect to this notice of proposed rulemaking by cross reference to temporary regulations.

The following chart summarizes the applicable interest rates and the citations to textual materials and tables for the various periods covered under the regulations:

Cross Reference to Regulation Sections
Valuation period | Interest rate | Regulation section | Table
Section 642
Valuation, in general |  | 1.642(c)-6
Before 01/01/52 | 4% | 1.642(c)-6A(a)
01/01/52-12/31/70 | 3.5% | 1.642(c)-6A(b)
01/01/71-11/30/83 | 6% | 1.642(c)-6A(c)
12/01/83-04/30/89 | 10% | 1.642(c)-6A(d) | Table G.
05/01/89-04/30/99 | § 7520 | 1.642(c)-6A(e) | Table S (05/01/89-4/30/99).
After 04/30/99 | § 7520 | 1.642(c)-6(e) | Table S (after 04/30/99).
Section 664
Valuation, in general |  | 1.664-4
Before 01/01/52 | 4% | 1.664-4A(a)
01/01/52-12/31/70 | 3.5% | 1.664-4A(b)
01/01/71-11/30/83 | 6% | 1.664-4A(c)
12/01/83-04/30/89 | 10% | 1.664-4A(d) | Table E, Table F(1).
05/01/89-04/30/99 | § 7520 | 1.664-4A(e) | Table U(1) (05/01/89-4/30/99).
After 04/30/99 | § 7520 | 1.664-4(e)(6) | Table D and Tables F(4.2)-F(14.0)
|  | 1.664-4(e)(7) | Table U(1) (after 04/30/99).
Section 2031
Valuation, in general |  | 20.2031-7
Before 01/01/52 | 4% | 20.2031-7A(a)
01/01/52-12/31/70 | 3.5% | 20.2031-7A(b)
01/01/71-11/30/83 | 6% | 20.2031-7A(c)
12/01/83-04/30/89 | 10% | 20.2031-7A(d) | Table A, Table B, Table LN.
05/01/89-04/30/99 | § 7520 | 20.2031-7A(e) | Table S (05/01/89-4/30/99) Life Table 80CNSMT.
After 04/30/99 | § 7520 | 20.2031-7(d)(6) 20.2031-7(d)(7) | Table B, Table J, Table K Table S (after 04/30/99) and Life Table 90CM.
Section 2512
Valuation, in general |  | 25.2512-5
Before 01/01/52 | 4% | 25.2512-5A(a)
01/01/52-12/31/70 | 3.5% | 25.2512-5A(b)
01/01/71-11/30/83 | 6% | 25.2512-5A(c)
12/01/83-04/30/89 | 10% | 25.2512-5A(d)
05/01/89-04/30/99 | § 7520 | 25.2512-5A(e)
After 04/30/99 | § 7520 | 25.2512-5(d)

Effective Dates

These regulations are applicable in the case of annuities, interests for life or terms of years, and remainder or reversionary interests created after April 30, 1999.

Special Analysis

It has been determined that this Treasury decision is not a significant regulatory action as defined in Executive Order 12866. Therefore, a regulatory assessment is not required. It also has been determined that section 553(b) of the Administrative Procedure Act (5 U.S.C. chapter 5) does not apply to these regulations, and because these regulations do not impose a collection of information requirement on small entities, the Regulatory Flexibility Act (5 U.S.C. chapter 6) does not apply. Therefore, a Regulatory Flexibility Analysis is not required. Pursuant to section 7805(f) of the Internal Revenue Code, the notice of proposed rulemaking by cross reference to temporary regulations was submitted to the Chief Counsel for Advocacy of the Small Business Administration for comment on its impact on small business.

Drafting Information

The principal author of these regulations is William L. Blodgett, Office of Assistant Chief Counsel (Passthroughs and Special Industries), IRS. However, other personnel from the IRS and Treasury Department participated in their development.

List of Subjects

26 CFR Part 1

Income taxes, Reporting and recordkeeping requirements.

26 CFR Part 20

Estate taxes, Reporting and recordkeeping requirements.

26 CFR Part 25

Gift taxes, Reporting and recordkeeping requirements.

Adoption of Amendments to the Regulations

Accordingly, 26 CFR parts 1, 20, and 25 are amended as follows:

PART 1—INCOME TAXES

Paragraph 1. The authority citation for part 1 is amended by removing the entries for 1.642(c)-6T, 1.664-4T and 1.7520-1T to read in part as follows:

Authority: 26 U.S.C. 7805 * * *

Par. 2. Section 1.170A-12 is amended by revising paragraphs (b)(2) and (b)(3) to read as follows:

§ 1.170A-12 Valuation of a remainder interest in real property for contributions made after July 31, 1969.

* * * * *

(b) * * *

(2) Computation of depreciation factor. If the valuation of the remainder interest in depreciable property is dependent upon the continuation of one life, a special factor must be used. The factor determined under this paragraph (b)(2) is carried to the fifth decimal place. The special factor is to be computed on the basis of the interest rate and life contingencies prescribed in § 20.2031-7 of this chapter (or for periods before May 1, 1999, § 20.2031-7A) and on the assumption that the property depreciates on a straight-line basis over its estimated useful life. For transfers for which the valuation date is after April 30, 1999, special factors for determining the present value of a remainder interest following one life and an example describing the computation is contained in Internal Revenue Service Publication 1459, “Actuarial Values, Book Gimel,” (7-1999). A copy of this publication is available for purchase from the Superintendent of Documents, United States Government Printing Office, Washington, DC 20402. For transfers for which the valuation date is after April 30, 1989, and before May 1, 1999, special factors for determining the present value of a remainder interest following one life and an example describing the computation is contained in Internal Revenue Service Publication 1459, “Actuarial Values, Gamma Volume,” (8-89). This publication is no longer available for purchase from the Superintendent of Documents. However, it may be obtained by requesting a copy from: CC:DOM:CORP:R (IRS Publication 1459), room 5226, Internal Revenue Service, POB 7604, Ben Franklin Station, Washington, DC 20044. See, however, § 1.7520-3(b) (relating to exceptions to the use of prescribed tables under certain circumstances). Otherwise, in the case of the valuation of a remainder interest following one life, the special factor may be obtained through use of the following formula:

Where:

n=the estimated number of years of useful life,

i=the applicable interest rate under section 7520 of the Internal Revenue Code,

v=1 divided by the sum of 1 plus the applicable interest rate under section 7520 of the Internal Revenue Code,

x=the age of the life tenant, and

lx=number of persons living at age x as set forth in Table 90CM of § 20.2031-7 (or, for periods before May 1, 1999, the tables set forth under § 20.2031-7A) of this chapter.

(3) Example. The following example illustrates the provisions of this paragraph (b):

Example. A, who is 62, donates to Y University a remainder interest in a personal residence, consisting of a house and land, subject to a reserved life estate in A. At the time of the gift, the land has a value of $30,000 and the house has a value of $100,000 with an estimated useful life of 45 years, at the end of which the value of the house is expected to be $20,000. The portion of the property considered to be depreciable is $80,000 (the value of the house ($100,000) less its expected value at the end of 45 years ($20,000)). The portion of the property considered to be nondepreciable is $50,000 (the value of the land at the time of the gift ($30,000) plus the expected value of the house at the end of 45 years ($20,000)). At the time of the gift, the interest rate prescribed under section 7520 is 8.4 percent. Based on an interest rate of 8.4 percent, the remainder factor for $1.00 prescribed in § 20.2031-7(d) of this chapter for a person age 62 is 0.27925. The value of the nondepreciable remainder interest is $13,962.50 (0.27925 times $50,000). The value of the depreciable remainder interest is $16,148.80 (0.20186, computed under the formula described in paragraph (b)(2) of this section, times $80,000). Therefore, the value of the remainder interest is $30,111.30.

* * * * *

§ 1.170A-12T [Removed]

Par. 3. Section 1.170A-12T is removed.

Par. 4-5. Section 1.642(c)-6 is amended by revising paragraphs (d), (e) and (f) to read as follows:

§ 1.642(c)-6 Valuation of a remainder interest in property transferred to a pooled income fund.

* * * * *

(d) Valuation. The present value of the remainder interest in property transferred to a pooled income fund after April 30, 1999, is determined under paragraph (e) of this section. The present value of the remainder interest in property transferred to a pooled income fund for which the valuation date is before May 1, 1999, is determined under the following sections:

Valuation Dates: After | Valuation Dates: Before | Applicable regulations
| 01-01-52 | 1.642(c)-6A(a)
12-31-51 | 01-01-71 | 1.642(c)-6A(b)
12-31-70 | 12-01-83 | 1.642(c)-6A(c)
11-30-83 | 05-01-89 | 1.642(c)-6A(d)
04-30-89 | 05-01-99 | 1.642(c)-6A(e)

(e) Present value of the remainder interest in the case of transfers to pooled income funds for which the valuation date is after April 30, 1999—(1) In general. In the case of transfers to pooled income funds for which the valuation date is after April 30, 1999, the present value of a remainder interest is determined under this section. See, however, § 1.7520-3(b) (relating to exceptions to the use of prescribed tables under certain circumstances). The present value of a remainder interest that is dependent on the termination of the life of one individual is computed by the use of Table S in paragraph (e)(6) of this section. For purposes of the computations under this section, the age of an individual is the age at the individual's nearest birthday.

(2) Transitional rules for valuation of transfers to pooled income funds. (i) For purposes of sections 2055, 2106, or 2624, if on May 1, 1999, the decedent was mentally incompetent so that the disposition of the property could not be changed, and the decedent died after April 30, 1999, without having regained competency to dispose of the decedent's property, or the decedent died within 90 days of the date that the decedent first regained competency after April 30, 1999, the present value of a remainder interest is determined as if the valuation date with respect to the decedent's gross estate is either before May 1, 1999, or after April 30, 1999, at the option of the decedent's executor.

(ii) For purposes of sections 170, 2055, 2106, 2522, or 2624, in the case of transfers to a pooled income fund for which the valuation date is after April 30, 1999, and before July 1, 1999, the present value of the remainder interest under this section is determined by use of the section 7520 interest rate for the month in which the valuation date occurs (see §§ 1.7520-1(b) and 1.7520-2(a)(2)) and the appropriate actuarial tables under either paragraph (e)(6) of this section or § 1.642(c)-6A(e)(5), at the option of the donor or the decedent's executor, as the case may be.

(iii) For purposes of paragraphs (e)(2)(i) and (ii) of this section, where the donor or decedent's executor is given the option to use the appropriate actuarial tables under either paragraph (e)(6) of this section or § 1.642(c)-6A(e)(5), the donor or decedent's executor must use the same actuarial table with respect to each individual transaction and with respect to all transfers occurring on the valuation date (for example, gift and income tax charitable deductions with respect to the same transfer must be determined based on the same tables, and all assets includible in the gross estate and/or estate tax deductions claimed must be valued based on the same tables).

(3) Present value of a remainder interest. The present value of a remainder interest in property transferred to a pooled income fund is computed on the basis of—

(i) Life contingencies determined from the values of lx that are set forth in Table 90CM in § 20.2031-7(d)(7) of this chapter (see § 20.2031-7A of this chapter for certain prior periods); and

(ii) Discount at a rate of interest, compounded annually, equal to the highest yearly rate of return of the pooled income fund for the 3 taxable years immediately preceding its taxable year in which the transfer of property to the fund is made. For purposes of this paragraph (e), the yearly rate of return of a pooled income fund is determined as provided in paragraph (c) of this section unless the highest rate of return is deemed to be the rate described in paragraph (e)(4) of this section for funds in existence less than 3 taxable years. For purposes of this paragraph (e)(3)(ii), the first taxable year of a pooled income fund is considered a taxable year even though the taxable year consists of less than 12 months. However, appropriate adjustments must be made to annualize the rate of return earned by the fund for that period. Where it appears from the facts and circumstances that the highest yearly rate of return of the fund for the 3 taxable years immediately preceding the taxable year in which the transfer of property is made has been purposely manipulated to be substantially less than the rate of return that would otherwise be reasonably anticipated with the purpose of obtaining an excessive charitable deduction, that rate of return may not be used. In that case, the highest yearly rate of return of the fund is determined by treating the fund as a pooled income fund that has been in existence for less than 3 preceding taxable years.

(4) Pooled income funds in existence less than 3 taxable years. If a pooled income fund has been in existence less than 3 taxable years immediately preceding the taxable year in which the transfer is made to the fund and the transfer to the fund is made after April 30, 1989, the highest rate of return is deemed to be the interest rate (rounded to the nearest two-tenths of one percent) that is 1 percent less than the highest annual average of the monthly section 7520 rates for the 3 calendar years immediately preceding the calendar year in which the transfer to the pooled income fund is made. The deemed rate of return for transfers to new pooled income funds is recomputed each calendar year using the monthly section 7520 rates for the 3-year period immediately preceding the calendar year in which each transfer to the fund is made until the fund has been in existence for 3 taxable years and can compute its highest rate of return for the 3 taxable years immediately preceding the taxable year in which the transfer of property to the fund is made in accordance with the rules set forth in the first sentence of paragraph (e)(3)(ii) of this section.

(5) Computation of value of remainder interest. The factor that is used in determining the present value of a remainder interest that is dependent on the termination of the life of one individual is the factor from Table S in paragraph (e)(6) of this section under the appropriate yearly rate of return opposite the number that corresponds to the age of the individual upon whose life the value of the remainder interest is based (see § 1.642(c)-6A for certain prior periods). The tables in paragraph (e)(6) of this section include factors for yearly rates of return from 4.2 to 14 percent. Many actuarial factors not contained in the tables in paragraph (e)(6) of this section are contained in Table S in Internal Revenue Service Publication 1457, “Actuarial Values, Book Aleph,” (7-1999). A copy of this publication is available for purchase from the Superintendent of Documents, United States Government Printing Office, Washington, DC 20402. For other situations, see paragraph (b) of this section. If the yearly rate of return is a percentage that is between the yearly rates of return for which factors are provided, a linear interpolation must be made. The present value of the remainder interest is determined by multiplying the fair market value of the property on the valuation date by the appropriate remainder factor. This paragraph (e)(5) may be illustrated by the following example:

Example. A, who is 54 years and 8 months, transfers $100,000 to a pooled income fund, and retains a life income interest in the property. The highest yearly rate of return earned by the fund for its 3 preceding taxable years is 9.47 percent. In Table S, the remainder factor opposite 55 years under 9.4 percent is .17449 and under 9.6 percent is .17001. The present value of the remainder interest is $17,292.00, computed as follows:

Factor at 9.4 percent for age 55 | .17449
Factor at 9.6 percent for age 55 | .17001
Difference | .00448

Interpolation adjustment:

Factor at 9.4 percent for age 55 | .17449
Less: Interpolation adjustment | .00157
Interpolated factor | .17292

Present value of remainder interest:

($100,000 × .17292) .......... $17,292.00

(6) Actuarial tables. In the case of transfers for which the valuation date is after April 30, 1999, the present value of a remainder interest dependent on the termination of one life in the case of a transfer to a pooled income fund is determined by use of the following Table S:

Table S.—Based on Life Table 90CM Single Life Remainder Factors Applicable After April 30, 1999
[Interest rate]

Age | 4.2% | 4.4% | 4.6% | 4.8% | 5.0% | 5.2% | 5.4% | 5.6% | 5.8% | 6.0%
0 | .06752 | .06130 | .05586 | .05109 | .04691 | .04322 | .03998 | .03711 | .03458 | .03233
1 | .06137 | .05495 | .04932 | .04438 | .04003 | .03620 | .03283 | .02985 | .02721 | .02487
2 | .06325 | .05667 | .05088 | .04580 | .04132 | .03737 | .03388 | .03079 | .02806 | .02563
3 | .06545 | .05869 | .05275 | .04752 | .04291 | .03883 | .03523 | .03203 | .02920 | .02668
4 | .06784 | .06092 | .05482 | .04944 | .04469 | .04048 | .03676 | .03346 | .03052 | .02791
5 | .07040 | .06331 | .05705 | .05152 | .04662 | .04229 | .03845 | .03503 | .03199 | .02928
6 | .07310 | .06583 | .05941 | .05372 | .04869 | .04422 | .04025 | .03672 | .03357 | .03076
7 | .07594 | .06849 | .06191 | .05607 | .05089 | .04628 | .04219 | .03854 | .03528 | .03236
8 | .07891 | .07129 | .06453 | .05853 | .05321 | .04846 | .04424 | .04046 | .03709 | .03407
9 | .08203 | .07423 | .06731 | .06115 | .05567 | .05079 | .04643 | .04253 | .03904 | .03592
10 | .08532 | .07734 | .07024 | .06392 | .05829 | .05326 | .04877 | .04474 | .04114 | .03790
11 | .08875 | .08059 | .07331 | .06683 | .06104 | .05587 | .05124 | .04709 | .04336 | .04002
12 | .09233 | .08398 | .07653 | .06989 | .06394 | .05862 | .05385 | .04957 | .04572 | .04226
13 | .09601 | .08748 | .07985 | .07304 | .06693 | .06146 | .05655 | .05214 | .04816 | .04458
14 | .09974 | .09102 | .08322 | .07624 | .06997 | .06435 | .05929 | .05474 | .05064 | .04694
15 | .10350 | .09460 | .08661 | .07946 | .07303 | .06725 | .06204 | .05735 | .05312 | .04930
16 | .10728 | .09818 | .09001 | .08268 | .07608 | .07014 | .06479 | .05996 | .05559 | .05164
17 | .11108 | .10179 | .09344 | .08592 | .07916 | .07306 | .06755 | .06257 | .05807 | .05399
18 | .11494 | .10545 | .09691 | .08921 | .08227 | .07601 | .07034 | .06521 | .06057 | .05636
19 | .11889 | .10921 | .10047 | .09259 | .08548 | .07904 | .07322 | .06794 | .06315 | .05880
20 | .12298 | .11310 | .10417 | .09610 | .08881 | .08220 | .07622 | .07078 | .06584 | .06135
21 | .12722 | .11713 | .10801 | .09976 | .09228 | .08550 | .07935 | .07375 | .06866 | .06403
22 | .13159 | .12130 | .11199 | .10354 | .09588 | .08893 | .08260 | .07685 | .07160 | .06682
23 | .13613 | .12563 | .11612 | .10748 | .09964 | .09250 | .08601 | .08009 | .07468 | .06975
24 | .14084 | .13014 | .12043 | .11160 | .10357 | .09625 | .08958 | .08349 | .07793 | .07284
25 | .14574 | .13484 | .12493 | .11591 | .10768 | .10018 | .09334 | .08708 | .08135 | .07611
26 | .15084 | .13974 | .12963 | .12041 | .11199 | .10431 | .09728 | .09085 | .08496 | .07956
27 | .15615 | .14485 | .13454 | .12513 | .11652 | .10865 | .10144 | .09484 | .08878 | .08322
28 | .16166 | .15016 | .13965 | .13004 | .12124 | .11319 | .10580 | .09901 | .09279 | .08706
29 | .16737 | .15567 | .14497 | .13516 | .12617 | .11792 | .11035 | .10339 | .09699 | .09109
30 | .17328 | .16138 | .15048 | .14047 | .13129 | .12286 | .11510 | .10796 | .10138 | .09532
31 | .17938 | .16728 | .15618 | .14599 | .13661 | .12799 | .12004 | .11272 | .10597 | .09974
32 | .18568 | .17339 | .16210 | .15171 | .14214 | .13333 | .12520 | .11769 | .11076 | .10435
33 | .19220 | .17972 | .16824 | .15766 | .14790 | .13889 | .13058 | .12289 | .11578 | .10920
34 | .19894 | .18627 | .17460 | .16383 | .15388 | .14468 | .13618 | .12831 | .12102 | .11426
35 | .20592 | .19307 | .18121 | .17025 | .16011 | .15073 | .14204 | .13399 | .12652 | .11958
36 | .21312 | .20010 | .18805 | .17691 | .16658 | .15701 | .14814 | .13990 | .13225 | .12514
37 | .22057 | .20737 | .19514 | .18382 | .17331 | .16356 | .15450 | .14608 | .13825 | .13096
38 | .22827 | .21490 | .20251 | .19100 | .18031 | .17038 | .16113 | .15253 | .14452 | .13705
39 | .23623 | .22270 | .21013 | .19845 | .18759 | .17747 | .16805 | .15927 | .15108 | .14344
40 | .24446 | .23078 | .21805 | .20620 | .19516 | .18487 | .17527 | .16631 | .15795 | .15013
41 | .25298 | .23915 | .22626 | .21425 | .20305 | .19259 | .18282 | .17368 | .16514 | .15715
42 | .26178 | .24782 | .23478 | .22262 | .21125 | .20062 | .19069 | .18138 | .17267 | .16450
43 | .27087 | .25678 | .24360 | .23129 | .21977 | .20898 | .19888 | .18941 | .18053 | .17220
44 | .28025 | .26603 | .25273 | .24027 | .22860 | .21766 | .20740 | .19777 | .18873 | .18023
45 | .28987 | .27555 | .26212 | .24953 | .23772 | .22664 | .21622 | .20644 | .19724 | .18858
46 | .29976 | .28533 | .27179 | .25908 | .24714 | .23591 | .22536 | .21542 | .20606 | .19725
47 | .30987 | .29535 | .28171 | .26889 | .25682 | .24546 | .23476 | .22468 | .21518 | .20621
48 | .32023 | .30563 | .29190 | .27897 | .26678 | .25530 | .24447 | .23425 | .22460 | .21549
49 | .33082 | .31615 | .30234 | .28931 | .27702 | .26543 | .25447 | .24412 | .23434 | .22509
50 | .34166 | .32694 | .31306 | .29995 | .28756 | .27586 | .26479 | .25432 | .24441 | .23502
51 | .35274 | .33798 | .32404 | .31085 | .29838 | .28658 | .27541 | .26482 | .25479 | .24528
52 | .36402 | .34924 | .33525 | .32200 | .30946 | .29757 | .28630 | .27561 | .26547 | .25584
53 | .37550 | .36070 | .34668 | .33339 | .32078 | .30882 | .29746 | .28667 | .27643 | .26669
54 | .38717 | .37237 | .35833 | .34500 | .33234 | .32031 | .30888 | .29801 | .28766 | .27782
55 | .39903 | .38424 | .37019 | .35683 | .34413 | .33205 | .32056 | .30961 | .29918 | .28925
56 | .41108 | .39631 | .38227 | .36890 | .35617 | .34405 | .33250 | .32149 | .31099 | .30097
57 | .42330 | .40857 | .39455 | .38118 | .36844 | .35629 | .34469 | .33363 | .32306 | .31297
58 | .43566 | .42098 | .40699 | .39364 | .38089 | .36873 | .35710 | .34600 | .33538 | .32522
59 | .44811 | .43351 | .41956 | .40623 | .39350 | .38133 | .36968 | .35855 | .34789 | .33768
60 | .46066 | .44613 | .43224 | .41896 | .40624 | .39408 | .38243 | .37127 | .36058 | .35033
61 | .47330 | .45887 | .44505 | .43182 | .41914 | .40699 | .39535 | .38418 | .37347 | .36318
62 | .48608 | .47175 | .45802 | .44485 | .43223 | .42011 | .40848 | .39732 | .38660 | .37629
63 | .49898 | .48478 | .47115 | .45807 | .44550 | .43343 | .42184 | .41069 | .39997 | .38966
64 | .51200 | .49793 | .48442 | .47143 | .45895 | .44694 | .43539 | .42427 | .41357 | .40326
65 | .52512 | .51121 | .49782 | .48495 | .47255 | .46062 | .44912 | .43805 | .42738 | .41709
66 | .53835 | .52461 | .51137 | .49862 | .48634 | .47449 | .46307 | .45206 | .44143 | .43118
67 | .55174 | .53818 | .52511 | .51250 | .50034 | .48860 | .47727 | .46633 | .45576 | .44556
68 | .56524 | .55188 | .53899 | .52654 | .51452 | .50291 | .49168 | .48083 | .47034 | .46020
69 | .57882 | .56568 | .55299 | .54071 | .52885 | .51737 | .50627 | .49552 | .48513 | .47506
70 | .59242 | .57951 | .56703 | .55495 | .54325 | .53193 | .52096 | .51034 | .50004 | .49007
71 | .60598 | .59332 | .58106 | .56918 | .55767 | .54651 | .53569 | .52520 | .51503 | .50516
72 | .61948 | .60707 | .59504 | .58338 | .57206 | .56108 | .55043 | .54009 | .53004 | .52029
73 | .63287 | .62073 | .60895 | .59751 | .58640 | .57561 | .56513 | .55495 | .54505 | .53543
74 | .64621 | .63435 | .62282 | .61162 | .60073 | .59015 | .57985 | .56984 | .56009 | .55061
75 | .65953 | .64796 | .63671 | .62575 | .61510 | .60473 | .59463 | .58480 | .57523 | .56591
76 | .67287 | .66160 | .65063 | .63995 | .62954 | .61940 | .60952 | .59989 | .59050 | .58135
77 | .68622 | .67526 | .66459 | .65419 | .64404 | .63415 | .62450 | .61509 | .60590 | .59694
78 | .69954 | .68892 | .67856 | .66845 | .65858 | .64895 | .63955 | .63036 | .62140 | .61264
79 | .71278 | .70250 | .69246 | .68265 | .67308 | .66372 | .65457 | .64563 | .63690 | .62836
80 | .72581 | .71588 | .70618 | .69668 | .68740 | .67833 | .66945 | .66077 | .65227 | .64396
81 | .73857 | .72899 | .71962 | .71045 | .70147 | .69268 | .68408 | .67566 | .66741 | .65933
82 | .75101 | .74178 | .73274 | .72389 | .71522 | .70672 | .69840 | .69024 | .68225 | .67441
83 | .76311 | .75423 | .74553 | .73700 | .72864 | .72044 | .71240 | .70451 | .69678 | .68919
84 | .77497 | .76645 | .75809 | .74988 | .74183 | .73393 | .72618 | .71857 | .71110 | .70377
85 | .78665 | .77848 | .77047 | .76260 | .75487 | .74728 | .73982 | .73250 | .72530 | .71823
86 | .79805 | .79025 | .78258 | .77504 | .76764 | .76036 | .75320 | .74617 | .73925 | .73245
87 | .80904 | .80159 | .79427 | .78706 | .77998 | .77301 | .76615 | .75940 | .75277 | .74624
88 | .81962 | .81251 | .80552 | .79865 | .79188 | .78521 | .77865 | .77220 | .76584 | .75958
89 | .82978 | .82302 | .81636 | .80980 | .80335 | .79699 | .79072 | .78455 | .77847 | .77248
90 | .83952 | .83309 | .82676 | .82052 | .81437 | .80831 | .80234 | .79645 | .79064 | .78492
91 | .84870 | .84260 | .83658 | .83064 | .82479 | .81902 | .81332 | .80771 | .80217 | .79671
92 | .85716 | .85136 | .84563 | .83998 | .83441 | .82891 | .82348 | .81812 | .81283 | .80761
93 | .86494 | .85942 | .85396 | .84858 | .84326 | .83801 | .83283 | .82771 | .82266 | .81767
94 | .87216 | .86690 | .86170 | .85657 | .85149 | .84648 | .84153 | .83664 | .83181 | .82704
95 | .87898 | .87397 | .86902 | .86412 | .85928 | .85450 | .84977 | .84510 | .84049 | .83592
96 | .88537 | .88060 | .87587 | .87121 | .86659 | .86203 | .85751 | .85305 | .84864 | .84427
97 | .89127 | .88672 | .88221 | .87775 | .87335 | .86898 | .86467 | .86040 | .85618 | .85200
98 | .89680 | .89245 | .88815 | .88389 | .87968 | .87551 | .87138 | .86730 | .86326 | .85926
99 | .90217 | .89803 | .89393 | .88987 | .88585 | .88187 | .87793 | .87402 | .87016 | .86633
100 | .90738 | .90344 | .89953 | .89567 | .89183 | .88804 | .88428 | .88056 | .87687 | .87322
101 | .91250 | .90876 | .90504 | .90137 | .89772 | .89412 | .89054 | .88699 | .88348 | .88000
102 | .91751 | .91396 | .91045 | .90696 | .90350 | .90007 | .89668 | .89331 | .88997 | .88666
103 | .92247 | .91912 | .91579 | .91249 | .90922 | .90598 | .90276 | .89957 | .89640 | .89326
104 | .92775 | .92460 | .92148 | .91839 | .91532 | .91227 | .90924 | .90624 | .90326 | .90031
105 | .93290 | .92996 | .92704 | .92415 | .92127 | .91841 | .91558 | .91276 | .90997 | .90719
106 | .93948 | .93680 | .93415 | .93151 | .92889 | .92628 | .92370 | .92113 | .91857 | .91604
107 | .94739 | .94504 | .94271 | .94039 | .93808 | .93579 | .93351 | .93124 | .92899 | .92675
108 | .95950 | .95767 | .95585 | .95404 | .95224 | .95045 | .94867 | .94689 | .94512 | .94336
109 | .97985 | .97893 | .97801 | .97710 | .97619 | .97529 | .97438 | .97348 | .97259 | .97170

Age | 6.2% | 6.4% | 6.6% | 6.8% | 7.0% | 7.2% | 7.4% | 7.6% | 7.8% | 8.0%
0 | .03034 | .02857 | .02700 | .02559 | .02433 | .02321 | .02220 | .02129 | .02047 | .01973
1 | .02279 | .02094 | .01929 | .01782 | .01650 | .01533 | .01427 | .01331 | .01246 | .01168
2 | .02347 | .02155 | .01983 | .01829 | .01692 | .01569 | .01458 | .01358 | .01268 | .01187
3 | .02444 | .02243 | .02065 | .01905 | .01761 | .01632 | .01516 | .01412 | .01317 | .01232
4 | .02558 | .02349 | .02163 | .01996 | .01846 | .01712 | .01590 | .01481 | .01382 | .01292
5 | .02686 | .02469 | .02275 | .02101 | .01945 | .01804 | .01677 | .01562 | .01458 | .01364
6 | .02825 | .02600 | .02398 | .02217 | .02053 | .01906 | .01773 | .01653 | .01544 | .01445
7 | .02976 | .02742 | .02532 | .02343 | .02172 | .02019 | .01880 | .01754 | .01640 | .01536
8 | .03137 | .02894 | .02675 | .02479 | .02301 | .02140 | .01995 | .01864 | .01744 | .01635
9 | .03311 | .03059 | .02832 | .02627 | .02442 | .02274 | .02122 | .01985 | .01859 | .01745
10 | .03499 | .03237 | .03001 | .02788 | .02595 | .02420 | .02262 | .02118 | .01987 | .01867
11 | .03700 | .03428 | .03183 | .02961 | .02760 | .02578 | .02413 | .02262 | .02125 | .02000
12 | .03913 | .03632 | .03377 | .03146 | .02937 | .02748 | .02575 | .02418 | .02275 | .02144
13 | .04135 | .03843 | .03579 | .03339 | .03122 | .02924 | .02744 | .02580 | .02431 | .02294
14 | .04359 | .04057 | .03783 | .03534 | .03308 | .03102 | .02915 | .02744 | .02587 | .02444
15 | .04584 | .04270 | .03986 | .03728 | .03493 | .03279 | .03083 | .02905 | .02742 | .02593
16 | .04806 | .04482 | .04187 | .03919 | .03674 | .03452 | .03248 | .03063 | .02892 | .02736
17 | .05029 | .04692 | .04387 | .04108 | .03855 | .03623 | .03411 | .03218 | .03040 | .02877
18 | .05253 | .04905 | .04588 | .04299 | .04036 | .03795 | .03574 | .03373 | .03187 | .03017
19 | .05484 | .05124 | .04796 | .04496 | .04222 | .03972 | .03742 | .03532 | .03339 | .03161
20 | .05726 | .05354 | .05013 | .04702 | .04418 | .04158 | .03919 | .03700 | .03498 | .03313
21 | .05980 | .05595 | .05242 | .04920 | .04625 | .04354 | .04105 | .03877 | .03667 | .03473
22 | .06246 | .05847 | .05482 | .05147 | .04841 | .04559 | .04301 | .04063 | .03844 | .03642
23 | .06524 | .06112 | .05734 | .05387 | .05069 | .04777 | .04508 | .04260 | .04032 | .03821
24 | .06819 | .06392 | .06001 | .05642 | .05312 | .05008 | .04728 | .04470 | .04232 | .04012
25 | .07131 | .06690 | .06285 | .05913 | .05570 | .05255 | .04964 | .04695 | .04447 | .04218
26 | .07460 | .07005 | .06586 | .06200 | .05845 | .05518 | .05215 | .04936 | .04677 | .04438
27 | .07810 | .07340 | .06907 | .06508 | .06140 | .05800 | .05485 | .05195 | .04925 | .04676
28 | .08179 | .07693 | .07246 | .06833 | .06451 | .06098 | .05772 | .05469 | .05189 | .04929
29 | .08566 | .08065 | .07603 | .07176 | .06780 | .06414 | .06075 | .05761 | .05469 | .05198
30 | .08973 | .08456 | .07978 | .07536 | .07127 | .06748 | .06396 | .06069 | .05766 | .05483
31 | .09398 | .08865 | .08372 | .07915 | .07491 | .07098 | .06733 | .06394 | .06078 | .05785
32 | .09843 | .09294 | .08785 | .08313 | .07875 | .07468 | .07089 | .06737 | .06409 | .06103
33 | .10310 | .09745 | .09220 | .08732 | .08279 | .07858 | .07466 | .07100 | .06759 | .06441
34 | .10799 | .10217 | .09676 | .09173 | .08705 | .08269 | .07862 | .07483 | .07129 | .06798
35 | .11314 | .10715 | .10157 | .09638 | .09155 | .08704 | .08283 | .07890 | .07522 | .07179
36 | .11852 | .11236 | .10662 | .10127 | .09628 | .09162 | .08726 | .08319 | .07938 | .07581
37 | .12416 | .11783 | .11193 | .10641 | .10126 | .09645 | .09194 | .08772 | .08377 | .08006
38 | .13009 | .12359 | .11751 | .11183 | .10652 | .10155 | .09689 | .09253 | .08843 | .08459
39 | .13629 | .12962 | .12338 | .11753 | .11206 | .10693 | .10212 | .09761 | .09337 | .08938
40 | .14281 | .13597 | .12955 | .12355 | .11791 | .11262 | .10766 | .10299 | .09860 | .09447
41 | .14966 | .14264 | .13606 | .12989 | .12409 | .11864 | .11352 | .10870 | .10417 | .09989
42 | .15685 | .14966 | .14291 | .13657 | .13061 | .12500 | .11972 | .11475 | .11006 | .10564
43 | .16437 | .15702 | .15010 | .14360 | .13747 | .13171 | .12627 | .12115 | .11631 | .11174
44 | .17224 | .16472 | .15764 | .15098 | .14469 | .13876 | .13317 | .12789 | .12290 | .11819
45 | .18042 | .17274 | .16550 | .15867 | .15223 | .14615 | .14040 | .13496 | .12982 | .12496
46 | .18893 | .18110 | .17370 | .16671 | .16011 | .15387 | .14796 | .14238 | .13708 | .13207
47 | .19775 | .18975 | .18220 | .17505 | .16830 | .16190 | .15584 | .15010 | .14466 | .13950
48 | .20688 | .19873 | .19102 | .18373 | .17682 | .17027 | .16406 | .15817 | .15258 | .14727
49 | .21633 | .20804 | .20018 | .19274 | .18568 | .17898 | .17262 | .16658 | .16084 | .15539
50 | .22612 | .21769 | .20969 | .20210 | .19490 | .18805 | .18155 | .17536 | .16948 | .16388
51 | .23625 | .22769 | .21955 | .21182 | .20448 | .19749 | .19084 | .18452 | .17849 | .17275
52 | .24669 | .23799 | .22973 | .22186 | .21438 | .20726 | .20047 | .19400 | .18784 | .18196
53 | .25742 | .24861 | .24022 | .23222 | .22461 | .21735 | .21043 | .20383 | .19753 | .19151
54 | .26845 | .25952 | .25101 | .24290 | .23516 | .22777 | .22072 | .21399 | .20756 | .20140
55 | .27978 | .27074 | .26212 | .25389 | .24604 | .23853 | .23136 | .22450 | .21793 | .21166
56 | .29140 | .28227 | .27355 | .26522 | .25725 | .24963 | .24233 | .23535 | .22867 | .22227
57 | .30333 | .29411 | .28529 | .27686 | .26879 | .26106 | .25365 | .24656 | .23976 | .23324
58 | .31551 | .30621 | .29731 | .28878 | .28061 | .27278 | .26528 | .25807 | .25116 | .24453
59 | .32790 | .31854 | .30956 | .30095 | .29269 | .28477 | .27716 | .26986 | .26284 | .25610
60 | .34050 | .33107 | .32202 | .31334 | .30500 | .29699 | .28929 | .28190 | .27478 | .26794
61 | .35331 | .34384 | .33473 | .32598 | .31757 | .30948 | .30170 | .29422 | .28701 | .28007
62 | .36639 | .35688 | .34772 | .33892 | .33044 | .32229 | .31443 | .30687 | .29958 | .29255
63 | .37974 | .37020 | .36101 | .35216 | .34363 | .33542 | .32750 | .31986 | .31250 | .30539
64 | .39334 | .38378 | .37456 | .36568 | .35711 | .34884 | .34087 | .33317 | .32574 | .31857
65 | .40718 | .39761 | .38838 | .37947 | .37087 | .36257 | .35455 | .34681 | .33932 | .33208
66 | .42128 | .41172 | .40249 | .39357 | .38496 | .37663 | .36858 | .36079 | .35326 | .34597
67 | .43569 | .42616 | .41694 | .40803 | .39941 | .39107 | .38299 | .37518 | .36761 | .36028
68 | .45038 | .44089 | .43170 | .42281 | .41419 | .40585 | .39777 | .38994 | .38235 | .37499
69 | .46531 | .45587 | .44672 | .43786 | .42927 | .42094 | .41286 | .40503 | .39743 | .39006
70 | .48040 | .47103 | .46194 | .45312 | .44456 | .43626 | .42820 | .42038 | .41278 | .40540
71 | .49558 | .48629 | .47727 | .46851 | .46000 | .45174 | .44371 | .43591 | .42832 | .42095
72 | .51082 | .50162 | .49268 | .48399 | .47554 | .46733 | .45934 | .45157 | .44401 | .43666
73 | .52607 | .51697 | .50813 | .49952 | .49114 | .48299 | .47506 | .46733 | .45981 | .45249
74 | .54139 | .53241 | .52367 | .51515 | .50686 | .49879 | .49092 | .48325 | .47578 | .46849
75 | .55683 | .54798 | .53936 | .53095 | .52276 | .51477 | .50698 | .49938 | .49197 | .48474
76 | .57243 | .56373 | .55524 | .54696 | .53888 | .53100 | .52330 | .51579 | .50846 | .50130
77 | .58819 | .57965 | .57132 | .56318 | .55523 | .54747 | .53988 | .53247 | .52523 | .51815
78 | .60408 | .59572 | .58755 | .57957 | .57177 | .56414 | .55668 | .54939 | .54225 | .53527
79 | .62001 | .61184 | .60385 | .59604 | .58840 | .58092 | .57360 | .56644 | .55943 | .55256
80 | .63582 | .62786 | .62007 | .61244 | .60497 | .59765 | .59048 | .58347 | .57659 | .56985
81 | .65142 | .64367 | .63608 | .62864 | .62135 | .61421 | .60721 | .60034 | .59361 | .58701
82 | .66673 | .65920 | .65182 | .64458 | .63748 | .63052 | .62368 | .61698 | .61041 | .60395
83 | .68175 | .67444 | .66728 | .66024 | .65334 | .64656 | .63991 | .63338 | .62696 | .62066
84 | .69657 | .68950 | .68256 | .67574 | .66904 | .66246 | .65599 | .64964 | .64340 | .63727
85 | .71128 | .70446 | .69775 | .69116 | .68467 | .67830 | .67204 | .66587 | .65982 | .65386
86 | .72576 | .71919 | .71272 | .70636 | .70010 | .69394 | .68789 | .68193 | .67606 | .67029
87 | .73981 | .73349 | .72726 | .72114 | .71511 | .70917 | .70333 | .69757 | .69190 | .68632
88 | .75342 | .74735 | .74137 | .73548 | .72968 | .72396 | .71833 | .71279 | .70732 | .70194
89 | .76658 | .76076 | .75503 | .74938 | .74381 | .73832 | .73290 | .72757 | .72231 | .71712
90 | .77928 | .77371 | .76823 | .76281 | .75748 | .75221 | .74702 | .74190 | .73684 | .73186
91 | .79131 | .78600 | .78075 | .77557 | .77046 | .76542 | .76044 | .75553 | .75068 | .74589
92 | .80246 | .79737 | .79235 | .78740 | .78250 | .77767 | .77290 | .76818 | .76353 | .75893
93 | .81274 | .80788 | .80307 | .79832 | .79363 | .78899 | .78441 | .77989 | .77542 | .77100
94 | .82232 | .81766 | .81306 | .80850 | .80401 | .79956 | .79517 | .79082 | .78653 | .78228
95 | .83141 | .82695 | .82254 | .81818 | .81387 | .80961 | .80539 | .80122 | .79710 | .79302
96 | .83996 | .83569 | .83147 | .82729 | .82316 | .81907 | .81503 | .81103 | .80707 | .80315
97 | .84787 | .84378 | .83973 | .83573 | .83176 | .82784 | .82396 | .82012 | .81632 | .81255
98 | .85530 | .85138 | .84750 | .84366 | .83985 | .83609 | .83236 | .82867 | .82502 | .82140
99 | .86255 | .85880 | .85508 | .85140 | .84776 | .84415 | .84057 | .83703 | .83353 | .83005
100 | .86960 | .86601 | .86246 | .85894 | .85546 | .85200 | .84858 | .84519 | .84183 | .83849
101 | .87655 | .87313 | .86974 | .86638 | .86305 | .85975 | .85648 | .85324 | .85003 | .84684
102 | .88338 | .88012 | .87689 | .87369 | .87052 | .86738 | .86426 | .86116 | .85809 | .85505
103 | .89015 | .88706 | .88399 | .88095 | .87793 | .87494 | .87197 | .86903 | .86611 | .86321
104 | .89737 | .89446 | .89157 | .88871 | .88586 | .88304 | .88024 | .87745 | .87469 | .87195
105 | .90443 | .90170 | .89898 | .89628 | .89360 | .89094 | .88830 | .88568 | .88307 | .88049
106 | .91351 | .91101 | .90852 | .90605 | .90359 | .90115 | .89873 | .89632 | .89392 | .89154
107 | .92452 | .92230 | .92010 | .91791 | .91573 | .91356 | .91141 | .90927 | .90714 | .90502
108 | .94161 | .93987 | .93814 | .93641 | .93469 | .93298 | .93128 | .92958 | .92790 | .92622
109 | .97081 | .96992 | .96904 | .96816 | .96729 | .96642 | .96555 | .96468 | .96382 | .96296

Age | 8.2% | 8.4% | 8.6% | 8.8% | 9.0% | 9.2% | 9.4% | 9.6% | 9.8% | 10.0%
0 | .01906 | .01845 | .01790 | .01740 | .01694 | .01652 | .01613 | .01578 | .01546 | .01516
1 | .01098 | .01034 | .00977 | .00924 | .00876 | .00833 | .00793 | .00756 | .00722 | .00691
2 | .01113 | .01046 | .00986 | .00930 | .00880 | .00834 | .00791 | .00753 | .00717 | .00684
3 | .01155 | .01084 | .01020 | .00962 | .00909 | .00860 | .00816 | .00775 | .00737 | .00702
4 | .01211 | .01137 | .01069 | .01008 | .00952 | .00900 | .00853 | .00810 | .00770 | .00733
5 | .01279 | .01201 | .01130 | .01065 | .01006 | .00952 | .00902 | .00856 | .00814 | .00775
6 | .01356 | .01274 | .01199 | .01131 | .01068 | .01011 | .00959 | .00910 | .00865 | .00824
7 | .01442 | .01356 | .01277 | .01205 | .01140 | .01079 | .01023 | .00972 | .00925 | .00881
8 | .01536 | .01446 | .01363 | .01287 | .01218 | .01154 | .01096 | .01041 | .00991 | .00945
9 | .01641 | .01546 | .01460 | .01380 | .01307 | .01240 | .01178 | .01120 | .01068 | .01019
10 | .01758 | .01659 | .01567 | .01484 | .01407 | .01336 | .01270 | .01210 | .01154 | .01103
11 | .01886 | .01781 | .01686 | .01598 | .01517 | .01442 | .01373 | .01310 | .01251 | .01196
12 | .02024 | .01915 | .01814 | .01721 | .01636 | .01558 | .01485 | .01419 | .01357 | .01299
13 | .02168 | .02054 | .01948 | .01851 | .01762 | .01679 | .01603 | .01533 | .01467 | .01407
14 | .02313 | .02193 | .02083 | .01981 | .01887 | .01801 | .01721 | .01646 | .01578 | .01514
15 | .02456 | .02330 | .02214 | .02107 | .02009 | .01918 | .01834 | .01756 | .01684 | .01617
16 | .02593 | .02462 | .02340 | .02229 | .02126 | .02030 | .01942 | .01860 | .01785 | .01714
17 | .02728 | .02590 | .02463 | .02346 | .02238 | .02138 | .02046 | .01960 | .01880 | .01806
18 | .02861 | .02717 | .02584 | .02462 | .02348 | .02243 | .02146 | .02056 | .01972 | .01894
19 | .02998 | .02847 | .02708 | .02580 | .02461 | .02351 | .02249 | .02154 | .02066 | .01984
20 | .03142 | .02984 | .02839 | .02704 | .02580 | .02465 | .02357 | .02258 | .02165 | .02079
21 | .03295 | .03130 | .02978 | .02837 | .02706 | .02585 | .02473 | .02368 | .02271 | .02180
22 | .03455 | .03283 | .03124 | .02976 | .02839 | .02712 | .02594 | .02484 | .02382 | .02286
23 | .03626 | .03446 | .03279 | .03124 | .02981 | .02847 | .02723 | .02608 | .02500 | .02400
24 | .03809 | .03620 | .03446 | .03283 | .03133 | .02993 | .02863 | .02741 | .02628 | .02522
25 | .04005 | .03808 | .03625 | .03456 | .03298 | .03151 | .03014 | .02887 | .02768 | .02656
26 | .04216 | .04010 | .03819 | .03641 | .03476 | .03322 | .03178 | .03044 | .02919 | .02802
27 | .04444 | .04229 | .04029 | .03843 | .03670 | .03508 | .03357 | .03217 | .03085 | .02962
28 | .04687 | .04463 | .04254 | .04059 | .03877 | .03708 | .03550 | .03402 | .03263 | .03133
29 | .04946 | .04712 | .04493 | .04289 | .04099 | .03922 | .03756 | .03600 | .03455 | .03318
30 | .05221 | .04976 | .04748 | .04534 | .04335 | .04149 | .03975 | .03812 | .03659 | .03515
31 | .05511 | .05255 | .05017 | .04794 | .04585 | .04390 | .04208 | .04037 | .03876 | .03725
32 | .05818 | .05551 | .05302 | .05069 | .04851 | .04647 | .04455 | .04276 | .04107 | .03948
33 | .06144 | .05866 | .05606 | .05363 | .05135 | .04921 | .04720 | .04532 | .04355 | .04188
34 | .06489 | .06200 | .05928 | .05674 | .05436 | .05212 | .05002 | .04805 | .04619 | .04444
35 | .06857 | .06555 | .06273 | .06007 | .05758 | .05524 | .05304 | .05097 | .04902 | .04718
36 | .07246 | .06932 | .06638 | .06361 | .06101 | .05856 | .05626 | .05409 | .05205 | .05012
37 | .07659 | .07332 | .07025 | .06737 | .06466 | .06210 | .05969 | .05742 | .05528 | .05325
38 | .08098 | .07758 | .07439 | .07138 | .06855 | .06588 | .06336 | .06099 | .05874 | .05662
39 | .08563 | .08210 | .07878 | .07565 | .07270 | .06992 | .06729 | .06480 | .06245 | .06023
40 | .09059 | .08692 | .08347 | .08021 | .07714 | .07423 | .07149 | .06889 | .06643 | .06411
41 | .09586 | .09206 | .08848 | .08509 | .08189 | .07886 | .07600 | .07329 | .07072 | .06828
42 | .10147 | .09753 | .09381 | .09029 | .08696 | .08381 | .08083 | .07800 | .07531 | .07277
43 | .10742 | .10334 | .09948 | .09583 | .09237 | .08909 | .08598 | .08304 | .08024 | .07758
44 | .11373 | .10950 | .10551 | .10172 | .09813 | .09472 | .09148 | .08841 | .08549 | .08272
45 | .12035 | .11599 | .11185 | .10792 | .10420 | .10066 | .09730 | .09410 | .09106 | .08817
46 | .12732 | .12281 | .11853 | .11447 | .11061 | .10694 | .10345 | .10013 | .09696 | .09395
47 | .13460 | .12995 | .12553 | .12133 | .11733 | .11353 | .10991 | .10646 | .10317 | .10004
48 | .14223 | .13743 | .13287 | .12853 | .12439 | .12046 | .11671 | .11313 | .10972 | .10646
49 | .15020 | .14526 | .14056 | .13608 | .13181 | .12774 | .12385 | .12015 | .11661 | .11322
50 | .15855 | .15347 | .14862 | .14401 | .13960 | .13540 | .13138 | .12754 | .12388 | .12037
51 | .16727 | .16205 | .15707 | .15232 | .14777 | .14344 | .13929 | .13532 | .13153 | .12789
52 | .17634 | .17098 | .16587 | .16097 | .15630 | .15183 | .14755 | .14345 | .13953 | .13577
53 | .18576 | .18027 | .17501 | .16999 | .16518 | .16057 | .15616 | .15194 | .14789 | .14400
54 | .19552 | .18990 | .18451 | .17935 | .17441 | .16968 | .16514 | .16078 | .15661 | .15260
55 | .20564 | .19989 | .19437 | .18908 | .18402 | .17915 | .17449 | .17001 | .16571 | .16157
56 | .21613 | .21025 | .20461 | .19919 | .19400 | .18901 | .18422 | .17962 | .17519 | .17093
57 | .22698 | .22098 | .21522 | .20968 | .20436 | .19925 | .19434 | .18961 | .18507 | .18069
58 | .23816 | .23204 | .22616 | .22051 | .21507 | .20984 | .20481 | .19996 | .19530 | .19080
59 | .24962 | .24339 | .23740 | .23163 | .22608 | .22073 | .21558 | .21062 | .20584 | .20123
60 | .26136 | .25502 | .24892 | .24304 | .23738 | .23192 | .22666 | .22158 | .21669 | .21196
61 | .27339 | .26695 | .26075 | .25477 | .24900 | .24343 | .23806 | .23288 | .22787 | .22304
62 | .28578 | .27925 | .27295 | .26687 | .26100 | .25533 | .24985 | .24456 | .23945 | .23451
63 | .29854 | .29192 | .28553 | .27935 | .27339 | .26762 | .26205 | .25666 | .25145 | .24641
64 | .31164 | .30494 | .29846 | .29221 | .28615 | .28030 | .27463 | .26915 | .26384 | .25870
65 | .32508 | .31831 | .31177 | .30543 | .29930 | .29336 | .28761 | .28203 | .27663 | .27140
66 | .33891 | .33208 | .32547 | .31906 | .31285 | .30684 | .30101 | .29536 | .28987 | .28456
67 | .35318 | .34630 | .33963 | .33316 | .32689 | .32081 | .31491 | .30918 | .30363 | .29823
68 | .36785 | .36093 | .35422 | .34770 | .34138 | .33524 | .32928 | .32349 | .31787 | .31240
69 | .38290 | .37595 | .36920 | .36265 | .35628 | .35009 | .34408 | .33824 | .33256 | .32703
70 | .39823 | .39127 | .38450 | .37791 | .37151 | .36529 | .35924 | .35335 | .34762 | .34204
71 | .41378 | .40681 | .40003 | .39343 | .38701 | .38076 | .37467 | .36875 | .36298 | .35736
72 | .42950 | .42253 | .41575 | .40914 | .40271 | .39644 | .39034 | .38438 | .37858 | .37293
73 | .44535 | .43840 | .43162 | .42502 | .41858 | .41231 | .40619 | .40022 | .39440 | .38872
74 | .46139 | .45446 | .44771 | .44112 | .43469 | .42842 | .42230 | .41632 | .41049 | .40479
75 | .47769 | .47080 | .46408 | .45752 | .45111 | .44485 | .43874 | .43277 | .42693 | .42123
76 | .49430 | .48747 | .48079 | .47427 | .46790 | .46167 | .45558 | .44963 | .44380 | .43811
77 | .51123 | .50447 | .49786 | .49139 | .48506 | .47888 | .47282 | .46690 | .46111 | .45543
78 | .52845 | .52177 | .51523 | .50884 | .50257 | .49645 | .49044 | .48457 | .47881 | .47317
79 | .54584 | .53926 | .53282 | .52650 | .52032 | .51426 | .50833 | .50251 | .49681 | .49122
80 | .56325 | .55678 | .55044 | .54423 | .53813 | .53216 | .52630 | .52056 | .51492 | .50939
81 | .58054 | .57419 | .56797 | .56186 | .55587 | .54999 | .54422 | .53856 | .53300 | .52754
82 | .59762 | .59140 | .58530 | .57931 | .57343 | .56766 | .56198 | .55641 | .55094 | .54557
83 | .61448 | .60840 | .60243 | .59657 | .59081 | .58515 | .57958 | .57411 | .56874 | .56346
84 | .63124 | .62531 | .61949 | .61376 | .60813 | .60259 | .59715 | .59179 | .58652 | .58134
85 | .64800 | .64224 | .63657 | .63099 | .62550 | .62010 | .61478 | .60955 | .60441 | .59934
86 | .66461 | .65902 | .65351 | .64810 | .64276 | .63751 | .63233 | .62724 | .62222 | .61728
87 | .68083 | .67541 | .67008 | .66483 | .65965 | .65455 | .64953 | .64458 | .63970 | .63489
88 | .69663 | .69140 | .68624 | .68116 | .67615 | .67121 | .66634 | .66154 | .65680 | .65213
89 | .71201 | .70696 | .70199 | .69708 | .69224 | .68747 | .68276 | .67811 | .67353 | .66900
90 | .72694 | .72209 | .71730 | .71257 | .70791 | .70330 | .69876 | .69427 | .68984 | .68547
91 | .74117 | .73650 | .73190 | .72735 | .72286 | .71842 | .71404 | .70972 | .70545 | .70123
92 | .75439 | .74991 | .74548 | .74110 | .73678 | .73251 | .72829 | .72412 | .72000 | .71593
93 | .76664 | .76233 | .75806 | .75385 | .74969 | .74557 | .74150 | .73748 | .73350 | .72957
94 | .77809 | .77394 | .76983 | .76578 | .76177 | .75780 | .75388 | .75000 | .74616 | .74237
95 | .78899 | .78500 | .78106 | .77715 | .77329 | .76947 | .76569 | .76195 | .75826 | .75460
96 | .79928 | .79544 | .79165 | .78790 | .78418 | .78050 | .77686 | .77326 | .76970 | .76617
97 | .80883 | .80514 | .80149 | .79787 | .79430 | .79075 | .78725 | .78377 | .78033 | .77693
98 | .81781 | .81427 | .81075 | .80727 | .80382 | .80041 | .79703 | .79368 | .79036 | .78708
99 | .82661 | .82320 | .81982 | .81648 | .81316 | .80988 | .80662 | .80340 | .80020 | .79704
100 | .83519 | .83192 | .82868 | .82547 | .82228 | .81913 | .81600 | .81290 | .80982 | .80678
101 | .84368 | .84055 | .83744 | .83437 | .83131 | .82829 | .82529 | .82231 | .81936 | .81643
102 | .85203 | .84904 | .84607 | .84313 | .84021 | .83731 | .83444 | .83159 | .82876 | .82596
103 | .86034 | .85748 | .85465 | .85184 | .84906 | .84629 | .84355 | .84082 | .83812 | .83544
104 | .86923 | .86653 | .86385 | .86119 | .85855 | .85593 | .85333 | .85074 | .84818 | .84563
105 | .87792 | .87537 | .87283 | .87032 | .86782 | .86534 | .86287 | .86042 | .85799 | .85557
106 | .88918 | .88683 | .88450 | .88218 | .87987 | .87758 | .87530 | .87304 | .87079 | .86855
107 | .90291 | .90082 | .89873 | .89666 | .89460 | .89255 | .89051 | .88849 | .88647 | .88447
108 | .92455 | .92288 | .92123 | .91958 | .91794 | .91630 | .91468 | .91306 | .91145 | .90984
109 | .96211 | .96125 | .96041 | .95956 | .95872 | .95788 | .95704 | .95620 | .95537 | .95455

Age | 10.2% | 10.4% | 10.6% | 10.8% | 11.0% | 11.2% | 11.4% | 11.6% | 11.8% | 12.0%
0 | .01488 | .01463 | .01439 | .01417 | .01396 | .01377 | .01359 | .01343 | .01327 | .01312
1 | .00662 | .00636 | .00612 | .00589 | .00568 | .00548 | .00530 | .00513 | .00497 | .00482
2 | .00654 | .00626 | .00600 | .00576 | .00554 | .00533 | .00514 | .00496 | .00479 | .00463
3 | .00670 | .00641 | .00613 | .00588 | .00564 | .00542 | .00522 | .00502 | .00484 | .00468
4 | .00699 | .00668 | .00639 | .00612 | .00587 | .00563 | .00542 | .00521 | .00502 | .00484
5 | .00739 | .00706 | .00675 | .00646 | .00620 | .00595 | .00571 | .00550 | .00529 | .00510
6 | .00786 | .00751 | .00718 | .00687 | .00659 | .00633 | .00608 | .00585 | .00563 | .00543
7 | .00841 | .00803 | .00769 | .00736 | .00706 | .00678 | .00652 | .00627 | .00604 | .00582
8 | .00902 | .00863 | .00826 | .00791 | .00759 | .00730 | .00702 | .00675 | .00651 | .00628
9 | .00973 | .00931 | .00892 | .00856 | .00822 | .00790 | .00760 | .00733 | .00706 | .00682
10 | .01055 | .01010 | .00969 | .00930 | .00894 | .00861 | .00829 | .00799 | .00772 | .00746
11 | .01146 | .01099 | .01055 | .01014 | .00976 | .00940 | .00907 | .00875 | .00846 | .00818
12 | .01246 | .01196 | .01150 | .01106 | .01066 | .01028 | .00993 | .00960 | .00928 | .00899
13 | .01351 | .01298 | .01249 | .01204 | .01161 | .01121 | .01084 | .01049 | .01016 | .00985
14 | .01455 | .01400 | .01348 | .01300 | .01255 | .01213 | .01173 | .01136 | .01102 | .01069
15 | .01555 | .01497 | .01443 | .01392 | .01345 | .01300 | .01259 | .01220 | .01183 | .01148
16 | .01648 | .01587 | .01530 | .01477 | .01427 | .01380 | .01336 | .01295 | .01257 | .01220
17 | .01737 | .01673 | .01612 | .01556 | .01504 | .01455 | .01408 | .01365 | .01324 | .01286
18 | .01822 | .01754 | .01691 | .01632 | .01576 | .01525 | .01476 | .01430 | .01387 | .01347
19 | .01908 | .01837 | .01770 | .01708 | .01650 | .01595 | .01544 | .01495 | .01450 | .01407
20 | .01999 | .01924 | .01854 | .01788 | .01726 | .01669 | .01615 | .01564 | .01516 | .01471
21 | .02096 | .02017 | .01943 | .01874 | .01809 | .01748 | .01691 | .01637 | .01586 | .01539
22 | .02197 | .02114 | .02036 | .01963 | .01895 | .01830 | .01770 | .01713 | .01660 | .01610
23 | .02306 | .02218 | .02136 | .02059 | .01987 | .01919 | .01855 | .01795 | .01739 | .01686
24 | .02424 | .02331 | .02245 | .02163 | .02087 | .02016 | .01948 | .01885 | .01825 | .01769
25 | .02552 | .02455 | .02364 | .02278 | .02197 | .02122 | .02051 | .01984 | .01920 | .01861
26 | .02692 | .02589 | .02493 | .02403 | .02318 | .02238 | .02162 | .02091 | .02025 | .01961
27 | .02846 | .02738 | .02636 | .02541 | .02451 | .02367 | .02287 | .02212 | .02141 | .02074
28 | .03012 | .02898 | .02791 | .02690 | .02595 | .02506 | .02422 | .02342 | .02267 | .02196
29 | .03190 | .03070 | .02957 | .02851 | .02751 | .02656 | .02567 | .02483 | .02404 | .02329
30 | .03381 | .03254 | .03135 | .03023 | .02917 | .02817 | .02723 | .02634 | .02551 | .02471
31 | .03583 | .03450 | .03324 | .03206 | .03094 | .02989 | .02890 | .02796 | .02707 | .02623
32 | .03799 | .03659 | .03527 | .03402 | .03284 | .03173 | .03068 | .02968 | .02874 | .02785
33 | .04031 | .03883 | .03744 | .03612 | .03488 | .03371 | .03260 | .03155 | .03055 | .02961
34 | .04279 | .04123 | .03976 | .03838 | .03707 | .03583 | .03465 | .03354 | .03249 | .03149
35 | .04545 | .04382 | .04227 | .04081 | .03943 | .03812 | .03688 | .03571 | .03459 | .03354
36 | .04830 | .04658 | .04495 | .04341 | .04196 | .04058 | .03927 | .03803 | .03685 | .03573
37 | .05134 | .04953 | .04782 | .04620 | .04467 | .04321 | .04183 | .04052 | .03928 | .03809
38 | .05462 | .05272 | .05092 | .04921 | .04760 | .04606 | .04461 | .04322 | .04191 | .04066
39 | .05812 | .05613 | .05424 | .05245 | .05075 | .04913 | .04760 | .04614 | .04475 | .04343
40 | .06190 | .05981 | .05782 | .05594 | .05415 | .05245 | .05083 | .04929 | .04783 | .04643
41 | .06597 | .06378 | .06170 | .05972 | .05784 | .05605 | .05435 | .05272 | .05118 | .04970
42 | .07035 | .06806 | .06587 | .06380 | .06182 | .05994 | .05815 | .05644 | .05481 | .05326
43 | .07505 | .07265 | .07036 | .06818 | .06611 | .06414 | .06225 | .06045 | .05874 | .05710
44 | .08008 | .07757 | .07518 | .07290 | .07072 | .06865 | .06667 | .06478 | .06298 | .06125
45 | .08542 | .08279 | .08029 | .07791 | .07563 | .07346 | .07138 | .06940 | .06750 | .06569
46 | .09108 | .08834 | .08573 | .08324 | .08085 | .07858 | .07640 | .07432 | .07233 | .07043
47 | .09705 | .09419 | .09147 | .08886 | .08637 | .08399 | .08172 | .07954 | .07745 | .07545
48 | .10335 | .10038 | .09754 | .09482 | .09222 | .08973 | .08735 | .08507 | .08288 | .08078
49 | .10999 | .10690 | .10394 | .10111 | .09840 | .09581 | .09332 | .09093 | .08864 | .08644
50 | .11701 | .11380 | .11073 | .10778 | .10496 | .10225 | .09965 | .09716 | .09477 | .09247
51 | .12441 | .12108 | .11789 | .11482 | .11189 | .10907 | .10636 | .10376 | .10126 | .09886
52 | .13217 | .12871 | .12540 | .12222 | .11916 | .11623 | .11341 | .11071 | .10810 | .10560
53 | .14028 | .13670 | .13327 | .12997 | .12680 | .12375 | .12082 | .11801 | .11529 | .11268
54 | .14875 | .14505 | .14150 | .13808 | .13480 | .13163 | .12859 | .12566 | .12284 | .12012
55 | .15760 | .15378 | .15011 | .14657 | .14317 | .13989 | .13674 | .13370 | .13077 | .12794
56 | .16684 | .16290 | .15911 | .15546 | .15194 | .14855 | .14528 | .14213 | .13909 | .13615
57 | .17648 | .17242 | .16851 | .16474 | .16111 | .15760 | .15422 | .15096 | .14781 | .14477
58 | .18647 | .18229 | .17827 | .17438 | .17064 | .16702 | .16353 | .16015 | .15689 | .15374
59 | .19678 | .19249 | .18835 | .18435 | .18049 | .17676 | .17316 | .16968 | .16631 | .16305
60 | .20740 | .20300 | .19875 | .19464 | .19066 | .18682 | .18311 | .17952 | .17604 | .17268
61 | .21837 | .21385 | .20949 | .20527 | .20119 | .19724 | .19341 | .18971 | .18613 | .18266
62 | .22973 | .22511 | .22064 | .21631 | .21212 | .20807 | .20414 | .20033 | .19664 | .19306
63 | .24152 | .23680 | .23222 | .22779 | .22350 | .21934 | .21530 | .21139 | .20760 | .20392
64 | .25372 | .24890 | .24422 | .23969 | .23529 | .23103 | .22690 | .22289 | .21899 | .21521
65 | .26633 | .26141 | .25664 | .25201 | .24752 | .24316 | .23893 | .23482 | .23083 | .22695
66 | .27940 | .27439 | .26953 | .26481 | .26023 | .25577 | .25145 | .24724 | .24316 | .23918
67 | .29299 | .28790 | .28296 | .27815 | .27348 | .26894 | .26453 | .26024 | .25606 | .25200
68 | .30709 | .30193 | .29691 | .29202 | .28728 | .28265 | .27816 | .27378 | .26952 | .26537
69 | .32166 | .31643 | .31134 | .30639 | .30157 | .29687 | .29230 | .28785 | .28351 | .27928
70 | .33661 | .33133 | .32618 | .32116 | .31628 | .31152 | .30688 | .30235 | .29794 | .29364
71 | .35188 | .34654 | .34134 | .33627 | .33133 | .32651 | .32181 | .31722 | .31275 | .30838
72 | .36742 | .36204 | .35679 | .35168 | .34668 | .34181 | .33706 | .33241 | .32788 | .32345
73 | .38317 | .37776 | .37248 | .36733 | .36229 | .35738 | .35257 | .34788 | .34330 | .33882
74 | .39923 | .39380 | .38849 | .38330 | .37823 | .37328 | .36844 | .36370 | .35908 | .35455
75 | .41566 | .41021 | .40489 | .39968 | .39459 | .38961 | .38474 | .37997 | .37531 | .37074
76 | .43254 | .42709 | .42176 | .41655 | .41144 | .40645 | .40156 | .39677 | .39208 | .38749
77 | .44988 | .44444 | .43912 | .43391 | .42880 | .42380 | .41891 | .41411 | .40940 | .40479
78 | .46765 | .46224 | .45694 | .45174 | .44665 | .44166 | .43677 | .43197 | .42726 | .42265
79 | .48574 | .48037 | .47510 | .46993 | .46487 | .45990 | .45502 | .45024 | .44554 | .44094
80 | .50397 | .49865 | .49343 | .48830 | .48327 | .47834 | .47349 | .46873 | .46406 | .45947
81 | .52219 | .51693 | .51176 | .50669 | .50171 | .49682 | .49201 | .48729 | .48265 | .47809
82 | .54029 | .53510 | .53000 | .52499 | .52007 | .51523 | .51047 | .50580 | .50120 | .49667
83 | .55826 | .55315 | .54813 | .54319 | .53834 | .53356 | .52886 | .52424 | .51969 | .51522
84 | .57624 | .57123 | .56629 | .56144 | .55666 | .55195 | .54732 | .54277 | .53828 | .53386
85 | .59435 | .58944 | .58460 | .57984 | .57516 | .57054 | .56599 | .56151 | .55710 | .55275
86 | .61241 | .60762 | .60289 | .59824 | .59365 | .58913 | .58468 | .58029 | .57596 | .57170
87 | .63015 | .62548 | .62087 | .61633 | .61185 | .60744 | .60309 | .59880 | .59456 | .59039
88 | .64753 | .64299 | .63851 | .63409 | .62973 | .62543 | .62118 | .61700 | .61287 | .60879
89 | .66454 | .66013 | .65579 | .65150 | .64726 | .64308 | .63895 | .63488 | .63086 | .62689
90 | .68115 | .67689 | .67268 | .66853 | .66442 | .66037 | .65637 | .65241 | .64851 | .64465
91 | .69706 | .69294 | .68887 | .68486 | .68089 | .67696 | .67309 | .66925 | .66547 | .66173
92 | .71190 | .70792 | .70399 | .70011 | .69627 | .69247 | .68872 | .68501 | .68134 | .67771
93 | .72569 | .72184 | .71804 | .71429 | .71057 | .70689 | .70326 | .69967 | .69611 | .69259
94 | .73861 | .73490 | .73123 | .72759 | .72400 | .72044 | .71692 | .71344 | .71000 | .70659
95 | .75097 | .74739 | .74384 | .74033 | .73686 | .73342 | .73002 | .72665 | .72331 | .72001
96 | .76267 | .75922 | .75579 | .75240 | .74905 | .74572 | .74243 | .73917 | .73595 | .73275
97 | .77356 | .77022 | .76691 | .76363 | .76039 | .75718 | .75399 | .75084 | .74772 | .74463
98 | .78382 | .78059 | .77740 | .77423 | .77110 | .76799 | .76491 | .76186 | .75884 | .75584
99 | .79390 | .79079 | .78771 | .78465 | .78162 | .77862 | .77565 | .77270 | .76978 | .76688
100 | .80376 | .80076 | .79779 | .79485 | .79193 | .78904 | .78617 | .78333 | .78051 | .77771
101 | .81353 | .81066 | .80780 | .80497 | .80217 | .79938 | .79662 | .79388 | .79117 | .78847
102 | .82318 | .82042 | .81768 | .81496 | .81227 | .80960 | .80694 | .80431 | .80170 | .79911
103 | .83278 | .83014 | .82752 | .82491 | .82233 | .81977 | .81723 | .81470 | .81220 | .80971
104 | .84310 | .84059 | .83810 | .83563 | .83317 | .83073 | .82831 | .82591 | .82352 | .82115
105 | .85318 | .85079 | .84843 | .84607 | .84374 | .84142 | .83911 | .83682 | .83455 | .83229
106 | .86633 | .86413 | .86193 | .85975 | .85758 | .85543 | .85329 | .85116 | .84904 | .84694
107 | .88247 | .88049 | .87852 | .87656 | .87460 | .87266 | .87073 | .86881 | .86690 | .86500
108 | .90825 | .90666 | .90507 | .90350 | .90193 | .90037 | .89881 | .89727 | .89572 | .89419
109 | .95372 | .95290 | .95208 | .95126 | .95045 | .94964 | .94883 | .94803 | .94723 | .94643

Age | 12.2% | 12.4% | 12.6% | 12.8% | 13.0% | 13.2% | 13.4% | 13.6% | 13.8% | 14.0%
0 | .01298 | .01285 | .01273 | .01261 | .01250 | .01240 | .01230 | .01221 | .01212 | .01203
1 | .00468 | .00455 | .00443 | .00431 | .00420 | .00410 | .00400 | .00391 | .00382 | .00374
2 | .00448 | .00435 | .00421 | .00409 | .00398 | .00387 | .00376 | .00366 | .00357 | .00348
3 | .00452 | .00437 | .00423 | .00410 | .00398 | .00386 | .00375 | .00365 | .00355 | .00345
4 | .00468 | .00452 | .00437 | .00423 | .00410 | .00397 | .00386 | .00375 | .00364 | .00354
5 | .00493 | .00476 | .00460 | .00445 | .00431 | .00418 | .00405 | .00393 | .00382 | .00371
6 | .00524 | .00506 | .00489 | .00473 | .00458 | .00444 | .00430 | .00418 | .00406 | .00394
7 | .00562 | .00543 | .00525 | .00508 | .00492 | .00477 | .00462 | .00449 | .00436 | .00423
8 | .00606 | .00586 | .00566 | .00548 | .00531 | .00515 | .00499 | .00485 | .00471 | .00458
9 | .00659 | .00637 | .00616 | .00597 | .00579 | .00561 | .00545 | .00529 | .00514 | .00500
10 | .00721 | .00698 | .00676 | .00655 | .00636 | .00617 | .00600 | .00583 | .00567 | .00552
11 | .00792 | .00767 | .00744 | .00722 | .00701 | .00682 | .00663 | .00645 | .00628 | .00612
12 | .00871 | .00845 | .00821 | .00797 | .00775 | .00754 | .00735 | .00716 | .00698 | .00681
13 | .00955 | .00928 | .00902 | .00877 | .00854 | .00831 | .00810 | .00790 | .00771 | .00753
14 | .01038 | .01009 | .00981 | .00955 | .00930 | .00907 | .00885 | .00864 | .00843 | .00824
15 | .01116 | .01085 | .01056 | .01028 | .01002 | .00977 | .00954 | .00932 | .00910 | .00890
16 | .01186 | .01153 | .01123 | .01094 | .01066 | .01040 | .01015 | .00992 | .00969 | .00948
17 | .01250 | .01215 | .01183 | .01152 | .01124 | .01096 | .01070 | .01045 | .01022 | .00999
18 | .01308 | .01272 | .01238 | .01206 | .01175 | .01147 | .01119 | .01093 | .01068 | .01044
19 | .01367 | .01329 | .01293 | .01259 | .01227 | .01196 | .01167 | .01140 | .01113 | .01088
20 | .01428 | .01388 | .01350 | .01314 | .01280 | .01248 | .01217 | .01188 | .01161 | .01134
21 | .01494 | .01451 | .01411 | .01373 | .01337 | .01303 | .01271 | .01240 | .01211 | .01183
22 | .01562 | .01517 | .01475 | .01435 | .01397 | .01361 | .01326 | .01294 | .01263 | .01233
23 | .01635 | .01588 | .01543 | .01501 | .01460 | .01422 | .01386 | .01351 | .01319 | .01287
24 | .01716 | .01665 | .01618 | .01573 | .01530 | .01489 | .01451 | .01415 | .01380 | .01347
25 | .01804 | .01751 | .01701 | .01653 | .01608 | .01565 | .01524 | .01485 | .01448 | .01413
26 | .01902 | .01845 | .01792 | .01741 | .01693 | .01648 | .01604 | .01563 | .01524 | .01487
27 | .02011 | .01951 | .01895 | .01841 | .01790 | .01742 | .01696 | .01652 | .01610 | .01571
28 | .02129 | .02066 | .02006 | .01949 | .01895 | .01844 | .01795 | .01748 | .01704 | .01662
29 | .02258 | .02191 | .02127 | .02067 | .02009 | .01955 | .01903 | .01853 | .01806 | .01762
30 | .02396 | .02325 | .02257 | .02193 | .02132 | .02074 | .02019 | .01966 | .01916 | .01869
31 | .02543 | .02467 | .02396 | .02328 | .02263 | .02201 | .02143 | .02087 | .02034 | .01983
32 | .02701 | .02621 | .02545 | .02472 | .02404 | .02338 | .02276 | .02217 | .02160 | .02106
33 | .02871 | .02786 | .02706 | .02629 | .02556 | .02487 | .02420 | .02357 | .02297 | .02240
34 | .03054 | .02964 | .02879 | .02797 | .02720 | .02646 | .02576 | .02509 | .02445 | .02383
35 | .03253 | .03158 | .03067 | .02981 | .02898 | .02820 | .02745 | .02674 | .02606 | .02541
36 | .03467 | .03366 | .03269 | .03178 | .03090 | .03007 | .02928 | .02852 | .02779 | .02710
37 | .03697 | .03590 | .03488 | .03391 | .03298 | .03209 | .03125 | .03044 | .02967 | .02893
38 | .03947 | .03833 | .03725 | .03622 | .03524 | .03430 | .03340 | .03254 | .03172 | .03094
39 | .04217 | .04096 | .03982 | .03873 | .03768 | .03669 | .03573 | .03482 | .03395 | .03312
40 | .04510 | .04383 | .04262 | .04146 | .04035 | .03930 | .03828 | .03732 | .03639 | .03550
41 | .04830 | .04695 | .04567 | .04445 | .04327 | .04215 | .04108 | .04005 | .03907 | .03812
42 | .05177 | .05035 | .04900 | .04770 | .04646 | .04527 | .04413 | .04304 | .04200 | .04100
43 | .05553 | .05404 | .05261 | .05123 | .04992 | .04866 | .04746 | .04630 | .04520 | .04413
44 | .05960 | .05802 | .05651 | .05506 | .05368 | .05235 | .05107 | .04985 | .04867 | .04754
45 | .06395 | .06229 | .06069 | .05917 | .05770 | .05630 | .05495 | .05365 | .05241 | .05121
46 | .06860 | .06685 | .06517 | .06356 | .06202 | .06053 | .05911 | .05774 | .05643 | .05516
47 | .07353 | .07169 | .06992 | .06823 | .06660 | .06504 | .06353 | .06209 | .06070 | .05936
48 | .07877 | .07684 | .07498 | .07320 | .07149 | .06984 | .06826 | .06673 | .06527 | .06385
49 | .08433 | .08231 | .08036 | .07849 | .07669 | .07495 | .07329 | .07168 | .07013 | .06864
50 | .09026 | .08814 | .08609 | .08413 | .08224 | .08042 | .07867 | .07698 | .07535 | .07378
51 | .09655 | .09433 | .09219 | .09013 | .08815 | .08624 | .08440 | .08262 | .08091 | .07926
52 | .10318 | .10086 | .09863 | .09647 | .09439 | .09239 | .09046 | .08860 | .08680 | .08506
53 | .11017 | .10774 | .10541 | .10315 | .10098 | .09888 | .09686 | .09491 | .09302 | .09120
54 | .11750 | .11498 | .11254 | .11019 | .10792 | .10572 | .10361 | .10156 | .09958 | .09767
55 | .12522 | .12258 | .12005 | .11759 | .11522 | .11294 | .11072 | .10859 | .10652 | .10451
56 | .13332 | .13059 | .12794 | .12539 | .12292 | .12054 | .11823 | .11599 | .11383 | .11174
57 | .14183 | .13899 | .13624 | .13359 | .13102 | .12853 | .12613 | .12380 | .12154 | .11936
58 | .15070 | .14775 | .14490 | .14215 | .13948 | .13689 | .13439 | .13197 | .12962 | .12734
59 | .15990 | .15685 | .15389 | .15103 | .14826 | .14558 | .14298 | .14046 | .13801 | .13564
60 | .16942 | .16626 | .16321 | .16024 | .15737 | .15459 | .15189 | .14927 | .14673 | .14426
61 | .17929 | .17603 | .17287 | .16981 | .16684 | .16395 | .16115 | .15844 | .15580 | .15324
62 | .18960 | .18623 | .18297 | .17980 | .17673 | .17375 | .17085 | .16803 | .16530 | .16264
63 | .20035 | .19688 | .19352 | .19025 | .18708 | .18400 | .18100 | .17809 | .17525 | .17250
64 | .21154 | .20797 | .20451 | .20114 | .19787 | .19469 | .19159 | .18859 | .18566 | .18281
65 | .22318 | .21951 | .21595 | .21249 | .20912 | .20584 | .20265 | .19955 | .19652 | .19358
66 | .23532 | .23156 | .22790 | .22434 | .22088 | .21751 | .21422 | .21102 | .20791 | .20487
67 | .24804 | .24419 | .24044 | .23679 | .23324 | .22977 | .22640 | .22311 | .21990 | .21678
68 | .26133 | .25740 | .25356 | .24983 | .24618 | .24263 | .23917 | .23579 | .23250 | .22929
69 | .27516 | .27114 | .26723 | .26341 | .25969 | .25605 | .25251 | .24905 | .24567 | .24237
70 | .28945 | .28536 | .28137 | .27747 | .27367 | .26996 | .26633 | .26279 | .25934 | .25596
71 | .30412 | .29996 | .29590 | .29193 | .28806 | .28427 | .28057 | .27696 | .27343 | .26998
72 | .31913 | .31491 | .31078 | .30675 | .30281 | .29895 | .29519 | .29150 | .28790 | .28438
73 | .33444 | .33016 | .32597 | .32188 | .31788 | .31396 | .31013 | .30638 | .30271 | .29913
74 | .35012 | .34579 | .34155 | .33741 | .33335 | .32938 | .32549 | .32168 | .31795 | .31430
75 | .36628 | .36190 | .35762 | .35343 | .34932 | .34530 | .34136 | .33750 | .33372 | .33001
76 | .38299 | .37858 | .37427 | .37004 | .36589 | .36183 | .35784 | .35394 | .35011 | .34636
77 | .40028 | .39585 | .39151 | .38725 | .38307 | .37898 | .37496 | .37103 | .36716 | .36337
78 | .41812 | .41368 | .40933 | .40506 | .40086 | .39675 | .39271 | .38874 | .38485 | .38103
79 | .43641 | .43198 | .42762 | .42334 | .41914 | .41502 | .41096 | .40698 | .40308 | .39924
80 | .45496 | .45054 | .44619 | .44192 | .43772 | .43360 | .42954 | .42556 | .42164 | .41779
81 | .47360 | .46920 | .46487 | .46061 | .45643 | .45231 | .44827 | .44429 | .44038 | .43653
82 | .49223 | .48785 | .48355 | .47932 | .47516 | .47106 | .46703 | .46307 | .45916 | .45532
83 | .51081 | .50648 | .50221 | .49802 | .49388 | .48982 | .48581 | .48187 | .47799 | .47416
84 | .52951 | .52523 | .52101 | .51686 | .51277 | .50874 | .50477 | .50086 | .49701 | .49321
85 | .54847 | .54425 | .54009 | .53600 | .53196 | .52798 | .52406 | .52019 | .51638 | .51262
86 | .56749 | .56335 | .55926 | .55523 | .55126 | .54734 | .54348 | .53966 | .53591 | .53220
87 | .58627 | .58221 | .57820 | .57425 | .57035 | .56650 | .56270 | .55895 | .55526 | .55161
88 | .60477 | .60079 | .59688 | .59301 | .58919 | .58542 | .58170 | .57802 | .57439 | .57081
89 | .62297 | .61909 | .61527 | .61149 | .60776 | .60408 | .60044 | .59685 | .59330 | .58979
90 | .64084 | .63707 | .63335 | .62968 | .62604 | .62246 | .61891 | .61540 | .61194 | .60851
91 | .65803 | .65437 | .65076 | .64719 | .64366 | .64017 | .63672 | .63330 | .62993 | .62659
92 | .67412 | .67058 | .66707 | .66360 | .66017 | .65678 | .65342 | .65010 | .64682 | .64357
93 | .68911 | .68567 | .68227 | .67890 | .67557 | .67227 | .66901 | .66578 | .66258 | .65942
94 | .70321 | .69988 | .69657 | .69330 | .69006 | .68686 | .68369 | .68055 | .67744 | .67437
95 | .71674 | .71351 | .71031 | .70713 | .70399 | .70088 | .69781 | .69476 | .69174 | .68875
96 | .72959 | .72646 | .72335 | .72028 | .71724 | .71422 | .71123 | .70828 | .70534 | .70244
97 | .74156 | .73853 | .73552 | .73254 | .72959 | .72666 | .72376 | .72089 | .71804 | .71522
98 | .75287 | .74993 | .74702 | .74413 | .74126 | .73842 | .73561 | .73282 | .73006 | .72732
99 | .76401 | .76117 | .75834 | .75555 | .75277 | .75002 | .74730 | .74459 | .74191 | .73926
100 | .77494 | .77219 | .76946 | .76676 | .76408 | .76142 | .75878 | .75616 | .75357 | .75099
101 | .78580 | .78315 | .78052 | .77791 | .77532 | .77275 | .77021 | .76768 | .76517 | .76268
102 | .79654 | .79399 | .79146 | .78894 | .78645 | .78397 | .78152 | .77908 | .77666 | .77426
103 | .80724 | .80479 | .80236 | .79994 | .79755 | .79517 | .79280 | .79046 | .78813 | .78582
104 | .81879 | .81646 | .81413 | .81183 | .80954 | .80726 | .80501 | .80276 | .80054 | .79832
105 | .83005 | .82782 | .82560 | .82340 | .82121 | .81904 | .81688 | .81474 | .81260 | .81049
106 | .84485 | .84277 | .84071 | .83866 | .83662 | .83459 | .83257 | .83057 | .82857 | .82659
107 | .86311 | .86124 | .85937 | .85751 | .85566 | .85382 | .85199 | .85017 | .84835 | .84655
108 | .89266 | .89114 | .88963 | .88812 | .88662 | .88513 | .88364 | .88216 | .88068 | .87922
109 | .94563 | .94484 | .94405 | .94326 | .94248 | .94170 | .94092 | .94014 | .93937 | .93860

(f) Effective dates. This section applies after April 30, 1999.

§ 1.642(c)-6T [Removed]

Par. 6. Section 1.642(c)-6T is removed.

Par. 7. Section 1.664-4 is amended by:

1. Revising paragraph (a)(1).

2. Removing existing paragraphs (d) through (e)(5).

3. Adding paragraphs (d), (e) heading and (e)(1) through (e)(5).

4. Adding paragraph (e)(7).

5. Revising paragraph (f).

The revisions and additions read as follows:

§ 1.664-4 Calculation of the fair market value of the remainder interest in a charitable remainder unitrust.

(a) * * *

(1) Life contingencies determined as to each life involved, from the values of lx set forth in Table 90CM contained in § 20.2031-7(d)(7) of this chapter in the case of transfers for which the valuation date is after April 30, 1999; or from Table 80CNSMT contained § 20.2031-7A(e)(4) of this chapter in the case of transfer for which the valuation date is after April 30, 1989, and before May 1, 1999. See § 20.2031-7A(a) through (d) of this chapter, whichever is applicable, for transfers for which the valuation date is before May 1, 1989;

* * * * *

(d) Valuation. The fair market value of a remainder interest in a charitable remainder unitrust (as described in § 1.664-3) for transfers for which the valuation date is after April 30, 1999, is its present value determined under paragraph (e) of this section. The fair market value of a remainder interest in a charitable remainder unitrust (as described in § 1.664-3) for transfers for which the valuation date is before May 1, 1999, is its present value determined under the following sections:

Valuation dates: After | Valuation dates: Before | Applicable Regulations
| 01-01-52 | 1.664-4A(a)
12-31-51 | 01-01-71 | 1.664-4A(b)
12-31-70 | 12-01-83 | 1.664-4A(c)
11-30-83 | 05-01-89 | 1.664-4A(d)
04-30-89 | 05-01-99 | 1.664-4A(e)

(e) Valuation of charitable remainder unitrusts having certain payout sequences for transfers for which the valuation date is after April 30, 1999—(1) In general. Except as otherwise provided in paragraph (e)(2) of this section, in the case of transfers for which the valuation date is after April 30, 1999, the present value of a remainder interest is determined under paragraphs (e)(3) through (e)(7) of this section, provided that the amount of the payout as of any payout date during any taxable year of the trust is not larger than the amount that the trust could distribute on such date under § 1.664-3(a)(1)(v) if the taxable year of the trust were to end on such date. See, however, § 1.7520-3(b) (relating to exceptions to the use of the prescribed tables under certain circumstances).

(2) Transitional rules for valuation of charitable remainder unitrusts. (i) For purposes of sections 2055, 2106, or 2624, if on May 1, 1999, the decedent was mentally incompetent so that the disposition of the property could not be changed, and the decedent died after April 30, 1999, without having regained competency to dispose of the decedent's property, or the decedent died within 90 days of the date that the decedent first regained competency after April 30, 1999, the present value of a remainder interest under this section is determined as if the valuation date with respect to the decedent's gross estate is either before May 1, 1999, or after April 30, 1999, at the option of the decedent's executor.

(ii) For purposes of sections 170, 2055, 2106, 2522, or 2624, in the case of transfers to a charitable remainder unitrust for which the valuation date is after April 30, 1999, and before July 1, 1999, the present value of a remainder interest based on one or more measuring lives is determined under this section by use of the section 7520 interest rate for the month in which the valuation date occurs (see §§ 1.7520-1(b) and 1.7520-2(a)(2)) and the appropriate actuarial tables under either paragraph (e)(7) of this section or § 1.664-4A(e)(6), at the option of the donor or the decedent's executor, as the case may be.

(iii) For purposes of paragraphs (e)(2)(i) and (ii) of this section, where the donor or decedent's executor is given the option to use the appropriate actuarial tables under either paragraph (e)(7) of this section or § 1.664-4A(e)(6), the donor or decedent's executor must use the same actuarial table with respect to each individual transaction and with respect to all transfers occurring on the valuation date (for example, gift and income tax charitable deductions with respect to the same transfer must be determined based on the same tables, and all assets includible in the gross estate and/or estate tax deductions claimed must be valued based on the same tables).

(3) Adjusted payout rate. For transfers for which the valuation date is after April 30, 1989, the adjusted payout rate is determined by using the appropriate Table F in paragraph (e)(6) of this section, for the section 7520 interest rate applicable to the transfer. If the interest rate is between 4.2 and 14 percent, see paragraph (e)(6) of this section. If the interest rate is below 4.2 percent or greater than 14 percent, see paragraph (b) of this section. The adjusted payout rate is determined by multiplying the fixed percentage described in § 1.664-3(a)(1)(i)(a) by the factor describing the payout sequence of the trust and the number of months by which the valuation date for the first full taxable year of the trust precedes the first payout date for such taxable year. If the governing instrument does not prescribe when the distribution or distributions shall be made during the taxable year of the trust, see paragraph (a) of this section. In the case of a trust having a payout sequence for which no figures have been provided by the appropriate table, and in the case of a trust that determines the fair market value of the trust assets by taking the average of valuations on more than one date during the taxable year, see paragraph (b) of this section.

(4) Period is a term of years. If the period described in § 1.664-3(a)(5) is a term of years, the factor that is used in determining the present value of the remainder interest for transfers for which the valuation date is after November 30, 1983, is the factor under the appropriate adjusted payout rate in Table D of paragraph (e)(6) of this section corresponding to the number of years in the term. If the adjusted payout rate is an amount that is between adjusted payout rates for which factors are provided in Table D, a linear interpolation must be made. The present value of the remainder interest is determined by multiplying the net fair market value (as of the appropriate valuation date) of the property placed in trust by the factor determined under this paragraph. For purposes of this section, the valuation date is, in the case of an inter vivos transfer, the date on which the property is transferred to the trust by the donor. However, if an election is made under section 7520 and § 1.7520-2(b) to compute the present value of the charitable interest by use of the interest rate component for either of the 2 months preceding the month in which the date of transfer falls, the month so elected is the valuation date for purposes of determining the interest rate and mortality tables. In the case of a testamentary transfer under section 2055, 2106, or 2624, the valuation date is the date of death, unless the alternate valuation date is elected under section 2032, in which event, and within the limitations set forth in section 2032 and the regulations thereunder, the valuation date is the alternate valuation date. If the decedent's estate elects the alternate valuation date under section 2032 and also elects, under section 7520 and § 1.7520-2(b), to use the interest rate component for one of the 2 months preceding the alternate valuation date, the month so elected is the valuation date for purposes of determining the interest rate and mortality tables. The application of this paragraph (e)(4) may be illustrated by the following example:

Example. D transfers $100,000 to a charitable remainder unitrust on January 1. The trust instrument requires that the trust pay 8 percent of the fair market value of the trust assets as of January 1st for a term of 12 years to D in quarterly payments (March 31, June 30, September 30, and December 31). The section 7520 rate for January (the month that the transfer occurred) is 9.6 percent. Under Table F(9.6) in paragraph(e)(6) of this section, the appropriate adjustment factor is .944628 for quarterly payments payable at the end of each quarter. The adjusted payout rate is 7.557 (8%× .944628). Based on the remainder factors in Table D in paragraph(e)(6) of this section, the present value of the remainder interest is $38,950.30, computed as follows:

Factor at 7.4 percent for 12 years | .397495
Factor at 7.6 percent for 12 years | .387314
Difference | .010181

Interpolation adjustment:

Factor at 7.4 percent for 12 years | .397495
Less: Interpolation adjustment | .007992
Interpolated factor | .389503

Present value of remainder interest:

($100,000× .389503)..........$38,950.30

(5) Period is the life of one individual. If the period described in § 1.664-3(a)(5) is the life of one individual, the factor that is used in determining the present value of the remainder interest for transfers for which the valuation date is after April 30, 1999, is the factor in Table U(1) in paragraph (e)(7) of this section under the appropriate adjusted payout. For purposes of the computations described in this paragraph, the age of an individual is the age of that individual at the individual's nearest birthday. If the adjusted payout rate is an amount that is between adjusted payout rates for which factors are provided in the appropriate table, a linear interpolation must be made. The present value of the remainder interest is determined by multiplying the net fair market value (as of the valuation date as determined in paragraph (e)(4) of this section) of the property placed in trust by the factor determined under this paragraph (e)(5). If the adjusted payout rate is between 4.2 and 14 percent, see paragraph (e)(7) of this section. If the adjusted payout rate is below 4.2 percent or greater than 14 percent, see paragraph (b) of this section. The application of this paragraph (e)(5) may be illustrated by the following example:

Example. A, who is 44 years and 11 months old, transfers $100,000 to a charitable remainder unitrust on January 1st. The trust instrument requires that the trust pay to A semiannually (on June 30 and December 31) 9 percent of the fair market value of the trust assets as of January 1st during A's life. The section 7520 rate for January is 9.6 percent. Under Table F(9.6) in paragraph (e)(6) of this section, the appropriate adjustment factor is .933805 for semiannual payments payable at the end of the semiannual period. The adjusted payout rate is 8.404 (9% X .933805). Based on the remainder factors in Table U(1) in paragraph (e)(7) of this section, the present value of the remainder interest is $10,109.00, computed as follows:

Factor at 8.4 percent at age 45 | .10117
Factor at 8.6 percent at age 45 | .09715
Difference | .00402

Interpolation adjustment:

Factor at 8.4 percent at age 45 | .10117
Less: Interpolation adjustment | .00008
Interpolated Factor | .10109

Present value of remainder interest:

($100,000× .10109)..........$10,109.00

* * * * *

(7) Actuarial Table U(1) for transfers for which the valuation date is after April 30, 1999. For transfers for which the valuation date is after April 30, 1999, the present value of a charitable remainder unitrust interest that is dependent on the termination of a life interest is determined by using the section 7520 rate, Table U(1) in this paragraph (e)(7), and Table F(4.2) through (14.0) in paragraph (e)(6) of this section. See, however, § 1.7520-3(b) (relating to exceptions to the use of prescribed tables under certain circumstances). Many actuarial factors not contained in the following tables are contained in Internal Revenue Service Publication 1458, “Actuarial Values, Book Beth,” (7-1999). A copy of this publication is available for purchase from the Superintendent of Documents, United States Government Printing Office, Washington, DC 20402.

Table U(1).—Based on Life Table 90CM Unitrust Single Life Remainder Factors Applicable For Transfers After April 30, 1999
[Adjusted payout rate]

Age | 4.2% | 4.4% | 4.6% | 4.8% | 5.0% | 5.2% | 5.4% | 5.6% | .8% | 6.0%
0 | .06177 | .05580 | .05061 | .04609 | .04215 | .03871 | .03570 | .03307 | .03075 | .02872
1 | .05543 | .04925 | .04388 | .03919 | .03509 | .03151 | .02838 | .02563 | .02321 | .02109
2 | .05716 | .05081 | .04528 | .04045 | .03622 | .03252 | .02927 | .02642 | .02391 | .02170
3 | .05920 | .05268 | .04699 | .04201 | .03765 | .03382 | .03046 | .02750 | .02490 | .02260
4 | .06143 | .05475 | .04889 | .04376 | .03926 | .03530 | .03182 | .02876 | .02605 | .02366
5 | .06384 | .05697 | .05095 | .04567 | .04103 | .03694 | .03334 | .03016 | .02735 | .02487
6 | .06637 | .05933 | .05315 | .04771 | .04292 | .03870 | .03497 | .03168 | .02876 | .02618
7 | .06905 | .06183 | .05547 | .04987 | .04494 | .04058 | .03673 | .03332 | .03029 | .02761
8 | .07186 | .06445 | .05792 | .05216 | .04708 | .04258 | .03859 | .03506 | .03192 | .02914
9 | .07482 | .06722 | .06052 | .05460 | .04936 | .04471 | .04060 | .03694 | .03369 | .03079
10 | .07793 | .07015 | .06327 | .05718 | .05179 | .04700 | .04274 | .03896 | .03559 | .03259
11 | .08120 | .07323 | .06617 | .05991 | .05435 | .04942 | .04502 | .04111 | .03762 | .03450
12 | .08461 | .07645 | .06920 | .06277 | .05706 | .05197 | .04744 | .04339 | .03978 | .03655
13 | .08812 | .07976 | .07234 | .06574 | .05985 | .05461 | .04993 | .04576 | .04202 | .03867
14 | .09168 | .08313 | .07552 | .06874 | .06269 | .05729 | .05247 | .04815 | .04428 | .04081
15 | .09527 | .08652 | .07872 | .07176 | .06554 | .05999 | .05501 | .05055 | .04655 | .04296
16 | .09886 | .08991 | .08192 | .07478 | .06839 | .06267 | .05754 | .05294 | .04880 | .04508
17 | .10249 | .09334 | .08515 | .07782 | .07126 | .06537 | .06008 | .05533 | .05105 | .04720
18 | .10616 | .09680 | .08842 | .08090 | .07415 | .06809 | .06264 | .05774 | .05332 | .04933
19 | .10994 | .10037 | .09178 | .08407 | .07714 | .07091 | .06529 | .06023 | .05566 | .05153
20 | .11384 | .10406 | .09527 | .08737 | .08025 | .07383 | .06805 | .06283 | .05811 | .05384
21 | .11790 | .10790 | .09891 | .09080 | .08349 | .07690 | .07094 | .06555 | .06068 | .05626
22 | .12208 | .11188 | .10267 | .09436 | .08686 | .08008 | .07395 | .06839 | .06336 | .05879
23 | .12643 | .11601 | .10659 | .09808 | .09038 | .08342 | .07710 | .07138 | .06618 | .06146
24 | .13095 | .12031 | .11069 | .10197 | .09408 | .08692 | .08042 | .07452 | .06915 | .06427
25 | .13567 | .12481 | .11497 | .10605 | .09795 | .09060 | .08392 | .07784 | .07230 | .06726
26 | .14058 | .12950 | .11945 | .11032 | .10202 | .09447 | .08760 | .08134 | .07563 | .07042
27 | .14571 | .13442 | .12415 | .11481 | .10631 | .09856 | .09149 | .08505 | .07916 | .07379
28 | .15104 | .13953 | .12904 | .11949 | .11078 | .10284 | .09558 | .08895 | .08288 | .07733
29 | .15656 | .14484 | .13414 | .12438 | .11546 | .10731 | .09986 | .09304 | .08679 | .08106
30 | .16229 | .15034 | .13943 | .12946 | .12034 | .11198 | .10433 | .09732 | .09089 | .08498
31 | .16821 | .15605 | .14493 | .13474 | .12541 | .11685 | .10900 | .10179 | .09517 | .08909
32 | .17433 | .16196 | .15063 | .14023 | .13069 | .12193 | .11387 | .10647 | .09966 | .09339
33 | .18068 | .16810 | .15655 | .14595 | .13620 | .12723 | .11897 | .11137 | .10437 | .09791
34 | .18724 | .17446 | .16270 | .15189 | .14193 | .13275 | .12430 | .11650 | .10930 | .10265
35 | .19405 | .18107 | .16910 | .15808 | .14791 | .13853 | .12987 | .12187 | .11448 | .10764
36 | .20109 | .18791 | .17574 | .16451 | .15414 | .14456 | .13569 | .12749 | .11990 | .11287
37 | .20838 | .19500 | .18263 | .17120 | .16062 | .15083 | .14177 | .13337 | .12558 | .11835
38 | .21593 | .20236 | .18979 | .17816 | .16739 | .15739 | .14813 | .13953 | .13154 | .12412
39 | .22374 | .20998 | .19723 | .18540 | .17443 | .16423 | .15477 | .14597 | .13779 | .13017
40 | .23183 | .21789 | .20496 | .19294 | .18177 | .17138 | .16172 | .15272 | .14434 | .13653
41 | .24021 | .22611 | .21299 | .20079 | .18943 | .17885 | .16899 | .15980 | .15123 | .14322
42 | .24889 | .23463 | .22134 | .20896 | .19741 | .18665 | .17660 | .16721 | .15845 | .15025
43 | .25786 | .24344 | .23000 | .21744 | .20572 | .19477 | .18453 | .17496 | .16601 | .15762
44 | .26712 | .25257 | .23896 | .22625 | .21435 | .20322 | .19281 | .18305 | .17391 | .16534
45 | .27665 | .26196 | .24821 | .23534 | .22328 | .21198 | .20139 | .19145 | .18213 | .17338
46 | .28644 | .27163 | .25774 | .24472 | .23251 | .22105 | .21028 | .20018 | .19068 | .18174
47 | .29647 | .28155 | .26754 | .25438 | .24201 | .23040 | .21947 | .20919 | .19952 | .19041
48 | .30676 | .29173 | .27760 | .26431 | .25181 | .24004 | .22896 | .21852 | .20868 | .19941
49 | .31729 | .30217 | .28794 | .27453 | .26190 | .24999 | .23876 | .22817 | .21817 | .20873
50 | .32808 | .31289 | .29856 | .28505 | .27229 | .26026 | .24889 | .23814 | .22799 | .21839
51 | .33912 | .32387 | .30946 | .29585 | .28299 | .27083 | .25933 | .24845 | .23815 | .22840
52 | .35038 | .33507 | .32060 | .30691 | .29395 | .28168 | .27005 | .25904 | .24861 | .23872
53 | .36185 | .34651 | .33198 | .31821 | .30517 | .29280 | .28106 | .26993 | .25937 | .24934
54 | .37352 | .35815 | .34358 | .32976 | .31664 | .30418 | .29234 | .28110 | .27042 | .26026
55 | .38539 | .37002 | .35542 | .34155 | .32836 | .31583 | .30390 | .29256 | .28177 | .27149
56 | .39746 | .38209 | .36748 | .35358 | .34034 | .32774 | .31574 | .30431 | .29342 | .28303
57 | .40971 | .39437 | .37976 | .36584 | .35257 | .33992 | .32785 | .31634 | .30536 | .29488
58 | .42212 | .40682 | .39222 | .37829 | .36500 | .35231 | .34019 | .32862 | .31756 | .30699
59 | .43464 | .41939 | .40482 | .39090 | .37759 | .36488 | .35272 | .34109 | .32996 | .31932
60 | .44726 | .43207 | .41754 | .40364 | .39034 | .37761 | .36542 | .35375 | .34257 | .33186
61 | .45999 | .44488 | .43041 | .41655 | .40326 | .39053 | .37833 | .36662 | .35540 | .34463
62 | .47286 | .45785 | .44345 | .42964 | .41639 | .40367 | .39146 | .37974 | .36848 | .35767
63 | .48589 | .47098 | .45667 | .44293 | .42972 | .41703 | .40484 | .39311 | .38184 | .37100
64 | .49903 | .48426 | .47005 | .45638 | .44324 | .43060 | .41843 | .40671 | .39544 | .38458
65 | .51229 | .49766 | .48357 | .47001 | .45694 | .44435 | .43223 | .42054 | .40927 | .39841
66 | .52568 | .51121 | .49726 | .48381 | .47084 | .45833 | .44626 | .43461 | .42337 | .41252
67 | .53924 | .52495 | .51115 | .49784 | .48498 | .47256 | .46056 | .44898 | .43778 | .42696
68 | .55293 | .53883 | .52521 | .51205 | .49932 | .48701 | .47511 | .46360 | .45246 | .44169
69 | .56671 | .55283 | .53940 | .52640 | .51382 | .50165 | .48985 | .47844 | .46738 | .45666
70 | .58052 | .56687 | .55365 | .54084 | .52843 | .51639 | .50473 | .49342 | .48245 | .47181
71 | .59431 | .58091 | .56791 | .55529 | .54306 | .53118 | .51966 | .50847 | .49761 | .48707
72 | .60804 | .59490 | .58213 | .56973 | .55768 | .54598 | .53461 | .52357 | .51283 | .50239
73 | .62168 | .60881 | .59629 | .58411 | .57227 | .56076 | .54955 | .53866 | .52806 | .51774
74 | .63528 | .62268 | .61042 | .59848 | .58686 | .57555 | .56453 | .55380 | .54335 | .53316
75 | .64887 | .63657 | .62458 | .61290 | .60151 | .59041 | .57959 | .56904 | .55875 | .54872
76 | .66249 | .65049 | .63880 | .62739 | .61625 | .60538 | .59478 | .58443 | .57432 | .56446
77 | .67612 | .66446 | .65307 | .64194 | .63108 | .62046 | .61009 | .59995 | .59005 | .58037
78 | .68975 | .67843 | .66736 | .65654 | .64596 | .63561 | .62548 | .61558 | .60590 | .59643
79 | .70330 | .69233 | .68160 | .67109 | .66081 | .65074 | .64088 | .63123 | .62178 | .61253
80 | .71666 | .70605 | .69566 | .68548 | .67550 | .66573 | .65615 | .64676 | .63755 | .62853
81 | .72975 | .71950 | .70946 | .69961 | .68995 | .68047 | .67117 | .66205 | .65310 | .64433
82 | .74250 | .73263 | .72293 | .71342 | .70407 | .69490 | .68589 | .67705 | .66837 | .65984
83 | .75493 | .74542 | .73608 | .72690 | .71788 | .70902 | .70031 | .69175 | .68333 | .67506
84 | .76712 | .75798 | .74900 | .74016 | .73147 | .72292 | .71451 | .70624 | .69810 | .69010
85 | .77913 | .77037 | .76175 | .75326 | .74491 | .73668 | .72859 | .72061 | .71276 | .70503
86 | .79086 | .78248 | .77423 | .76610 | .75808 | .75019 | .74241 | .73474 | .72719 | .71974
87 | .80218 | .79418 | .78628 | .77850 | .77083 | .76326 | .75580 | .74844 | .74118 | .73402
88 | .81307 | .80544 | .79790 | .79047 | .78313 | .77589 | .76874 | .76169 | .75473 | .74786
89 | .82355 | .81628 | .80909 | .80200 | .79500 | .78808 | .78125 | .77450 | .76783 | .76125
90 | .83360 | .82668 | .81985 | .81309 | .80642 | .79982 | .79330 | .78685 | .78048 | .77418
91 | .84308 | .83650 | .83000 | .82357 | .81721 | .81092 | .80470 | .79855 | .79246 | .78645
92 | .85182 | .84556 | .83937 | .83325 | .82718 | .82119 | .81525 | .80937 | .80356 | .79780
93 | .85985 | .85390 | .84800 | .84215 | .83637 | .83064 | .82497 | .81936 | .81379 | .80829
94 | .86732 | .86164 | .85601 | .85044 | .84491 | .83944 | .83402 | .82865 | .82333 | .81806
95 | .87437 | .86895 | .86359 | .85827 | .85300 | .84778 | .84260 | .83746 | .83237 | .82733
96 | .88097 | .87582 | .87070 | .86563 | .86060 | .85561 | .85066 | .84575 | .84088 | .83605
97 | .88708 | .88216 | .87727 | .87243 | .86762 | .86285 | .85811 | .85341 | .84875 | .84413
98 | .89280 | .88810 | .88343 | .87880 | .87420 | .86964 | .86511 | .86061 | .85614 | .85171
99 | .89836 | .89388 | .88943 | .88501 | .88062 | .87626 | .87193 | .86763 | .86336 | .85911
100 | .90375 | .89948 | .89525 | .89103 | .88685 | .88269 | .87856 | .87445 | .87037 | .86632
101 | .90905 | .90500 | .90097 | .89696 | .89298 | .88902 | .88509 | .88118 | .87729 | .87342
102 | .91424 | .91040 | .90658 | .90278 | .89900 | .89524 | .89150 | .88778 | .88408 | .88040
103 | .91939 | .91575 | .91214 | .90854 | .90496 | .90139 | .89785 | .89432 | .89081 | .88732
104 | .92485 | .92144 | .91805 | .91467 | .91131 | .90796 | .90463 | .90131 | .89800 | .89471
105 | .93020 | .92701 | .92383 | .92067 | .91751 | .91437 | .91125 | .90813 | .90502 | .90193
106 | .93701 | .93411 | .93122 | .92834 | .92546 | .92260 | .91974 | .91689 | .91405 | .91122
107 | .94522 | .94268 | .94013 | .93760 | .93507 | .93254 | .93002 | .92750 | .92499 | .92249
108 | .95782 | .95583 | .95385 | .95187 | .94989 | .94791 | .94593 | .94396 | .94199 | .94002
109 | .97900 | .97800 | .97700 | .97600 | .97500 | .97400 | .97300 | .97200 | .97100 | .97000

Age | 6.2% | 6.4% | 6.6% | 6.8% | 7.0% | 7.2% | 7.4% | 7.6% | 7.8% | 8.0%
0 | .02693 | .02534 | .02395 | .02271 | .02161 | .02063 | .01976 | .01898 | .01828 | .01765
1 | .01922 | .01756 | .01610 | .01480 | .01365 | .01263 | .01171 | .01090 | .01017 | .00951
2 | .01975 | .01802 | .01650 | .01514 | .01393 | .01286 | .01190 | .01104 | .01028 | .00959
3 | .02056 | .01876 | .01717 | .01575 | .01449 | .01336 | .01235 | .01145 | .01064 | .00992
4 | .02155 | .01967 | .01800 | .01652 | .01520 | .01401 | .01296 | .01201 | .01116 | .01039
5 | .02266 | .02071 | .01896 | .01741 | .01603 | .01479 | .01368 | .01269 | .01179 | .01098
6 | .02389 | .02184 | .02003 | .01841 | .01696 | .01566 | .01450 | .01345 | .01251 | .01166
7 | .02522 | .02309 | .02120 | .01950 | .01799 | .01663 | .01540 | .01431 | .01332 | .01242
8 | .02665 | .02444 | .02246 | .02069 | .01910 | .01768 | .01640 | .01524 | .01420 | .01326
9 | .02821 | .02590 | .02384 | .02199 | .02033 | .01884 | .01750 | .01629 | .01520 | .01421
10 | .02990 | .02750 | .02535 | .02342 | .02169 | .02013 | .01872 | .01745 | .01631 | .01526
11 | .03172 | .02922 | .02698 | .02497 | .02316 | .02153 | .02006 | .01872 | .01752 | .01643
12 | .03365 | .03106 | .02872 | .02663 | .02474 | .02303 | .02149 | .02010 | .01884 | .01769
13 | .03566 | .03297 | .03054 | .02835 | .02638 | .02460 | .02299 | .02154 | .02021 | .01901
14 | .03770 | .03490 | .03237 | .03010 | .02804 | .02619 | .02450 | .02298 | .02159 | .02033
15 | .03973 | .03682 | .03419 | .03182 | .02968 | .02775 | .02599 | .02439 | .02294 | .02162
16 | .04173 | .03871 | .03598 | .03352 | .03129 | .02926 | .02743 | .02576 | .02424 | .02286
17 | .04372 | .04059 | .03775 | .03519 | .03287 | .03076 | .02884 | .02710 | .02551 | .02406
18 | .04573 | .04248 | .03953 | .03686 | .03444 | .03224 | .03024 | .02842 | .02676 | .02524
19 | .04780 | .04443 | .04137 | .03859 | .03607 | .03378 | .03169 | .02978 | .02804 | .02646
20 | .04997 | .04647 | .04329 | .04040 | .03778 | .03539 | .03321 | .03122 | .02940 | .02773
21 | .05226 | .04862 | .04532 | .04232 | .03958 | .03709 | .03481 | .03274 | .03083 | .02909
22 | .05465 | .05088 | .04745 | .04432 | .04148 | .03888 | .03650 | .03433 | .03234 | .03052
23 | .05716 | .05325 | .04969 | .04645 | .04348 | .04077 | .03830 | .03603 | .03394 | .03203
24 | .05983 | .05578 | .05208 | .04871 | .04562 | .04280 | .04021 | .03784 | .03566 | .03367
25 | .06266 | .05846 | .05463 | .05112 | .04791 | .04497 | .04227 | .03980 | .03752 | .03543
26 | .06566 | .06131 | .05734 | .05369 | .05035 | .04729 | .04448 | .04189 | .03951 | .03732
27 | .06887 | .06436 | .06024 | .05646 | .05298 | .04979 | .04686 | .04416 | .04168 | .03939
28 | .07225 | .06758 | .06331 | .05938 | .05577 | .05245 | .04940 | .04658 | .04398 | .04159
29 | .07581 | .07099 | .06656 | .06248 | .05873 | .05528 | .05210 | .04916 | .04645 | .04394
30 | .07956 | .07457 | .06998 | .06575 | .06186 | .05827 | .05495 | .05189 | .04906 | .04644
31 | .08348 | .07833 | .07358 | .06920 | .06515 | .06142 | .05797 | .05478 | .05182 | .04908
32 | .08761 | .08228 | .07736 | .07282 | .06863 | .06475 | .06116 | .05783 | .05475 | .05189
33 | .09195 | .08645 | .08136 | .07666 | .07231 | .06828 | .06454 | .06108 | .05786 | .05488
34 | .09651 | .09082 | .08557 | .08070 | .07619 | .07200 | .06812 | .06452 | .06117 | .05805
35 | .10131 | .09545 | .09002 | .08498 | .08030 | .07596 | .07193 | .06818 | .06469 | .06144
36 | .10635 | .10031 | .09470 | .08949 | .08465 | .08015 | .07596 | .07206 | .06842 | .06503
37 | .11165 | .10542 | .09963 | .09424 | .08923 | .08457 | .08022 | .07617 | .07238 | .06885
38 | .11722 | .11081 | .10484 | .09927 | .09409 | .08926 | .08475 | .08054 | .07661 | .07293
39 | .12308 | .11648 | .11032 | .10458 | .09922 | .09422 | .08955 | .08518 | .08109 | .07726
40 | .12925 | .12246 | .11612 | .11020 | .10466 | .09949 | .09465 | .09011 | .08587 | .08189
41 | .13575 | .12877 | .12225 | .11614 | .11043 | .10508 | .10007 | .09537 | .09097 | .08683
42 | .14259 | .13542 | .12871 | .12243 | .11654 | .11101 | .10583 | .10097 | .09640 | .09210
43 | .14977 | .14242 | .13552 | .12905 | .12298 | .11729 | .11193 | .10690 | .10217 | .09771
44 | .15731 | .14976 | .14269 | .13604 | .12979 | .12391 | .11838 | .11318 | .10828 | .10367
45 | .16516 | .15743 | .15017 | .14334 | .13691 | .13086 | .12516 | .11979 | .11472 | .10994
46 | .17334 | .16544 | .15800 | .15099 | .14438 | .13816 | .13228 | .12674 | .12150 | .11656
47 | .18184 | .17375 | .16613 | .15895 | .15217 | .14576 | .13972 | .13400 | .12860 | .12349
48 | .19066 | .18240 | .17461 | .16724 | .16029 | .15371 | .14749 | .14161 | .13604 | .13077
49 | .19981 | .19138 | .18342 | .17588 | .16875 | .16201 | .15562 | .14956 | .14383 | .13839
50 | .20931 | .20072 | .19259 | .18489 | .17759 | .17067 | .16412 | .15790 | .15199 | .14639
51 | .21917 | .21042 | .20212 | .19426 | .18679 | .17971 | .17299 | .16660 | .16054 | .15477
52 | .22933 | .22043 | .21198 | .20395 | .19633 | .18909 | .18220 | .17566 | .16943 | .16350
53 | .23981 | .23076 | .22216 | .21399 | .20621 | .19881 | .19176 | .18506 | .17867 | .17258
54 | .25060 | .24141 | .23267 | .22434 | .21642 | .20886 | .20166 | .19480 | .18826 | .18201
55 | .26171 | .25239 | .24351 | .23504 | .22697 | .21927 | .21192 | .20491 | .19821 | .19182
56 | .27313 | .26369 | .25468 | .24608 | .23787 | .23003 | .22254 | .21538 | .20854 | .20199
57 | .28487 | .27531 | .26618 | .25746 | .24912 | .24114 | .23351 | .22621 | .21923 | .21254
58 | .29688 | .28722 | .27798 | .26914 | .26067 | .25257 | .24481 | .23738 | .23025 | .22343
59 | .30913 | .29937 | .29002 | .28107 | .27249 | .26427 | .25639 | .24882 | .24157 | .23461
60 | .32159 | .31175 | .30231 | .29325 | .28457 | .27623 | .26823 | .26055 | .25317 | .24608
61 | .33429 | .32437 | .31485 | .30571 | .29692 | .28848 | .28037 | .27257 | .26507 | .25786
62 | .34728 | .33730 | .32770 | .31847 | .30960 | .30106 | .29285 | .28495 | .27734 | .27001
63 | .36057 | .35053 | .34087 | .33157 | .32262 | .31400 | .30569 | .29769 | .28998 | .28255
64 | .37412 | .36404 | .35433 | .34498 | .33596 | .32726 | .31887 | .31078 | .30298 | .29545
65 | .38794 | .37783 | .36809 | .35868 | .34961 | .34085 | .33239 | .32422 | .31633 | .30871
66 | .40205 | .39193 | .38216 | .37272 | .36361 | .35479 | .34628 | .33804 | .33008 | .32238
67 | .41650 | .40639 | .39661 | .38715 | .37800 | .36915 | .36059 | .35230 | .34428 | .33651
68 | .43126 | .42117 | .41139 | .40193 | .39277 | .38390 | .37530 | .36697 | .35890 | .35108
69 | .44628 | .43622 | .42648 | .41703 | .40787 | .39898 | .39037 | .38201 | .37391 | .36604
70 | .46150 | .45149 | .44178 | .43236 | .42321 | .41433 | .40571 | .39735 | .38922 | .38132
71 | .47683 | .46689 | .45723 | .44785 | .43873 | .42987 | .42126 | .41290 | .40476 | .39685
72 | .49225 | .48238 | .47279 | .46346 | .45439 | .44556 | .43697 | .42862 | .42048 | .41257
73 | .50770 | .49793 | .48841 | .47915 | .47013 | .46135 | .45280 | .44447 | .43635 | .42844
74 | .52324 | .51358 | .50416 | .49498 | .48603 | .47731 | .46880 | .46051 | .45242 | .44454
75 | .53894 | .52939 | .52008 | .51100 | .50214 | .49349 | .48505 | .47681 | .46877 | .46092
76 | .55483 | .54543 | .53624 | .52728 | .51852 | .50996 | .50160 | .49344 | .48546 | .47766
77 | .57091 | .56167 | .55263 | .54380 | .53516 | .52671 | .51845 | .51038 | .50247 | .49475
78 | .58716 | .57809 | .56922 | .56053 | .55203 | .54372 | .53557 | .52760 | .51980 | .51216
79 | .60346 | .59459 | .58590 | .57738 | .56904 | .56086 | .55286 | .54501 | .53732 | .52978
80 | .61969 | .61102 | .60252 | .59419 | .58601 | .57800 | .57014 | .56243 | .55487 | .54745
81 | .63571 | .62726 | .61897 | .61082 | .60283 | .59499 | .58729 | .57974 | .57232 | .56503
82 | .65146 | .64324 | .63515 | .62722 | .61942 | .61176 | .60423 | .59683 | .58957 | .58242
83 | .66693 | .65893 | .65108 | .64335 | .63575 | .62828 | .62093 | .61371 | .60660 | .59962
84 | .68222 | .67447 | .66684 | .65934 | .65195 | .64468 | .63753 | .63049 | .62356 | .61674
85 | .69742 | .68993 | .68255 | .67528 | .66812 | .66106 | .65411 | .64727 | .64053 | .63389
86 | .71241 | .70517 | .69805 | .69102 | .68410 | .67727 | .67054 | .66390 | .65736 | .65091
87 | .72696 | .72000 | .71313 | .70635 | .69967 | .69307 | .68656 | .68014 | .67381 | .66756
88 | .74108 | .73438 | .72777 | .72125 | .71480 | .70845 | .70217 | .69597 | .68985 | .68380
89 | .75475 | .74832 | .74198 | .73571 | .72951 | .72339 | .71734 | .71137 | .70547 | .69963
90 | .76796 | .76180 | .75572 | .74971 | .74376 | .73788 | .73207 | .72633 | .72065 | .71503
91 | .78049 | .77460 | .76878 | .76302 | .75732 | .75168 | .74610 | .74058 | .73512 | .72972
92 | .79211 | .78647 | .78089 | .77537 | .76990 | .76449 | .75913 | .75383 | .74858 | .74338
93 | .80283 | .79743 | .79208 | .78679 | .78154 | .77634 | .77119 | .76610 | .76105 | .75604
94 | .81283 | .80765 | .80253 | .79744 | .79240 | .78741 | .78247 | .77756 | .77270 | .76789
95 | .82233 | .81737 | .81245 | .80757 | .80274 | .79795 | .79320 | .78849 | .78382 | .77918
96 | .83126 | .82651 | .82180 | .81712 | .81248 | .80788 | .80332 | .79880 | .79431 | .78985
97 | .83953 | .83498 | .83046 | .82597 | .82152 | .81710 | .81271 | .80836 | .80404 | .79976
98 | .84731 | .84294 | .83860 | .83429 | .83002 | .82577 | .82155 | .81737 | .81321 | .80908
99 | .85490 | .85071 | .84656 | .84243 | .83832 | .83425 | .83020 | .82618 | .82219 | .81822
100 | .86229 | .85828 | .85431 | .85035 | .84642 | .84252 | .83864 | .83478 | .83095 | .82714
101 | .86958 | .86575 | .86195 | .85818 | .85442 | .85069 | .84698 | .84329 | .83962 | .83597
102 | .87674 | .87310 | .86947 | .86587 | .86229 | .85873 | .85518 | .85166 | .84815 | .84466
103 | .88384 | .88038 | .87694 | .87351 | .87010 | .86671 | .86334 | .85998 | .85663 | .85331
104 | .89143 | .88817 | .88492 | .88169 | .87847 | .87526 | .87207 | .86889 | .86573 | .86258
105 | .89885 | .89578 | .89272 | .88967 | .88664 | .88361 | .88060 | .87760 | .87461 | .87163
106 | .90840 | .90559 | .90278 | .89999 | .89720 | .89442 | .89165 | .88888 | .88613 | .88338
107 | .91999 | .91750 | .91501 | .91253 | .91005 | .90758 | .90511 | .90265 | .90019 | .89774
108 | .93805 | .93609 | .93412 | .93216 | .93020 | .92824 | .92629 | .92434 | .92239 | .92044
109 | .96900 | .96800 | .96700 | .96600 | .96500 | .96400 | .96300 | .96200 | .96100 | .96000

Age | 8.2% | 8.4% | 8.6% | 8.8% | 9.0% | 9.2% | 9.4% | 9.6% | 9.8% | 10.0%
0 | .01709 | .01658 | .01612 | .01570 | .01532 | .01497 | .01466 | .01437 | .01410 | .01386
1 | .00892 | .00839 | .00791 | .00747 | .00708 | .00672 | .00639 | .00609 | .00582 | .00557
2 | .00896 | .00840 | .00790 | .00744 | .00702 | .00664 | .00629 | .00598 | .00569 | .00542
3 | .00926 | .00867 | .00814 | .00765 | .00721 | .00681 | .00644 | .00611 | .00580 | .00552
4 | .00970 | .00908 | .00851 | .00800 | .00753 | .00711 | .00672 | .00636 | .00604 | .00574
5 | .01026 | .00960 | .00900 | .00846 | .00796 | .00751 | .00710 | .00672 | .00637 | .00606
6 | .01089 | .01019 | .00956 | .00899 | .00846 | .00799 | .00755 | .00715 | .00678 | .00644
7 | .01161 | .01088 | .01021 | .00960 | .00905 | .00854 | .00808 | .00765 | .00726 | .00690
8 | .01241 | .01163 | .01093 | .01029 | .00970 | .00917 | .00867 | .00822 | .00781 | .00743
9 | .01331 | .01249 | .01175 | .01107 | .01045 | .00988 | .00936 | .00889 | .00845 | .00804
10 | .01432 | .01346 | .01268 | .01196 | .01131 | .01071 | .01016 | .00965 | .00918 | .00875
11 | .01543 | .01453 | .01370 | .01295 | .01226 | .01162 | .01104 | .01051 | .01001 | .00956
12 | .01664 | .01569 | .01482 | .01403 | .01330 | .01263 | .01202 | .01145 | .01093 | .01045
13 | .01791 | .01691 | .01600 | .01516 | .01440 | .01369 | .01304 | .01245 | .01190 | .01139
14 | .01918 | .01813 | .01717 | .01629 | .01548 | .01474 | .01406 | .01343 | .01285 | .01231
15 | .02041 | .01931 | .01831 | .01738 | .01653 | .01576 | .01504 | .01437 | .01376 | .01320
16 | .02160 | .02044 | .01938 | .01841 | .01752 | .01670 | .01595 | .01525 | .01460 | .01401
17 | .02274 | .02152 | .02041 | .01940 | .01846 | .01760 | .01680 | .01607 | .01539 | .01476
18 | .02386 | .02258 | .02142 | .02035 | .01936 | .01846 | .01762 | .01685 | .01613 | .01547
19 | .02500 | .02367 | .02245 | .02132 | .02029 | .01933 | .01845 | .01764 | .01689 | .01619
20 | .02621 | .02481 | .02353 | .02235 | .02126 | .02025 | .01933 | .01847 | .01768 | .01694
21 | .02749 | .02603 | .02468 | .02344 | .02229 | .02124 | .02026 | .01936 | .01852 | .01774
22 | .02884 | .02730 | .02589 | .02458 | .02338 | .02227 | .02124 | .02029 | .01940 | .01859
23 | .03028 | .02867 | .02718 | .02581 | .02454 | .02337 | .02229 | .02128 | .02035 | .01949
24 | .03183 | .03013 | .02857 | .02713 | .02580 | .02456 | .02342 | .02236 | .02138 | .02047
25 | .03350 | .03172 | .03008 | .02857 | .02717 | .02587 | .02467 | .02355 | .02251 | .02155
26 | .03530 | .03344 | .03172 | .03013 | .02865 | .02729 | .02602 | .02484 | .02375 | .02273
27 | .03727 | .03532 | .03351 | .03183 | .03028 | .02885 | .02751 | .02627 | .02511 | .02404
28 | .03937 | .03732 | .03543 | .03367 | .03204 | .03052 | .02911 | .02780 | .02658 | .02545
29 | .04162 | .03947 | .03748 | .03564 | .03392 | .03233 | .03084 | .02946 | .02818 | .02698
30 | .04401 | .04176 | .03967 | .03773 | .03593 | .03425 | .03269 | .03124 | .02988 | .02861
31 | .04654 | .04419 | .04200 | .03996 | .03807 | .03630 | .03466 | .03312 | .03169 | .03035
32 | .04923 | .04676 | .04447 | .04233 | .04034 | .03849 | .03676 | .03514 | .03363 | .03221
33 | .05210 | .04952 | .04711 | .04487 | .04278 | .04083 | .03901 | .03731 | .03571 | .03422
34 | .05515 | .05245 | .04993 | .04758 | .04538 | .04333 | .04142 | .03962 | .03794 | .03637
35 | .05841 | .05558 | .05295 | .05048 | .04818 | .04603 | .04401 | .04212 | .04035 | .03869
36 | .06187 | .05892 | .05616 | .05358 | .05116 | .04890 | .04678 | .04480 | .04293 | .04118
37 | .06555 | .06247 | .05958 | .05688 | .05435 | .05198 | .04975 | .04766 | .04570 | .04385
38 | .06949 | .06627 | .06325 | .06043 | .05777 | .05528 | .05295 | .05075 | .04868 | .04674
39 | .07368 | .07032 | .06717 | .06421 | .06143 | .05882 | .05637 | .05406 | .05189 | .04984
40 | .07816 | .07465 | .07137 | .06827 | .06537 | .06263 | .06006 | .05764 | .05535 | .05320
41 | .08295 | .07930 | .07587 | .07264 | .06960 | .06674 | .06405 | .06150 | .05910 | .05683
42 | .08807 | .08427 | .08069 | .07733 | .07415 | .07116 | .06833 | .06567 | .06315 | .06077
43 | .09352 | .08957 | .08585 | .08233 | .07902 | .07589 | .07294 | .07014 | .06750 | .06500
44 | .09932 | .09521 | .09134 | .08768 | .08423 | .08096 | .07787 | .07495 | .07218 | .06956
45 | .10543 | .10117 | .09715 | .09334 | .08974 | .08634 | .08311 | .08005 | .07716 | .07441
46 | .11189 | .10747 | .10329 | .09933 | .09559 | .09204 | .08867 | .08548 | .08245 | .07958
47 | .11866 | .11408 | .10974 | .10564 | .10174 | .09805 | .09454 | .09121 | .08805 | .08504
48 | .12577 | .12103 | .11654 | .11228 | .10823 | .10439 | .10074 | .09727 | .09397 | .09083
49 | .13323 | .12833 | .12368 | .11926 | .11506 | .11107 | .10728 | .10366 | .10022 | .09695
50 | .14107 | .13601 | .13120 | .12663 | .12228 | .11813 | .11419 | .11043 | .10685 | .10344
51 | .14928 | .14407 | .13910 | .13437 | .12987 | .12558 | .12149 | .11758 | .11386 | .11031
52 | .15785 | .15248 | .14735 | .14247 | .13781 | .13337 | .12913 | .12508 | .12122 | .11752
53 | .16678 | .16124 | .15597 | .15093 | .14612 | .14153 | .13714 | .13294 | .12893 | .12509
54 | .17606 | .17037 | .16493 | .15974 | .15478 | .15004 | .14550 | .14116 | .13700 | .13302
55 | .18570 | .17986 | .17428 | .16893 | .16382 | .15893 | .15424 | .14976 | .14546 | .14134
56 | .19573 | .18974 | .18400 | .17851 | .17325 | .16821 | .16338 | .15875 | .15430 | .15004
57 | .20613 | .20000 | .19412 | .18848 | .18307 | .17789 | .17291 | .16814 | .16355 | .15914
58 | .21688 | .21060 | .20458 | .19880 | .19325 | .18792 | .18280 | .17788 | .17316 | .16861
59 | .22793 | .22151 | .21535 | .20943 | .20374 | .19827 | .19301 | .18795 | .18309 | .17840
60 | .23927 | .23272 | .22642 | .22036 | .21454 | .20893 | .20354 | .19834 | .19334 | .18851
61 | .25092 | .24425 | .23782 | .23163 | .22567 | .21993 | .21440 | .20907 | .20393 | .19898
62 | .26295 | .25616 | .24961 | .24329 | .23721 | .23134 | .22568 | .22021 | .21494 | .20985
63 | .27538 | .26847 | .26180 | .25537 | .24916 | .24316 | .23738 | .23179 | .22639 | .22117
64 | .28817 | .28116 | .27438 | .26783 | .26150 | .25539 | .24949 | .24377 | .23825 | .23291
65 | .30134 | .29423 | .28735 | .28069 | .27426 | .26803 | .26201 | .25618 | .25054 | .24508
66 | .31493 | .30772 | .30075 | .29399 | .28746 | .28113 | .27500 | .26906 | .26331 | .25774
67 | .32899 | .32170 | .31464 | .30780 | .30118 | .29475 | .28852 | .28248 | .27663 | .27095
68 | .34349 | .33614 | .32901 | .32209 | .31538 | .30887 | .30256 | .29643 | .29047 | .28469
69 | .35841 | .35100 | .34381 | .33683 | .33005 | .32346 | .31707 | .31085 | .30481 | .29894
70 | .37366 | .36620 | .35896 | .35193 | .34509 | .33844 | .33197 | .32568 | .31957 | .31362
71 | .38916 | .38167 | .37440 | .36732 | .36043 | .35372 | .34720 | .34084 | .33466 | .32864
72 | .40486 | .39736 | .39006 | .38295 | .37602 | .36927 | .36270 | .35629 | .35005 | .34396
73 | .42074 | .41323 | .40591 | .39878 | .39182 | .38504 | .37843 | .37198 | .36568 | .35955
74 | .43685 | .42934 | .42202 | .41488 | .40791 | .40110 | .39446 | .38798 | .38165 | .37547
75 | .45326 | .44577 | .43846 | .43132 | .42435 | .41754 | .41088 | .40438 | .39802 | .39181
76 | .47004 | .46259 | .45530 | .44818 | .44122 | .43442 | .42776 | .42125 | .41488 | .40865
77 | .48718 | .47979 | .47255 | .46547 | .45853 | .45175 | .44511 | .43861 | .43225 | .42601
78 | .50467 | .49735 | .49017 | .48314 | .47626 | .46951 | .46290 | .45643 | .45008 | .44386
79 | .52239 | .51515 | .50806 | .50110 | .49427 | .48758 | .48102 | .47459 | .46828 | .46209
80 | .54018 | .53304 | .52603 | .51916 | .51242 | .50580 | .49930 | .49292 | .48666 | .48052
81 | .55788 | .55085 | .54396 | .53718 | .53053 | .52399 | .51757 | .51126 | .50507 | .49898
82 | .57540 | .56851 | .56173 | .55506 | .54851 | .54207 | .53574 | .52951 | .52339 | .51737
83 | .59274 | .58598 | .57933 | .57279 | .56635 | .56001 | .55378 | .54765 | .54161 | .53567
84 | .61002 | .60341 | .59690 | .59049 | .58418 | .57796 | .57184 | .56582 | .55988 | .55403
85 | .62734 | .62090 | .61454 | .60828 | .60211 | .59603 | .59004 | .58414 | .57832 | .57258
86 | .64455 | .63828 | .63210 | .62600 | .61999 | .61406 | .60821 | .60244 | .59675 | .59113
87 | .66139 | .65531 | .64930 | .64337 | .63752 | .63175 | .62605 | .62043 | .61488 | .60939
88 | .67783 | .67194 | .66612 | .66037 | .65469 | .64908 | .64354 | .63807 | .63267 | .62733
89 | .69387 | .68817 | .68254 | .67698 | .67148 | .66605 | .66068 | .65537 | .65012 | .64493
90 | .70947 | .70398 | .69855 | .69318 | .68786 | .68261 | .67742 | .67228 | .66719 | .66217
91 | .72437 | .71908 | .71385 | .70867 | .70354 | .69847 | .69345 | .68848 | .68357 | .67870
92 | .73823 | .73314 | .72810 | .72310 | .71816 | .71326 | .70841 | .70361 | .69886 | .69415
93 | .75109 | .74618 | .74132 | .73650 | .73173 | .72700 | .72232 | .71768 | .71308 | .70852
94 | .76312 | .75839 | .75370 | .74905 | .74445 | .73988 | .73536 | .73087 | .72643 | .72202
95 | .77459 | .77004 | .76552 | .76104 | .75660 | .75220 | .74783 | .74350 | .73920 | .73494
96 | .78543 | .78105 | .77670 | .77238 | .76810 | .76386 | .75964 | .75546 | .75131 | .74720
97 | .79550 | .79128 | .78709 | .78293 | .77880 | .77470 | .77063 | .76659 | .76258 | .75860
98 | .80498 | .80091 | .79687 | .79286 | .78888 | .78492 | .78099 | .77709 | .77322 | .76937
99 | .81428 | .81036 | .80647 | .80261 | .79877 | .79496 | .79117 | .78741 | .78367 | .77995
100 | .82336 | .81959 | .81586 | .81214 | .80845 | .80478 | .80113 | .79751 | .79390 | .79032
101 | .83234 | .82873 | .82515 | .82158 | .81804 | .81451 | .81101 | .80753 | .80406 | .80062
102 | .84119 | .83774 | .83431 | .83089 | .82750 | .82412 | .82076 | .81742 | .81409 | .81078
103 | .84999 | .84670 | .84342 | .84016 | .83691 | .83368 | .83046 | .82726 | .82408 | .82091
104 | .85944 | .85632 | .85321 | .85011 | .84703 | .84396 | .84090 | .83786 | .83483 | .83182
105 | .86866 | .86570 | .86276 | .85982 | .85690 | .85399 | .85109 | .84820 | .84532 | .84245
106 | .88065 | .87792 | .87520 | .87248 | .86978 | .86708 | .86440 | .86172 | .85905 | .85638
107 | .89530 | .89286 | .89042 | .88799 | .88557 | .88315 | .88073 | .87833 | .87592 | .87352
108 | .91849 | .91654 | .91460 | .91266 | .91072 | .90879 | .90685 | .90492 | .90299 | .90106
109 | .95900 | .95800 | .95700 | .95600 | .95500 | .95400 | .95300 | .95200 | .95100 | .95000

Age | 10.2% | 10.4% | 10.6% | 10.8% | 11.0% | 11.2% | 11.4% | 11.6% | 11.8% | 12.0%
0 | .01363 | .01342 | .01323 | .01305 | .01288 | .01272 | .01258 | .01244 | .01231 | .01219
1 | .00534 | .00512 | .00493 | .00474 | .00458 | .00442 | .00427 | .00414 | .00401 | .00389
2 | .00518 | .00495 | .00474 | .00455 | .00437 | .00421 | .00405 | .00391 | .00377 | .00365
3 | .00526 | .00502 | .00480 | .00459 | .00440 | .00422 | .00406 | .00391 | .00376 | .00363
4 | .00546 | .00521 | .00497 | .00475 | .00455 | .00436 | .00419 | .00402 | .00387 | .00373
5 | .00576 | .00549 | .00524 | .00501 | .00479 | .00459 | .00440 | .00423 | .00406 | .00391
6 | .00613 | .00584 | .00557 | .00532 | .00509 | .00488 | .00468 | .00449 | .00432 | .00415
7 | .00657 | .00626 | .00598 | .00571 | .00547 | .00524 | .00502 | .00482 | .00464 | .00446
8 | .00707 | .00675 | .00644 | .00616 | .00590 | .00565 | .00542 | .00521 | .00501 | .00482
9 | .00766 | .00732 | .00699 | .00669 | .00641 | .00615 | .00591 | .00568 | .00547 | .00527
10 | .00835 | .00798 | .00764 | .00732 | .00702 | .00675 | .00649 | .00624 | .00602 | .00580
11 | .00913 | .00874 | .00838 | .00804 | .00772 | .00743 | .00715 | .00689 | .00665 | .00642
12 | .01000 | .00959 | .00920 | .00884 | .00851 | .00819 | .00790 | .00762 | .00737 | .00712
13 | .01091 | .01048 | .01007 | .00969 | .00933 | .00900 | .00869 | .00840 | .00813 | .00787
14 | .01181 | .01135 | .01092 | .01052 | .01014 | .00979 | .00947 | .00916 | .00887 | .00860
15 | .01267 | .01218 | .01173 | .01130 | .01091 | .01054 | .01019 | .00987 | .00956 | .00928
16 | .01345 | .01294 | .01246 | .01201 | .01160 | .01121 | .01084 | .01050 | .01018 | .00988
17 | .01418 | .01364 | .01313 | .01266 | .01222 | .01181 | .01143 | .01107 | .01073 | .01041
18 | .01486 | .01429 | .01375 | .01326 | .01279 | .01236 | .01196 | .01158 | .01122 | .01088
19 | .01554 | .01494 | .01438 | .01385 | .01336 | .01291 | .01248 | .01208 | .01170 | .01135
20 | .01626 | .01562 | .01503 | .01448 | .01396 | .01348 | .01303 | .01260 | .01220 | .01183
21 | .01702 | .01635 | .01573 | .01514 | .01460 | .01409 | .01361 | .01316 | .01274 | .01235
22 | .01782 | .01711 | .01645 | .01584 | .01526 | .01472 | .01422 | .01374 | .01330 | .01288
23 | .01868 | .01793 | .01724 | .01658 | .01597 | .01540 | .01487 | .01437 | .01390 | .01345
24 | .01962 | .01883 | .01809 | .01740 | .01675 | .01615 | .01558 | .01505 | .01455 | .01408
25 | .02065 | .01981 | .01903 | .01830 | .01762 | .01698 | .01638 | .01581 | .01528 | .01478
26 | .02178 | .02089 | .02006 | .01929 | .01856 | .01789 | .01725 | .01665 | .01609 | .01556
27 | .02303 | .02209 | .02122 | .02040 | .01963 | .01891 | .01824 | .01760 | .01700 | .01644
28 | .02439 | .02339 | .02247 | .02160 | .02079 | .02002 | .01931 | .01863 | .01800 | .01740
29 | .02585 | .02480 | .02382 | .02290 | .02204 | .02123 | .02047 | .01976 | .01908 | .01845
30 | .02742 | .02631 | .02527 | .02430 | .02339 | .02253 | .02172 | .02096 | .02025 | .01957
31 | .02910 | .02793 | .02683 | .02579 | .02482 | .02391 | .02306 | .02225 | .02149 | .02077
32 | .03089 | .02965 | .02849 | .02739 | .02636 | .02540 | .02449 | .02363 | .02282 | .02206
33 | .03282 | .03151 | .03028 | .02912 | .02803 | .02701 | .02604 | .02513 | .02427 | .02346
34 | .03489 | .03350 | .03220 | .03097 | .02982 | .02873 | .02771 | .02674 | .02583 | .02497
35 | .03713 | .03567 | .03429 | .03299 | .03177 | .03061 | .02953 | .02850 | .02753 | .02661
36 | .03953 | .03798 | .03653 | .03515 | .03386 | .03263 | .03148 | .03039 | .02936 | .02838
37 | .04211 | .04048 | .03894 | .03748 | .03611 | .03481 | .03359 | .03243 | .03134 | .03030
38 | .04490 | .04318 | .04155 | .04001 | .03856 | .03719 | .03589 | .03466 | .03350 | .03239
39 | .04791 | .04609 | .04437 | .04274 | .04120 | .03975 | .03837 | .03707 | .03583 | .03466
40 | .05116 | .04924 | .04742 | .04571 | .04408 | .04254 | .04108 | .03970 | .03839 | .03714
41 | .05469 | .05267 | .05075 | .04894 | .04722 | .04559 | .04405 | .04258 | .04119 | .03987
42 | .05851 | .05638 | .05436 | .05245 | .05063 | .04891 | .04728 | .04573 | .04425 | .04285
43 | .06263 | .06039 | .05827 | .05625 | .05433 | .05252 | .05079 | .04915 | .04759 | .04610
44 | .06707 | .06472 | .06248 | .06035 | .05834 | .05642 | .05459 | .05286 | .05121 | .04963
45 | .07180 | .06933 | .06698 | .06474 | .06262 | .06059 | .05867 | .05684 | .05509 | .05342
46 | .07685 | .07425 | .07178 | .06943 | .06720 | .06507 | .06304 | .06110 | .05926 | .05750
47 | .08218 | .07946 | .07687 | .07440 | .07205 | .06981 | .06768 | .06564 | .06369 | .06183
48 | .08784 | .08499 | .08228 | .07969 | .07722 | .07487 | .07262 | .07047 | .06842 | .06646
49 | .09382 | .09085 | .08801 | .08530 | .08271 | .08024 | .07788 | .07562 | .07346 | .07140
50 | .10018 | .09707 | .09410 | .09127 | .08856 | .08597 | .08349 | .08112 | .07885 | .07667
51 | .10691 | .10367 | .10057 | .09761 | .09477 | .09206 | .08946 | .08697 | .08459 | .08231
52 | .11399 | .11061 | .10738 | .10429 | .10132 | .09849 | .09577 | .09316 | .09066 | .08826
53 | .12142 | .11791 | .11454 | .11132 | .10823 | .10526 | .10242 | .09969 | .09707 | .09456
54 | .12921 | .12556 | .12206 | .11870 | .11548 | .11239 | .10942 | .10657 | .10383 | .10120
55 | .13738 | .13359 | .12995 | .12646 | .12311 | .11989 | .11679 | .11382 | .11096 | .10820
56 | .14595 | .14202 | .13824 | .13462 | .13113 | .12778 | .12456 | .12146 | .11847 | .11560
57 | .15491 | .15084 | .14693 | .14317 | .13955 | .13607 | .13272 | .12949 | .12638 | .12338
58 | .16424 | .16004 | .15599 | .15209 | .14834 | .14473 | .14125 | .13789 | .13465 | .13153
59 | .17390 | .16955 | .16537 | .16134 | .15746 | .15371 | .15010 | .14662 | .14325 | .14001
60 | .18387 | .17939 | .17507 | .17091 | .16689 | .16302 | .15927 | .15566 | .15217 | .14880
61 | .19420 | .18958 | .18513 | .18084 | .17669 | .17268 | .16881 | .16506 | .16145 | .15795
62 | .20494 | .20020 | .19561 | .19119 | .18691 | .18277 | .17877 | .17490 | .17115 | .16753
63 | .21613 | .21126 | .20654 | .20199 | .19758 | .19331 | .18918 | .18518 | .18131 | .17757
64 | .22774 | .22274 | .21791 | .21322 | .20869 | .20429 | .20004 | .19592 | .19192 | .18805
65 | .23979 | .23467 | .22971 | .22490 | .22025 | .21573 | .21135 | .20710 | .20299 | .19899
66 | .25233 | .24709 | .24202 | .23709 | .23231 | .22767 | .22318 | .21881 | .21457 | .21045
67 | .26543 | .26009 | .25489 | .24985 | .24496 | .24021 | .23560 | .23111 | .22676 | .22252
68 | .27908 | .27363 | .26833 | .26319 | .25819 | .25332 | .24860 | .24400 | .23954 | .23519
69 | .29324 | .28769 | .28230 | .27705 | .27195 | .26699 | .26216 | .25746 | .25288 | .24843
70 | .30783 | .30219 | .29671 | .29137 | .28618 | .28112 | .27619 | .27139 | .26672 | .26216
71 | .32277 | .31706 | .31150 | .30608 | .30079 | .29564 | .29063 | .28573 | .28096 | .27631
72 | .33803 | .33225 | .32661 | .32112 | .31575 | .31052 | .30542 | .30044 | .29559 | .29084
73 | .35356 | .34772 | .34201 | .33645 | .33101 | .32571 | .32053 | .31547 | .31053 | .30571
74 | .36943 | .36354 | .35778 | .35215 | .34666 | .34129 | .33604 | .33091 | .32590 | .32100
75 | .38574 | .37980 | .37400 | .36833 | .36278 | .35735 | .35205 | .34686 | .34178 | .33681
76 | .40256 | .39660 | .39076 | .38505 | .37947 | .37400 | .36864 | .36340 | .35827 | .35324
77 | .41991 | .41394 | .40808 | .40235 | .39674 | .39124 | .38585 | .38056 | .37539 | .37032
78 | .43777 | .43180 | .42594 | .42020 | .41457 | .40906 | .40365 | .39834 | .39314 | .38803
79 | .45602 | .45007 | .44422 | .43849 | .43287 | .42735 | .42193 | .41661 | .41139 | .40627
80 | .47449 | .46856 | .46275 | .45704 | .45143 | .44592 | .44051 | .43519 | .42997 | .42484
81 | .49300 | .48712 | .48134 | .47566 | .47008 | .46460 | .45921 | .45391 | .44870 | .44357
82 | .51145 | .50563 | .49990 | .49427 | .48873 | .48328 | .47792 | .47265 | .46746 | .46235
83 | .52983 | .52407 | .51841 | .51284 | .50735 | .50195 | .49663 | .49139 | .48624 | .48116
84 | .54828 | .54261 | .53702 | .53151 | .52609 | .52075 | .51549 | .51030 | .50519 | .50015
85 | .56693 | .56135 | .55586 | .55044 | .54510 | .53983 | .53464 | .52952 | .52447 | .51949
86 | .58560 | .58013 | .57474 | .56943 | .56418 | .55901 | .55390 | .54886 | .54389 | .53898
87 | .60398 | .59864 | .59337 | .58817 | .58303 | .57795 | .57294 | .56799 | .56310 | .55828
88 | .62206 | .61685 | .61170 | .60662 | .60159 | .59663 | .59173 | .58688 | .58209 | .57736
89 | .63980 | .63474 | .62972 | .62477 | .61987 | .61503 | .61024 | .60551 | .60083 | .59620
90 | .65719 | .65227 | .64741 | .64259 | .63783 | .63312 | .62846 | .62385 | .61928 | .61477
91 | .67388 | .66912 | .66440 | .65973 | .65511 | .65053 | .64600 | .64152 | .63708 | .63269
92 | .68949 | .68487 | .68030 | .67577 | .67129 | .66685 | .66245 | .65809 | .65378 | .64950
93 | .70401 | .69954 | .69511 | .69072 | .68637 | .68205 | .67778 | .67355 | .66935 | .66519
94 | .71765 | .71332 | .70902 | .70477 | .70055 | .69636 | .69222 | .68810 | .68403 | .67998
95 | .73072 | .72653 | .72237 | .71825 | .71416 | .71010 | .70608 | .70209 | .69813 | .69421
96 | .74311 | .73906 | .73504 | .73105 | .72709 | .72316 | .71926 | .71539 | .71155 | .70774
97 | .75465 | .75073 | .74684 | .74297 | .73914 | .73533 | .73155 | .72780 | .72407 | .72037
98 | .76555 | .76175 | .75798 | .75424 | .75052 | .74683 | .74317 | .73953 | .73591 | .73232
99 | .77626 | .77260 | .76895 | .76534 | .76174 | .75817 | .75462 | .75109 | .74759 | .74411
100 | .78676 | .78323 | .77971 | .77622 | .77274 | .76929 | .76586 | .76245 | .75906 | .75569
101 | .79719 | .79379 | .79040 | .78703 | .78368 | .78035 | .77704 | .77375 | .77048 | .76722
102 | .80749 | .80422 | .80096 | .79772 | .79450 | .79130 | .78811 | .78494 | .78178 | .77864
103 | .81775 | .81461 | .81149 | .80838 | .80529 | .80221 | .79914 | .79609 | .79306 | .79003
104 | .82881 | .82582 | .82284 | .81988 | .81693 | .81399 | .81106 | .80815 | .80525 | .80236
105 | .83959 | .83674 | .83391 | .83108 | .82826 | .82546 | .82267 | .81988 | .81711 | .81435
106 | .85373 | .85108 | .84844 | .84581 | .84319 | .84058 | .83797 | .83537 | .83278 | .83020
107 | .87113 | .86875 | .86636 | .86399 | .86161 | .85925 | .85689 | .85453 | .85218 | .84984
108 | .89913 | .89721 | .89529 | .89337 | .89145 | .88953 | .88762 | .88571 | .88380 | .88189
109 | .94900 | .94800 | .94700 | .94600 | .94500 | .94400 | .94300 | .94200 | .94100 | .94000

Age | 12.2% | 12.4% | 12.6% | 12.8% | 13.0% | 13.2% | 13.4% | 13.6% | 13.8% | 14.0%
0 | .01208 | .01197 | .01187 | .01177 | .01168 | .01159 | .01151 | .01143 | .01135 | .01128
1 | .00378 | .00367 | .00358 | .00348 | .00340 | .00331 | .00323 | .00316 | .00309 | .00302
2 | .00353 | .00342 | .00331 | .00322 | .00312 | .00304 | .00295 | .00288 | .00280 | .00273
3 | .00350 | .00339 | .00327 | .00317 | .00307 | .00298 | .00289 | .00281 | .00273 | .00265
4 | .00359 | .00347 | .00335 | .00324 | .00313 | .00303 | .00294 | .00285 | .00276 | .00268
5 | .00377 | .00363 | .00351 | .00339 | .00327 | .00317 | .00306 | .00297 | .00288 | .00279
6 | .00400 | .00386 | .00372 | .00359 | .00347 | .00335 | .00325 | .00314 | .00305 | .00295
7 | .00430 | .00414 | .00400 | .00386 | .00373 | .00360 | .00349 | .00338 | .00327 | .00317
8 | .00465 | .00448 | .00432 | .00417 | .00403 | .00390 | .00378 | .00366 | .00354 | .00344
9 | .00508 | .00490 | .00473 | .00457 | .00442 | .00428 | .00414 | .00402 | .00389 | .00378
10 | .00560 | .00541 | .00523 | .00506 | .00490 | .00475 | .00460 | .00446 | .00433 | .00421
11 | .00620 | .00600 | .00581 | .00563 | .00546 | .00529 | .00514 | .00499 | .00485 | .00472
12 | .00689 | .00668 | .00647 | .00628 | .00610 | .00593 | .00576 | .00560 | .00545 | .00531
13 | .00763 | .00740 | .00718 | .00698 | .00678 | .00660 | .00642 | .00626 | .00610 | .00595
14 | .00834 | .00810 | .00787 | .00766 | .00745 | .00726 | .00707 | .00689 | .00673 | .00657
15 | .00901 | .00875 | .00851 | .00828 | .00807 | .00786 | .00767 | .00748 | .00730 | .00714
16 | .00959 | .00932 | .00907 | .00883 | .00860 | .00839 | .00818 | .00799 | .00780 | .00762
17 | .01011 | .00983 | .00956 | .00930 | .00907 | .00884 | .00862 | .00842 | .00822 | .00804
18 | .01057 | .01027 | .00999 | .00972 | .00947 | .00923 | .00900 | .00879 | .00858 | .00839
19 | .01101 | .01070 | .01040 | .01012 | .00985 | .00960 | .00936 | .00914 | .00892 | .00871
20 | .01148 | .01115 | .01083 | .01054 | .01026 | .00999 | .00974 | .00950 | .00927 | .00905
21 | .01197 | .01162 | .01129 | .01098 | .01068 | .01040 | .01014 | .00988 | .00964 | .00941
22 | .01249 | .01211 | .01176 | .01143 | .01112 | .01082 | .01054 | .01027 | .01002 | .00978
23 | .01304 | .01264 | .01227 | .01192 | .01159 | .01127 | .01098 | .01069 | .01042 | .01017
24 | .01364 | .01322 | .01283 | .01246 | .01210 | .01177 | .01145 | .01115 | .01087 | .01060
25 | .01431 | .01387 | .01345 | .01306 | .01268 | .01233 | .01199 | .01168 | .01137 | .01109
26 | .01506 | .01459 | .01415 | .01373 | .01333 | .01295 | .01260 | .01226 | .01194 | .01163
27 | .01591 | .01541 | .01494 | .01449 | .01407 | .01367 | .01329 | .01293 | .01259 | .01226
28 | .01684 | .01631 | .01580 | .01533 | .01488 | .01445 | .01405 | .01367 | .01330 | .01296
29 | .01785 | .01728 | .01675 | .01624 | .01577 | .01531 | .01488 | .01447 | .01408 | .01372
30 | .01893 | .01833 | .01776 | .01723 | .01672 | .01623 | .01578 | .01534 | .01493 | .01453
31 | .02010 | .01946 | .01885 | .01828 | .01773 | .01722 | .01673 | .01627 | .01582 | .01540
32 | .02134 | .02066 | .02002 | .01940 | .01883 | .01828 | .01776 | .01726 | .01679 | .01634
33 | .02270 | .02197 | .02128 | .02063 | .02002 | .01943 | .01887 | .01835 | .01784 | .01736
34 | .02415 | .02338 | .02265 | .02195 | .02130 | .02067 | .02008 | .01951 | .01897 | .01846
35 | .02574 | .02492 | .02414 | .02340 | .02270 | .02203 | .02140 | .02080 | .02022 | .01967
36 | .02746 | .02658 | .02575 | .02496 | .02422 | .02350 | .02283 | .02218 | .02157 | .02098
37 | .02932 | .02838 | .02750 | .02666 | .02586 | .02510 | .02438 | .02369 | .02303 | .02241
38 | .03135 | .03035 | .02941 | .02851 | .02766 | .02685 | .02608 | .02534 | .02464 | .02397
39 | .03355 | .03249 | .03149 | .03053 | .02962 | .02876 | .02793 | .02715 | .02640 | .02568
40 | .03596 | .03484 | .03377 | .03275 | .03178 | .03086 | .02998 | .02914 | .02833 | .02757
41 | .03861 | .03742 | .03628 | .03520 | .03416 | .03318 | .03224 | .03134 | .03048 | .02966
42 | .04152 | .04025 | .03903 | .03788 | .03678 | .03573 | .03473 | .03377 | .03285 | .03198
43 | .04468 | .04333 | .04205 | .04082 | .03965 | .03853 | .03746 | .03644 | .03546 | .03453
44 | .04813 | .04670 | .04533 | .04403 | .04278 | .04159 | .04045 | .03936 | .03832 | .03732
45 | .05183 | .05032 | .04887 | .04748 | .04616 | .04489 | .04368 | .04252 | .04141 | .04034
46 | .05582 | .05421 | .05267 | .05121 | .04980 | .04846 | .04717 | .04593 | .04475 | .04362
47 | .06006 | .05836 | .05673 | .05518 | .05369 | .05226 | .05089 | .04958 | .04832 | .04711
48 | .06459 | .06279 | .06107 | .05943 | .05785 | .05634 | .05488 | .05349 | .05216 | .05087
49 | .06942 | .06752 | .06571 | .06397 | .06230 | .06070 | .05916 | .05768 | .05626 | .05490
50 | .07459 | .07259 | .07068 | .06884 | .06708 | .06538 | .06376 | .06219 | .06069 | .05924
51 | .08012 | .07801 | .07599 | .07406 | .07220 | .07041 | .06869 | .06703 | .06544 | .06391
52 | .08596 | .08375 | .08163 | .07959 | .07763 | .07574 | .07392 | .07218 | .07049 | .06887
53 | .09214 | .08982 | .08759 | .08544 | .08338 | .08139 | .07948 | .07763 | .07586 | .07415
54 | .09867 | .09623 | .09389 | .09164 | .08946 | .08737 | .08536 | .08342 | .08154 | .07974
55 | .10556 | .10301 | .10055 | .09819 | .09591 | .09371 | .09159 | .08955 | .08757 | .08567
56 | .11283 | .11016 | .10759 | .10511 | .10272 | .10042 | .09819 | .09605 | .09397 | .09197
57 | .12050 | .11771 | .11502 | .11243 | .10993 | .10751 | .10518 | .10293 | .10075 | .09864
58 | .12852 | .12562 | .12281 | .12011 | .11749 | .11496 | .11252 | .11016 | .10787 | .10567
59 | .13687 | .13385 | .13092 | .12810 | .12537 | .12273 | .12017 | .11770 | .11531 | .11299
60 | .14554 | .14240 | .13935 | .13641 | .13356 | .13080 | .12813 | .12555 | .12305 | .12063
61 | .15457 | .15130 | .14813 | .14507 | .14210 | .13923 | .13644 | .13375 | .13113 | .12860
62 | .16402 | .16063 | .15734 | .15415 | .15107 | .14808 | .14518 | .14237 | .13964 | .13699
63 | .17393 | .17042 | .16700 | .16370 | .16049 | .15738 | .15437 | .15144 | .14860 | .14584
64 | .18429 | .18065 | .17712 | .17369 | .17036 | .16714 | .16400 | .16096 | .15800 | .15513
65 | .19511 | .19135 | .18769 | .18415 | .18070 | .17735 | .17410 | .17094 | .16787 | .16488
66 | .20645 | .20257 | .19880 | .19513 | .19157 | .18810 | .18473 | .18146 | .17827 | .17517
67 | .21841 | .21441 | .21052 | .20673 | .20305 | .19947 | .19599 | .19259 | .18929 | .18608
68 | .23096 | .22685 | .22284 | .21895 | .21515 | .21146 | .20786 | .20436 | .20094 | .19762
69 | .24409 | .23987 | .23575 | .23175 | .22784 | .22404 | .22033 | .21672 | .21320 | .20976
70 | .25772 | .25339 | .24918 | .24507 | .24106 | .23715 | .23333 | .22961 | .22598 | .22244
71 | .27178 | .26735 | .26304 | .25882 | .25471 | .25070 | .24679 | .24296 | .23923 | .23559
72 | .28622 | .28170 | .27729 | .27298 | .26877 | .26467 | .26065 | .25673 | .25290 | .24915
73 | .30100 | .29639 | .29189 | .28749 | .28320 | .27899 | .27489 | .27087 | .26694 | .26310
74 | .31621 | .31152 | .30694 | .30246 | .29807 | .29378 | .28959 | .28548 | .28146 | .27753
75 | .33195 | .32719 | .32253 | .31797 | .31351 | .30914 | .30486 | .30067 | .29657 | .29255
76 | .34832 | .34350 | .33877 | .33415 | .32961 | .32517 | .32082 | .31656 | .31238 | .30828
77 | .36535 | .36047 | .35570 | .35101 | .34642 | .34192 | .33750 | .33317 | .32892 | .32475
78 | .38302 | .37811 | .37329 | .36856 | .36392 | .35937 | .35490 | .35051 | .34621 | .34198
79 | .40124 | .39630 | .39145 | .38669 | .38201 | .37742 | .37291 | .36848 | .36413 | .35985
80 | .41980 | .41485 | .40998 | .40520 | .40050 | .39588 | .39134 | .38688 | .38249 | .37818
81 | .43854 | .43358 | .42871 | .42392 | .41921 | .41457 | .41001 | .40553 | .40112 | .39678
82 | .45733 | .45238 | .44752 | .44273 | .43802 | .43338 | .42881 | .42431 | .41989 | .41553
83 | .47616 | .47123 | .46638 | .46161 | .45690 | .45227 | .44770 | .44320 | .43877 | .43441
84 | .49519 | .49030 | .48548 | .48073 | .47604 | .47143 | .46688 | .46239 | .45797 | .45361
85 | .51458 | .50974 | .50496 | .50025 | .49560 | .49102 | .48650 | .48204 | .47763 | .47329
86 | .53413 | .52935 | .52463 | .51998 | .51538 | .51084 | .50636 | .50194 | .49758 | .49327
87 | .55351 | .54881 | .54416 | .53957 | .53503 | .53055 | .52613 | .52176 | .51744 | .51317
88 | .57268 | .56806 | .56349 | .55898 | .55451 | .55010 | .54574 | .54144 | .53718 | .53296
89 | .59162 | .58710 | .58262 | .57819 | .57382 | .56949 | .56520 | .56097 | .55678 | .55263
90 | .61030 | .60588 | .60151 | .59718 | .59290 | .58866 | .58447 | .58032 | .57621 | .57214
91 | .62834 | .62403 | .61977 | .61554 | .61136 | .60722 | .60312 | .59907 | .59505 | .59107
92 | .64527 | .64107 | .63692 | .63280 | .62872 | .62468 | .62068 | .61672 | .61279 | .60890
93 | .66107 | .65699 | .65294 | .64893 | .64495 | .64101 | .63711 | .63323 | .62940 | .62559
94 | .67597 | .67200 | .66806 | .66415 | .66027 | .65643 | .65262 | .64884 | .64509 | .64138
95 | .69031 | .68645 | .68262 | .67881 | .67504 | .67130 | .66759 | .66390 | .66025 | .65662
96 | .70396 | .70021 | .69648 | .69279 | .68912 | .68548 | .68186 | .67828 | .67471 | .67118
97 | .71670 | .71305 | .70943 | .70584 | .70227 | .69872 | .69520 | .69171 | .68824 | .68480
98 | .72875 | .72521 | .72169 | .71819 | .71472 | .71127 | .70784 | .70444 | .70106 | .69770
99 | .74065 | .73721 | .73379 | .73040 | .72703 | .72368 | .72035 | .71704 | .71375 | .71048
100 | .75234 | .74901 | .74570 | .74241 | .73914 | .73589 | .73265 | .72944 | .72625 | .72307
101 | .76399 | .76077 | .75757 | .75438 | .75122 | .74807 | .74494 | .74183 | .73873 | .73565
102 | .77552 | .77241 | .76932 | .76625 | .76319 | .76015 | .75712 | .75411 | .75111 | .74813
103 | .78703 | .78404 | .78106 | .77809 | .77514 | .77221 | .76929 | .76638 | .76348 | .76060
104 | .79948 | .79662 | .79377 | .79093 | .78810 | .78528 | .78248 | .77969 | .77691 | .77414
105 | .81159 | .80885 | .80612 | .80340 | .80069 | .79799 | .79530 | .79262 | .78995 | .78729
106 | .82763 | .82506 | .82250 | .81995 | .81741 | .81488 | .81235 | .80983 | .80732 | .80482
107 | .84749 | .84516 | .84283 | .84051 | .83819 | .83587 | .83356 | .83126 | .82896 | .82666
108 | .87999 | .87808 | .87618 | .87428 | .87238 | .87049 | .86859 | .86670 | .86481 | .86293
109 | .93900 | .93800 | .93700 | .93600 | .93500 | .93400 | .93300 | .93200 | .93100 | .93000

(f) Effective dates. This section applies after April 30, 1999.

§ 1.664-4T [Removed]

Par. 8. Section 1.664-4T is removed.

Par. 9. Section 1.7520-1 is amended by:

1. Revising paragraph (b)(2).

2. Revising paragraphs (c)(1) and (c)(2).

3. Revising paragraph (d).

The revisions read as follows:

§ 1.7520-1 Valuation of annuities, unitrust interests, interests for life or terms of years, and remainder or reversionary interests.

* * * * *

(b) * * *

(2) Mortality component. The mortality component reflects the mortality data most recently available from the United States census. As new mortality data becomes available after each decennial census, the mortality component described in this section will be revised periodically and the revised mortality component tables will be published in the regulations at that time. For transactions with valuation dates after April 30, 1999, the mortality component table (Table 90CM) is contained in § 20.2031-7(d)(7) of this chapter. See § 20.2031-7A of this chapter for mortality component tables applicable to transactions for which the valuation date falls before May 1, 1999.

(c) * * *

(1) Regulation sections containing tables with interest rates between 4.2 and 14 percent for valuation dates after April 30, 1999. Section 1.642(c)-6(e)(6) contains Table S used for determining the present value of a single life remainder interest in a pooled income fund as defined in § 1.642(c)-5. See § 1.642(c)-6A for actuarial factors for one life applicable to valuation dates before May 1, 1999. Section 1.664-4(e)(6) contains Table F (payout factors) and Table D (actuarial factors used in determining the present value of a remainder interest postponed for a term of years). Section 1.664-4(e)(7) contains Table U(1) (unitrust single life remainder factors). These tables are used in determining the present value of a remainder interest in a charitable remainder unitrust as defined in § 1.664-3. See § 1.664-4A for unitrust single life remainder factors applicable to valuation dates before May 1, 1999. Section 20.2031-7(d)(6) of this chapter contains Table B (actuarial factors used in determining the present value of an interest for a term of years), Table K (annuity end-of-interval adjustment factors), and Table J (term certain annuity beginning-of-interval adjustment factors). Section 20.2031-7(d)(7) of this chapter contains Table S (single life remainder factors), and Table 90CM (mortality components). These tables are used in determining the present value of annuities, life estates, remainders, and reversions. See § 20.2031-7A of this chapter for single life remainder factors and mortality components applicable to valuation dates before May 1, 1999.

(2) Internal Revenue Service publications containing tables with interest rates between 2.2 and 22 percent for valuation dates after April 30, 1999. The following documents are available for purchase from the Superintendent of Documents, United States Government Printing Office, Washington, DC 20402:

(i) Internal Revenue Service Publication 1457, “Actuarial Values, Book Aleph,” (7-1999). This publication includes tables of valuation factors, as well as examples that show how to compute other valuation factors, for determining the present value of annuities, life estates, terms of years, remainders, and reversions, measured by one or two lives. These factors may also be used in the valuation of interests in a charitable remainder annuity trust as defined in § 1.664-2 and a pooled income fund as defined in § 1.642(c)-5. See § 20.2031-7A of this chapter for publications containing tables for valuation dates before May 1, 1999.

(ii) Internal Revenue Service Publication 1458, “Actuarial Values, Book Beth,” (7-1999). This publication includes term certain tables and tables of one and two life valuation factors for determining the present value of remainder interests in a charitable remainder unitrust as defined in § 1.664-3. See § 1.664-4A for publications containing tables for valuation dates before May 1, 1999.

(iii) Internal Revenue Service Publication 1459, “Actuarial Values, Book Gimel,” (7-1999). This publication includes tables for computing depreciation adjustment factors. See § 1.170A-12.

(d) Effective date. This section applies after April 30, 1989.

§ 1.7520-1T [Removed]

Par. 10. Section 1.7520-1T is removed.

PART 20—ESTATE TAX; ESTATES OF DECEDENTS DYING AFTER AUGUST 16, 1954

Par. 11. The authority citation for part 20 is amended by removing entries for sections 20.2031-7T and 20.7520-1T to read in part as follows:

Authority: 26 U.S.C. 7805 * * *

§ 20.2031-0 [Amended]

Par. 12. Section 20.2031-0 is amended by removing the entry for § 20.2031-7T from the contents listing.

Par. 13. Section 20.2031-7 is amended by:

1. Removing existing paragraphs (c) through (d)(5).

2. Adding paragraphs (c), (d) heading, and (d)(1) through (d)(5).

3. Revising the introductory text of paragraph (d)(6).

4. Adding paragraph (d)(7).

5. Revising paragraph (e).

The revisions and additions read as follows:

§ 20.2031-7 Valuation of annuities, interests for life or term of years, and remainder or reversionary interests.

* * * * *

(c) Actuarial valuations. The present value of annuities, life estates, terms of years, remainders, and reversions for estates of decedents for which the valuation date of the gross estate is after April 30, 1999, is determined under paragraph (d) of this section. The present value of annuities, life estates, terms of years, remainders, and reversions for estates of decedents for which the valuation date of the gross estate is before May 1, 1999, is determined under the following sections:

Valuation date: After | Valuation date: Before | Applicable regulations
| 01-01-52 | 20.2031-7A(a)
12-31-51 | 01-01-71 | 20.2031-7A(b)
12-31-70 | 12-01-83 | 20.2031-7A(c)
11-30-83 | 05-01-89 | 20.2031-7A(d)
04-30-89 | 05-01-99 | 20.2031-7A(e)

(d) Actuarial valuations after April 30, 1999—(1) In general. Except as otherwise provided in paragraph (b) of this section and § 20.7520-3(b) (pertaining to certain limitations on the use of prescribed tables), if the valuation date for the gross estate of the decedent is after April 30, 1999, the fair market value of annuities, life estates, terms of years, remainders, and reversionary interests is the present value determined by use of standard or special section 7520 actuarial factors. These factors are derived by using the appropriate section 7520 interest rate and, if applicable, the mortality component for the valuation date of the interest that is being valued. For purposes of the computations described in this section, the age of an individual is the age of that individual at the individual's nearest birthday. See §§ 20.7520-1 through 20.7520-4.

(2) Specific interests—(i) Charitable remainder trusts. The fair market value of a remainder interest in a pooled income fund, as defined in § 1.642(c)-5 of this chapter, is its value determined under § 1.642(c)-6(e) of this chapter. The fair market value of a remainder interest in a charitable remainder annuity trust, as defined in § 1.664-2(a) of this chapter, is the present value determined under § 1.664-2(c) of this chapter. The fair market value of a remainder interest in a charitable remainder unitrust, as defined in § 1.664-3 of this chapter, is its present value determined under § 1.664-4(e) of this chapter. The fair market value of a life interest or term of years in a charitable remainder unitrust is the fair market value of the property as of the date of valuation less the fair market value of the remainder interest on that date determined under § 1.664-4(e)(4) and (5) of this chapter.

(ii) Ordinary remainder and reversionary interests. If the interest to be valued is to take effect after a definite number of years or after the death of one individual, the present value of the interest is computed by multiplying the value of the property by the appropriate remainder interest actuarial factor (that corresponds to the applicable section 7520 interest rate and remainder interest period) in Table B (for a term certain) or the appropriate Table S (for one measuring life), as the case may be. Table B is contained in paragraph (d)(6) of this section and Table S (for one measuring life when the valuation date is after April 30, 1999) is contained in paragraph (d)(7) of this section and in Internal Revenue Service Publication 1457. For information about obtaining actuarial factors for other types of remainder interests, see paragraph (d)(4) of this section.

(iii) Ordinary term-of-years and life interests. If the interest to be valued is the right of a person to receive the income of certain property, or to use certain nonincome-producing property, for a term of years or for the life of one individual, the present value of the interest is computed by multiplying the value of the property by the appropriate term-of-years or life interest actuarial factor (that corresponds to the applicable section 7520 interest rate and term-of-years or life interest period). Internal Revenue Service Publication 1457 includes actuarial factors for an interest for a term of years in Table B and for the life of one individual in Table S (for one measuring life when the valuation date is after April 30, 1999). However, term-of-years and life interest actuarial factors are not included in Table B in paragraph (d)(6) of this section or Table S in paragraph (d)(7) of this section. If Internal Revenue Service Publication 1457 (or any other reliable source of term-of-years and life interest actuarial factors) is not conveniently available, an actuarial factor for the interest may be derived mathematically. This actuarial factor may be derived by subtracting the correlative remainder factor (that corresponds to the applicable section 7520 interest rate and the term of years or the life) in Table B (for a term of years) in paragraph (d)(6) of this section or in Table S (for the life of one individual) in paragraph (d)(7) of this section, as the case may be, from 1.000000. For information about obtaining actuarial factors for other types of term-of-years and life interests, see paragraph (d)(4) of this section.

(iv) Annuities. (A) If the interest to be valued is the right of a person to receive an annuity that is payable at the end of each year for a term of years or for the life of one individual, the present value of the interest is computed by multiplying the aggregate amount payable annually by the appropriate annuity actuarial factor (that corresponds to the applicable section 7520 interest rate and annuity period). Internal Revenue Publication 1457 includes actuarial factors in Table B (for an annuity payable for a term of years) and in Table S (for an annuity payable for the life of one individual when the valuation date is after April 30, 1999). However, annuity actuarial factors are not included in Table B in paragraph (d)(6) of this section or Table S in paragraph (d)(7) of this section. If Internal Revenue Service Publication 1457 (or any other reliable source of annuity actuarial factors) is not conveniently available, a required annuity factor for a term of years or for one life may be mathematically derived. This annuity factor may be derived by subtracting the applicable remainder factor (that corresponds to the applicable section 7520 interest rate and annuity period) in Table B (in the case of a term-of-years annuity) in paragraph (d)(6) of this section or in Table S (in the case of a one-life annuity when the valuation date is after April 30, 1999) in paragraph (d)(7) of this section, as the case may be, from 1.000000 and then dividing the result by the applicable section 7520 interest rate expressed as a decimal number.

(B) If the annuity is payable at the end of semiannual, quarterly, monthly, or weekly periods, the product obtained by multiplying the annuity factor by the aggregate amount payable annually is then multiplied by the applicable adjustment factor as contained in Table K in paragraph (d)(6) of this section for payments made at the end of the specified periods. The provisions of this paragraph (d)(2)(iv)(B) are illustrated by the following example:

Example. At the time of the decedent's death, the survivor/annuitant, age 72, is entitled to receive an annuity of $15,000 a year for life payable in equal monthly installments at the end of each period. The section 7520 rate for the month in which the decedent died is 9.6 percent. Under Table S in paragraph (d)(7) of this section, the remainder factor at 9.6 percent for an individual aged 72 is .38438. By converting the remainder factor to an annuity factor, as described above, the annuity factor at 9.6 percent for an individual aged 72 is 6.4127 (1.00000 minus .38438, divided by .096). Under Table K in paragraph (d)(6) of this section, the adjustment factor under the column for payments made at the end of each monthly period at the rate of 9.6 percent is 1.0433. The aggregate annual amount, $15,000, is multiplied by the factor 6.4127 and the product multiplied by 1.0433. The present value of the annuity at the date of the decedent's death is, therefore, $100,355.55 ($15,000 × 6.4127 × 1.0433).

(C) If an annuity is payable at the beginning of annual, semiannual, quarterly, monthly, or weekly periods for a term of years, the value of the annuity is computed by multiplying the aggregate amount payable annually by the annuity factor described in paragraph (d)(2)(iv)(A) of this section; and the product so obtained is then multiplied by the adjustment factor in Table J in paragraph (d)(6) of this section at the appropriate interest rate component for payments made at the beginning of specified periods. If an annuity is payable at the beginning of annual, semiannual, quarterly, monthly, or weekly periods for one or more lives, the value of the annuity is the sum of the first payment plus the present value of a similar annuity, the first payment of which is not to be made until the end of the payment period, determined as provided in this paragraph (d)(2)(iv).

(v) Annuity and unitrust interests for a term of years or until the prior death of an individual. See § 25.2512-5(d)(2)(v) of this chapter for examples explaining how to compute the present value of an annuity or unitrust interest that is payable until the earlier of the lapse of a specific number of years or the death of an individual.

(3) Transitional rule. (i) If a decedent dies after April 30, 1999, and if on May 1, 1999, the decedent was mentally incompetent so that the disposition of the decedent's property could not be changed, and the decedent dies without having regained competency to dispose of the decedent's property or dies within 90 days of the date on which the decedent first regains competency, the fair market value of annuities, life estates, terms for years, remainders, and reversions included in the gross estate of the decedent is their present value determined either under this section or under the corresponding section applicable at the time the decedent became mentally incompetent, at the option of the decedent's executor. For example, see § 20.2031-7A(e)(2).

(ii) If a decedent dies after April 30, 1999, and before July 1, 1999, the fair market value of annuities, life estates, remainders, and reversions based on one or more measuring lives included in the gross estate of the decedent is their present value determined under this section by use of the section 7520 interest rate for the month in which the valuation date occurs (see §§ 20.7520-1(b) and 20.7520-2(a)(2)) and the appropriate actuarial tables under either paragraph (d)(7) of this section or § 20.2031-7A(e)(4), at the option of the decedent's executor.

(iii) For purposes of paragraphs (d)(3)(i) and (ii) of this section, where the decedent's executor is given the option to use the appropriate actuarial tables under either paragraph (d)(7) of this section or § 20.2031-7A(e)(4), the decedent's executor must use the same actuarial table with respect to each individual transaction and with respect to all transfers occurring on the valuation date (for example, gift and income tax charitable deductions with respect to the same transfer must be determined based on the same tables, and all assets includible in the gross estate and/or estate tax deductions claimed must be valued based on the same tables).

(4) Publications and actuarial computations by the Internal Revenue Service. Many standard actuarial factors not included in paragraphs (d)(6) or (d)(7) of this section are included in Internal Revenue Service Publication 1457, “Actuarial Values, Book Aleph,” (7-1999). Publication 1457 also includes examples that illustrate how to compute many special factors for more unusual situations. A copy of this publication is available for purchase from the Superintendent of Documents, United States Government Printing Office, Washington, DC 20402. See § 20.2031-7A for publications containing actuarial factors for valuing interests for which the valuation date is before May 1, 1999. If a special factor is required in the case of an actual decedent, the Internal Revenue Service may furnish the factor to the executor upon a request for a ruling. The request for a ruling must be accompanied by a recitation of the facts including a statement of the date of birth for each measuring life, the date of the decedent's death, any other applicable dates, and a copy of the will, trust, or other relevant documents. A request for a ruling must comply with the instructions for requesting a ruling published periodically in the Internal Revenue Bulletin (see §§ 601.201 and 601.601(d)(2)(ii)(b) of this chapter) and include payment of the required user fee.

(5) Examples. The provisions of this section are illustrated by the following examples:

Example 1. Remainder payable at an individual's death. The decedent, or the decedent's estate, was entitled to receive certain property worth $50,000 upon the death of A, to whom the income was bequeathed for life. At the time of the decedent's death, A was 47 years 5 months old. In the month in which the decedent died, the section 7520 rate was 9.8 percent. Under Table S in paragraph (d)(7) of this section, the remainder factor at 9.8 percent for determining the present value of the remainder interest due at the death of a person aged 47, the number of years nearest A's actual age at the decedent's death, is .10317. The present value of the remainder interest at the date of the decedent's death is, therefore, $5,158.50 ($50,000 × .10317).

Example 2. Income payable for an individual's life. A's parent bequeathed an income interest in property to A for life, with the remainder interest passing to B at A's death. At the time of the parent's death, the value of the property was $50,000 and A was 30 years 10 months old. The section 7520 rate at the time of the parent's death was 10.2 percent. Under Table S in paragraph (d)(7) of this section, the remainder factor at 10.2 percent for determining the present value of the remainder interest due at the death of a person aged 31, the number of years closest to A's age at the decedent's death, is .03583. Converting this remainder factor to an income factor, as described in paragraph (d)(2)(iii) of this section, the factor for determining the present value of an income interest for the life of a person aged 31 is .96417. The present value of A's interest at the time of the parent's death is, therefore, $48,208.50 ($50,000 × .96417).

Example 3. Annuity payable for an individual's life. A purchased an annuity for the benefit of both A and B. Under the terms of the annuity contract, at A's death, a survivor annuity of $10,000 a year payable in equal semiannual installments made at the end of each interval is payable to B for life. At A's death, B was 45 years 7 months old. Also, at A's death, the section 7520 rate was 9.6 percent. Under Table S in paragraph (d)(7) of this section, the factor at 9.6 percent for determining the present value of the remainder interest at the death of a person age 46 (the number of years nearest B's actual age) is .10013. By converting the factor to an annuity factor, as described in paragraph (d)(2)(iv)(A) of this section, the factor for the present value of an annuity payable until the death of a person age 46 is 9.3736 (1.00000 minus .10013, divided by .096). The adjustment factor from Table K in paragraph (d)(6) of this section at an interest rate of 9.6 percent for semiannual annuity payments made at the end of the period is 1.0235. The present value of the annuity at the date of A's death is, therefore, $95,938.80 ($10,000 × 9.3736 × 1.0235).

Example 4. Annuity payable for a term of years. The decedent, or the decedent's estate, was entitled to receive an annuity of $10,000 a year payable in equal quarterly installments at the end of each quarter throughout a term certain. At the time of the decedent's death, the section 7520 rate was 9.8 percent. A quarterly payment had just been made prior to the decedent's death and payments were to continue for 5 more years. Under Table B in paragraph (d)(6) of this section for the interest rate of 9.8 percent, the factor for the present value of a remainder interest due after a term of 5 years is .626597. Converting the factor to an annuity factor, as described in paragraph (d)(2)(iv)(A) of this section, the factor for the present value of an annuity for a term of 5 years is 3.8102. The adjustment factor from Table K in paragraph (d)(6) of this section at an interest rate of 9.8 percent for quarterly annuity payments made at the end of the period is 1.0360. The present value of the annuity is, therefore, $39,473.67 ($10,000 × 3.8102 × 1.0360).

(6) Actuarial Table B, Table J, and Table K where the valuation date is after April 30, 1989. Except as provided in § 20.7520-3(b) (pertaining to certain limitations on prescribed tables), for determination of the present value of an interest that is dependent on a term of years, the tables in this paragraph (d)(6) must be used in the application of the provisions of this section when the section 7520 interest rate component is between 4.2 and 14 percent.

* * * * *

(7) Actuarial Table S and Table 90CM where the valuation date is after April 30, 1999. Except as provided in § 20.7520-2(b) (pertaining to certain limitations on the use of prescribed tables), for determination of the present value of an interest that is dependent on the termination of a life interest, Table 90CM and Table S, single life remainder factors applicable where the valuation date is after April 30, 1999, contained in this paragraph (d)(7) (or Table S and Table 80CNSMT contained in § 20.2031-7A(e)(4) for valuation dates after April 30, 1989, and before May 1, 1999) and Table J and Table K contained in paragraph (d)(6) of this section, must be used in the application of the provisions of this section when the section 7520 interest rate component is between 4.2 and 14 percent.

Table S.—Based on Life Table 90CM Single Life Remainder Factors Applicable After April 30, 1999
[Interest rate]

Age | 4.2% | 4.4% | 4.6% | 4.8% | 5.0% | 5.2% | 5.4% | 5.6% | 5.8% | 6.0%
0 | .06752 | .06130 | .05586 | .05109 | .04691 | .04322 | .03998 | .03711 | .03458 | .03233
1 | .06137 | .05495 | .04932 | .04438 | .04003 | .03620 | .03283 | .02985 | .02721 | .02487
2 | .06325 | .05667 | .05088 | .04580 | .04132 | .03737 | .03388 | .03079 | .02806 | .02563
3 | .06545 | .05869 | .05275 | .04752 | .04291 | .03883 | .03523 | .03203 | .02920 | .02668
4 | .06784 | .06092 | .05482 | .04944 | .04469 | .04048 | .03676 | .03346 | .03052 | .02791
5 | .07040 | .06331 | .05705 | .05152 | .04662 | .04229 | .03845 | .03503 | .03199 | .02928
6 | .07310 | .06583 | .05941 | .05372 | .04869 | .04422 | .04025 | .03672 | .03357 | .03076
7 | .07594 | .06849 | .06191 | .05607 | .05089 | .04628 | .04219 | .03854 | .03528 | .03236
8 | .07891 | .07129 | .06453 | .05853 | .05321 | .04846 | .04424 | .04046 | .03709 | .03407
9 | .08203 | .07423 | .06731 | .06115 | .05567 | .05079 | .04643 | .04253 | .03904 | .03592
10 | .08532 | .07734 | .07024 | .06392 | .05829 | .05326 | .04877 | .04474 | .04114 | .03790
11 | .08875 | .08059 | .07331 | .06683 | .06104 | .05587 | .05124 | .04709 | .04336 | .04002
12 | .09233 | .08398 | .07653 | .06989 | .06394 | .05862 | .05385 | .04957 | .04572 | .04226
13 | .09601 | .08748 | .07985 | .07304 | .06693 | .06146 | .05655 | .05214 | .04816 | .04458
14 | .09974 | .09102 | .08322 | .07624 | .06997 | .06435 | .05929 | .05474 | .05064 | .04694
15 | .10350 | .09460 | .08661 | .07946 | .07303 | .06725 | .06204 | .05735 | .05312 | .04930
16 | .10728 | .09818 | .09001 | .08268 | .07608 | .07014 | .06479 | .05996 | .05559 | .05164
17 | .11108 | .10179 | .09344 | .08592 | .07916 | .07306 | .06755 | .06257 | .05807 | .05399
18 | .11494 | .10545 | .09691 | .08921 | .08227 | .07601 | .07034 | .06521 | .06057 | .05636
19 | .11889 | .10921 | .10047 | .09259 | .08548 | .07904 | .07322 | .06794 | .06315 | .05880
20 | .12298 | .11310 | .10417 | .09610 | .08881 | .08220 | .07622 | .07078 | .06584 | .06135
21 | .12722 | .11713 | .10801 | .09976 | .09228 | .08550 | .07935 | .07375 | .06866 | .06403
22 | .13159 | .12130 | .11199 | .10354 | .09588 | .08893 | .08260 | .07685 | .07160 | .06682
23 | .13613 | .12563 | .11612 | .10748 | .09964 | .09250 | .08601 | .08009 | .07468 | .06975
24 | .14084 | .13014 | .12043 | .11160 | .10357 | .09625 | .08958 | .08349 | .07793 | .07284
25 | .14574 | .13484 | .12493 | .11591 | .10768 | .10018 | .09334 | .08708 | .08135 | .07611
26 | .15084 | .13974 | .12963 | .12041 | .11199 | .10431 | .09728 | .09085 | .08496 | .07956
27 | .15615 | .14485 | .13454 | .12513 | .11652 | .10865 | .10144 | .09484 | .08878 | .08322
28 | .16166 | .15016 | .13965 | .13004 | .12124 | .11319 | .10580 | .09901 | .09279 | .08706
29 | .16737 | .15567 | .14497 | .13516 | .12617 | .11792 | .11035 | .10339 | .09699 | .09109
30 | .17328 | .16138 | .15048 | .14047 | .13129 | .12286 | .11510 | .10796 | .10138 | .09532
31 | .17938 | .16728 | .15618 | .14599 | .13661 | .12799 | .12004 | .11272 | .10597 | .09974
32 | .18568 | .17339 | .16210 | .15171 | .14214 | .13333 | .12520 | .11769 | .11076 | .10435
33 | .19220 | .17972 | .16824 | .15766 | .14790 | .13889 | .13058 | .12289 | .11578 | .10920
34 | .19894 | .18627 | .17460 | .16383 | .15388 | .14468 | .13618 | .12831 | .12102 | .11426
35 | .20592 | .19307 | .18121 | .17025 | .16011 | .15073 | .14204 | .13399 | .12652 | .11958
36 | .21312 | .20010 | .18805 | .17691 | .16658 | .15701 | .14814 | .13990 | .13225 | .12514
37 | .22057 | .20737 | .19514 | .18382 | .17331 | .16356 | .15450 | .14608 | .13825 | .13096
38 | .22827 | .21490 | .20251 | .19100 | .18031 | .17038 | .16113 | .15253 | .14452 | .13705
39 | .23623 | .22270 | .21013 | .19845 | .18759 | .17747 | .16805 | .15927 | .15108 | .14344
40 | .24446 | .23078 | .21805 | .20620 | .19516 | .18487 | .17527 | .16631 | .15795 | .15013
41 | .25298 | .23915 | .22626 | .21425 | .20305 | .19259 | .18282 | .17368 | .16514 | .15715
42 | .26178 | .24782 | .23478 | .22262 | .21125 | .20062 | .19069 | .18138 | .17267 | .16450
43 | .27087 | .25678 | .24360 | .23129 | .21977 | .20898 | .19888 | .18941 | .18053 | .17220
44 | .28025 | .26603 | .25273 | .24027 | .22860 | .21766 | .20740 | .19777 | .18873 | .18023
45 | .28987 | .27555 | .26212 | .24953 | .23772 | .22664 | .21622 | .20644 | .19724 | .18858
46 | .29976 | .28533 | .27179 | .25908 | .24714 | .23591 | .22536 | .21542 | .20606 | .19725
47 | .30987 | .29535 | .28171 | .26889 | .25682 | .24546 | .23476 | .22468 | .21518 | .20621
48 | .32023 | .30563 | .29190 | .27897 | .26678 | .25530 | .24447 | .23425 | .22460 | .21549
49 | .33082 | .31615 | .30234 | .28931 | .27702 | .26543 | .25447 | .24412 | .23434 | .22509
50 | .34166 | .32694 | .31306 | .29995 | .28756 | .27586 | .26479 | .25432 | .24441 | .23502
51 | .35274 | .33798 | .32404 | .31085 | .29838 | .28658 | .27541 | .26482 | .25479 | .24528
52 | .36402 | .34924 | .33525 | .32200 | .30946 | .29757 | .28630 | .27561 | .26547 | .25584
53 | .37550 | .36070 | .34668 | .33339 | .32078 | .30882 | .29746 | .28667 | .27643 | .26669
54 | .38717 | .37237 | .35833 | .34500 | .33234 | .32031 | .30888 | .29801 | .28766 | .27782
55 | .39903 | .38424 | .37019 | .35683 | .34413 | .33205 | .32056 | .30961 | .29918 | .28925
56 | .41108 | .39631 | .38227 | .36890 | .35617 | .34405 | .33250 | .32149 | .31099 | .30097
57 | .42330 | .40857 | .39455 | .38118 | .36844 | .35629 | .34469 | .33363 | .32306 | .31297
58 | .43566 | .42098 | .40699 | .39364 | .38089 | .36873 | .35710 | .34600 | .33538 | .32522
59 | .44811 | .43351 | .41956 | .40623 | .39350 | .38133 | .36968 | .35855 | .34789 | .33768
60 | .46066 | .44613 | .43224 | .41896 | .40624 | .39408 | .38243 | .37127 | .36058 | .35033
61 | .47330 | .45887 | .44505 | .43182 | .41914 | .40699 | .39535 | .38418 | .37347 | .36318
62 | .48608 | .47175 | .45802 | .44485 | .43223 | .42011 | .40848 | .39732 | .38660 | .37629
63 | .49898 | .48478 | .47115 | .45807 | .44550 | .43343 | .42184 | .41069 | .39997 | .38966
64 | .51200 | .49793 | .48442 | .47143 | .45895 | .44694 | .43539 | .42427 | .41357 | .40326
65 | .52512 | .51121 | .49782 | .48495 | .47255 | .46062 | .44912 | .43805 | .42738 | .41709
66 | .53835 | .52461 | .51137 | .49862 | .48634 | .47449 | .46307 | .45206 | .44143 | .43118
67 | .55174 | .53818 | .52511 | .51250 | .50034 | .48860 | .47727 | .46633 | .45576 | .44556
68 | .56524 | .55188 | .53899 | .52654 | .51452 | .50291 | .49168 | .48083 | .47034 | .46020
69 | .57882 | .56568 | .55299 | .54071 | .52885 | .51737 | .50627 | .49552 | .48513 | .47506
70 | .59242 | .57951 | .56703 | .55495 | .54325 | .53193 | .52096 | .51034 | .50004 | .49007
71 | .60598 | .59332 | .58106 | .56918 | .55767 | .54651 | .53569 | .52520 | .51503 | .50516
72 | .61948 | .60707 | .59504 | .58338 | .57206 | .56108 | .55043 | .54009 | .53004 | .52029
73 | .63287 | .62073 | .60895 | .59751 | .58640 | .57561 | .56513 | .55495 | .54505 | .53543
74 | .64621 | .63435 | .62282 | .61162 | .60073 | .59015 | .57985 | .56984 | .56009 | .55061
75 | .65953 | .64796 | .63671 | .62575 | .61510 | .60473 | .59463 | .58480 | .57523 | .56591
76 | .67287 | .66160 | .65063 | .63995 | .62954 | .61940 | .60952 | .59989 | .59050 | .58135
77 | .68622 | .67526 | .66459 | .65419 | .64404 | .63415 | .62450 | .61509 | .60590 | .59694
78 | .69954 | .68892 | .67856 | .66845 | .65858 | .64895 | .63955 | .63036 | .62140 | .61264
79 | .71278 | .70250 | .69246 | .68265 | .67308 | .66372 | .65457 | .64563 | .63690 | .62836
80 | .72581 | .71588 | .70618 | .69668 | .68740 | .67833 | .66945 | .66077 | .65227 | .64396
81 | .73857 | .72899 | .71962 | .71045 | .70147 | .69268 | .68408 | .67566 | .66741 | .65933
82 | .75101 | .74178 | .73274 | .72389 | .71522 | .70672 | .69840 | .69024 | .68225 | .67441
83 | .76311 | .75423 | .74553 | .73700 | .72864 | .72044 | .71240 | .70451 | .69678 | .68919
84 | .77497 | .76645 | .75809 | .74988 | .74183 | .73393 | .72618 | .71857 | .71110 | .70377
85 | .78665 | .77848 | .77047 | .76260 | .75487 | .74728 | .73982 | .73250 | .72530 | .71823
86 | .79805 | .79025 | .78258 | .77504 | .76764 | .76036 | .75320 | .74617 | .73925 | .73245
87 | .80904 | .80159 | .79427 | .78706 | .77998 | .77301 | .76615 | .75940 | .75277 | .74624
88 | .81962 | .81251 | .80552 | .79865 | .79188 | .78521 | .77865 | .77220 | .76584 | .75958
89 | .82978 | .82302 | .81636 | .80980 | .80335 | .79699 | .79072 | .78455 | .77847 | .77248
90 | .83952 | .83309 | .82676 | .82052 | .81437 | .80831 | .80234 | .79645 | .79064 | .78492
91 | .84870 | .84260 | .83658 | .83064 | .82479 | .81902 | .81332 | .80771 | .80217 | .79671
92 | .85716 | .85136 | .84563 | .83998 | .83441 | .82891 | .82348 | .81812 | .81283 | .80761
93 | .86494 | .85942 | .85396 | .84858 | .84326 | .83801 | .83283 | .82771 | .82266 | .81767
94 | .87216 | .86690 | .86170 | .85657 | .85149 | .84648 | .84153 | .83664 | .83181 | .82704
95 | .87898 | .87397 | .86902 | .86412 | .85928 | .85450 | .84977 | .84510 | .84049 | .83592
96 | .88537 | .88060 | .87587 | .87121 | .86659 | .86203 | .85751 | .85305 | .84864 | .84427
97 | .89127 | .88672 | .88221 | .87775 | .87335 | .86898 | .86467 | .86040 | .85618 | .85200
98 | .89680 | .89245 | .88815 | .88389 | .87968 | .87551 | .87138 | .86730 | .86326 | .85926
99 | .90217 | .89803 | .89393 | .88987 | .88585 | .88187 | .87793 | .87402 | .87016 | .86633
100 | .90738 | .90344 | .89953 | .89567 | .89183 | .88804 | .88428 | .88056 | .87687 | .87322
101 | .91250 | .90876 | .90504 | .90137 | .89772 | .89412 | .89054 | .88699 | .88348 | .88000
102 | .91751 | .91396 | .91045 | .90696 | .90350 | .90007 | .89668 | .89331 | .88997 | .88666
103 | .92247 | .91912 | .91579 | .91249 | .90922 | .90598 | .90276 | .89957 | .89640 | .89326
104 | .92775 | .92460 | .92148 | .91839 | .91532 | .91227 | .90924 | .90624 | .90326 | .90031
105 | .93290 | .92996 | .92704 | .92415 | .92127 | .91841 | .91558 | .91276 | .90997 | .90719
106 | .93948 | .93680 | .93415 | .93151 | .92889 | .92628 | .92370 | .92113 | .91857 | .91604
107 | .94739 | .94504 | .94271 | .94039 | .93808 | .93579 | .93351 | .93124 | .92899 | .92675
108 | .95950 | .95767 | .95585 | .95404 | .95224 | .95045 | .94867 | .94689 | .94512 | .94336
109 | .97985 | .97893 | .97801 | .97710 | .97619 | .97529 | .97438 | .97348 | .97259 | .97170

Age | 6.2% | 6.4% | 6.6% | 6.8% | 7.0% | 7.2% | 7.4% | 7.6% | 7.8% | 8.0%
0 | .03034 | .02857 | .02700 | .02559 | .02433 | .02321 | .02220 | .02129 | .02047 | .01973
1 | .02279 | .02094 | .01929 | .01782 | .01650 | .01533 | .01427 | .01331 | .01246 | .01168
2 | .02347 | .02155 | .01983 | .01829 | .01692 | .01569 | .01458 | .01358 | .01268 | .01187
3 | .02444 | .02243 | .02065 | .01905 | .01761 | .01632 | .01516 | .01412 | .01317 | .01232
4 | .02558 | .02349 | .02163 | .01996 | .01846 | .01712 | .01590 | .01481 | .01382 | .01292
5 | .02686 | .02469 | .02275 | .02101 | .01945 | .01804 | .01677 | .01562 | .01458 | .01364
6 | .02825 | .02600 | .02398 | .02217 | .02053 | .01906 | .01773 | .01653 | .01544 | .01445
7 | .02976 | .02742 | .02532 | .02343 | .02172 | .02019 | .01880 | .01754 | .01640 | .01536
8 | .03137 | .02894 | .02675 | .02479 | .02301 | .02140 | .01995 | .01864 | .01744 | .01635
9 | .03311 | .03059 | .02832 | .02627 | .02442 | .02274 | .02122 | .01985 | .01859 | .01745
10 | .03499 | .03237 | .03001 | .02788 | .02595 | .02420 | .02262 | .02118 | .01987 | .01867
11 | .03700 | .03428 | .03183 | .02961 | .02760 | .02578 | .02413 | .02262 | .02125 | .02000
12 | .03913 | .03632 | .03377 | .03146 | .02937 | .02748 | .02575 | .02418 | .02275 | .02144
13 | .04135 | .03843 | .03579 | .03339 | .03122 | .02924 | .02744 | .02580 | .02431 | .02294
14 | .04359 | .04057 | .03783 | .03534 | .03308 | .03102 | .02915 | .02744 | .02587 | .02444
15 | .04584 | .04270 | .03986 | .03728 | .03493 | .03279 | .03083 | .02905 | .02742 | .02593
16 | .04806 | .04482 | .04187 | .03919 | .03674 | .03452 | .03248 | .03063 | .02892 | .02736
17 | .05029 | .04692 | .04387 | .04108 | .03855 | .03623 | .03411 | .03218 | .03040 | .02877
18 | .05253 | .04905 | .04588 | .04299 | .04036 | .03795 | .03574 | .03373 | .03187 | .03017
19 | .05484 | .05124 | .04796 | .04496 | .04222 | .03972 | .03742 | .03532 | .03339 | .03161
20 | .05726 | .05354 | .05013 | .04702 | .04418 | .04158 | .03919 | .03700 | .03498 | .03313
21 | .05980 | .05595 | .05242 | .04920 | .04625 | .04354 | .04105 | .03877 | .03667 | .03473
22 | .06246 | .05847 | .05482 | .05147 | .04841 | .04559 | .04301 | .04063 | .03844 | .03642
23 | .06524 | .06112 | .05734 | .05387 | .05069 | .04777 | .04508 | .04260 | .04032 | .03821
24 | .06819 | .06392 | .06001 | .05642 | .05312 | .05008 | .04728 | .04470 | .04232 | .04012
25 | .07131 | .06690 | .06285 | .05913 | .05570 | .05255 | .04964 | .04695 | .04447 | .04218
26 | .07460 | .07005 | .06586 | .06200 | .05845 | .05518 | .05215 | .04936 | .04677 | .04438
27 | .07810 | .07340 | .06907 | .06508 | .06140 | .05800 | .05485 | .05195 | .04925 | .04676
28 | .08179 | .07693 | .07246 | .06833 | .06451 | .06098 | .05772 | .05469 | .05189 | .04929
29 | .08566 | .08065 | .07603 | .07176 | .06780 | .06414 | .06075 | .05761 | .05469 | .05198
30 | .08973 | .08456 | .07978 | .07536 | .07127 | .06748 | .06396 | .06069 | .05766 | .05483
31 | .09398 | .08865 | .08372 | .07915 | .07491 | .07098 | .06733 | .06394 | .06078 | .05785
32 | .09843 | .09294 | .08785 | .08313 | .07875 | .07468 | .07089 | .06737 | .06409 | .06103
33 | .10310 | .09745 | .09220 | .08732 | .08279 | .07858 | .07466 | .07100 | .06759 | .06441
34 | .10799 | .10217 | .09676 | .09173 | .08705 | .08269 | .07862 | .07483 | .07129 | .06798
35 | .11314 | .10715 | .10157 | .09638 | .09155 | .08704 | .08283 | .07890 | .07522 | .07179
36 | .11852 | .11236 | .10662 | .10127 | .09628 | .09162 | .08726 | .08319 | .07938 | .07581
37 | .12416 | .11783 | .11193 | .10641 | .10126 | .09645 | .09194 | .08772 | .08377 | .08006
38 | .13009 | .12359 | .11751 | .11183 | .10652 | .10155 | .09689 | .09253 | .08843 | .08459
39 | .13629 | .12962 | .12338 | .11753 | .11206 | .10693 | .10212 | .09761 | .09337 | .08938
40 | .14281 | .13597 | .12955 | .12355 | .11791 | .11262 | .10766 | .10299 | .09860 | .09447
41 | .14966 | .14264 | .13606 | .12989 | .12409 | .11864 | .11352 | .10870 | .10417 | .09989
42 | .15685 | .14966 | .14291 | .13657 | .13061 | .12500 | .11972 | .11475 | .11006 | .10564
43 | .16437 | .15702 | .15010 | .14360 | .13747 | .13171 | .12627 | .12115 | .11631 | .11174
44 | .17224 | .16472 | .15764 | .15098 | .14469 | .13876 | .13317 | .12789 | .12290 | .11819
45 | .18042 | .17274 | .16550 | .15867 | .15223 | .14615 | .14040 | .13496 | .12982 | .12496
46 | .18893 | .18110 | .17370 | .16671 | .16011 | .15387 | .14796 | .14238 | .13708 | .13207
47 | .19775 | .18975 | .18220 | .17505 | .16830 | .16190 | .15584 | .15010 | .14466 | .13950
48 | .20688 | .19873 | .19102 | .18373 | .17682 | .17027 | .16406 | .15817 | .15258 | .14727
49 | .21633 | .20804 | .20018 | .19274 | .18568 | .17898 | .17262 | .16658 | .16084 | .15539
50 | .22612 | .21769 | .20969 | .20210 | .19490 | .18805 | .18155 | .17536 | .16948 | .16388
51 | .23625 | .22769 | .21955 | .21182 | .20448 | .19749 | .19084 | .18452 | .17849 | .17275
52 | .24669 | .23799 | .22973 | .22186 | .21438 | .20726 | .20047 | .19400 | .18784 | .18196
53 | .25742 | .24861 | .24022 | .23222 | .22461 | .21735 | .21043 | .20383 | .19753 | .19151
54 | .26845 | .25952 | .25101 | .24290 | .23516 | .22777 | .22072 | .21399 | .20756 | .20140
55 | .27978 | .27074 | .26212 | .25389 | .24604 | .23853 | .23136 | .22450 | .21793 | .21166
56 | .29140 | .28227 | .27355 | .26522 | .25725 | .24963 | .24233 | .23535 | .22867 | .22227
57 | .30333 | .29411 | .28529 | .27686 | .26879 | .26106 | .25365 | .24656 | .23976 | .23324
58 | .31551 | .30621 | .29731 | .28878 | .28061 | .27278 | .26528 | .25807 | .25116 | .24453
59 | .32790 | .31854 | .30956 | .30095 | .29269 | .28477 | .27716 | .26986 | .26284 | .25610
60 | .34050 | .33107 | .32202 | .31334 | .30500 | .29699 | .28929 | .28190 | .27478 | .26794
61 | .35331 | .34384 | .33473 | .32598 | .31757 | .30948 | .30170 | .29422 | .28701 | .28007
62 | .36639 | .35688 | .34772 | .33892 | .33044 | .32229 | .31443 | .30687 | .29958 | .29255
63 | .37974 | .37020 | .36101 | .35216 | .34363 | .33542 | .32750 | .31986 | .31250 | .30539
64 | .39334 | .38378 | .37456 | .36568 | .35711 | .34884 | .34087 | .33317 | .32574 | .31857
65 | .40718 | .39761 | .38838 | .37947 | .37087 | .36257 | .35455 | .34681 | .33932 | .33208
66 | .42128 | .41172 | .40249 | .39357 | .38496 | .37663 | .36858 | .36079 | .35326 | .34597
67 | .43569 | .42616 | .41694 | .40803 | .39941 | .39107 | .38299 | .37518 | .36761 | .36028
68 | .45038 | .44089 | .43170 | .42281 | .41419 | .40585 | .39777 | .38994 | .38235 | .37499
69 | .46531 | .45587 | .44672 | .43786 | .42927 | .42094 | .41286 | .40503 | .39743 | .39006
70 | .48040 | .47103 | .46194 | .45312 | .44456 | .43626 | .42820 | .42038 | .41278 | .40540
71 | .49558 | .48629 | .47727 | .46851 | .46000 | .45174 | .44371 | .43591 | .42832 | .42095
72 | .51082 | .50162 | .49268 | .48399 | .47554 | .46733 | .45934 | .45157 | .44401 | .43666
73 | .52607 | .51697 | .50813 | .49952 | .49114 | .48299 | .47506 | .46733 | .45981 | .45249
74 | .54139 | .53241 | .52367 | .51515 | .50686 | .49879 | .49092 | .48325 | .47578 | .46849
75 | .55683 | .54798 | .53936 | .53095 | .52276 | .51477 | .50698 | .49938 | .49197 | .48474
76 | .57243 | .56373 | .55524 | .54696 | .53888 | .53100 | .52330 | .51579 | .50846 | .50130
77 | .58819 | .57965 | .57132 | .56318 | .55523 | .54747 | .53988 | .53247 | .52523 | .51815
78 | .60408 | .59572 | .58755 | .57957 | .57177 | .56414 | .55668 | .54939 | .54225 | .53527
79 | .62001 | .61184 | .60385 | .59604 | .58840 | .58092 | .57360 | .56644 | .55943 | .55256
80 | .63582 | .62786 | .62007 | .61244 | .60497 | .59765 | .59048 | .58347 | .57659 | .56985
81 | .65142 | .64367 | .63608 | .62864 | .62135 | .61421 | .60721 | .60034 | .59361 | .58701
82 | .66673 | .65920 | .65182 | .64458 | .63748 | .63052 | .62368 | .61698 | .61041 | .60395
83 | .68175 | .67444 | .66728 | .66024 | .65334 | .64656 | .63991 | .63338 | .62696 | .62066
84 | .69657 | .68950 | .68256 | .67574 | .66904 | .66246 | .65599 | .64964 | .64340 | .63727
85 | .71128 | .70446 | .69775 | .69116 | .68467 | .67830 | .67204 | .66587 | .65982 | .65386
86 | .72576 | .71919 | .71272 | .70636 | .70010 | .69394 | .68789 | .68193 | .67606 | .67029
87 | .73981 | .73349 | .72726 | .72114 | .71511 | .70917 | .70333 | .69757 | .69190 | .68632
88 | .75342 | .74735 | .74137 | .73548 | .72968 | .72396 | .71833 | .71279 | .70732 | .70194
89 | .76658 | .76076 | .75503 | .74938 | .74381 | .73832 | .73290 | .72757 | .72231 | .71712
90 | .77928 | .77371 | .76823 | .76281 | .75748 | .75221 | .74702 | .74190 | .73684 | .73186
91 | .79131 | .78600 | .78075 | .77557 | .77046 | .76542 | .76044 | .75553 | .75068 | .74589
92 | .80246 | .79737 | .79235 | .78740 | .78250 | .77767 | .77290 | .76818 | .76353 | .75893
93 | .81274 | .80788 | .80307 | .79832 | .79363 | .78899 | .78441 | .77989 | .77542 | .77100
94 | .82232 | .81766 | .81306 | .80850 | .80401 | .79956 | .79517 | .79082 | .78653 | .78228
95 | .83141 | .82695 | .82254 | .81818 | .81387 | .80961 | .80539 | .80122 | .79710 | .79302
96 | .83996 | .83569 | .83147 | .82729 | .82316 | .81907 | .81503 | .81103 | .80707 | .80315
97 | .84787 | .84378 | .83973 | .83573 | .83176 | .82784 | .82396 | .82012 | .81632 | .81255
98 | .85530 | .85138 | .84750 | .84366 | .83985 | .83609 | .83236 | .82867 | .82502 | .82140
99 | .86255 | .85880 | .85508 | .85140 | .84776 | .84415 | .84057 | .83703 | .83353 | .83005
100 | .86960 | .86601 | .86246 | .85894 | .85546 | .85200 | .84858 | .84519 | .84183 | .83849
101 | .87655 | .87313 | .86974 | .86638 | .86305 | .85975 | .85648 | .85324 | .85003 | .84684
102 | .88338 | .88012 | .87689 | .87369 | .87052 | .86738 | .86426 | .86116 | .85809 | .85505
103 | .89015 | .88706 | .88399 | .88095 | .87793 | .87494 | .87197 | .86903 | .86611 | .86321
104 | .89737 | .89446 | .89157 | .88871 | .88586 | .88304 | .88024 | .87745 | .87469 | .87195
105 | .90443 | .90170 | .89898 | .89628 | .89360 | .89094 | .88830 | .88568 | .88307 | .88049
106 | .91351 | .91101 | .90852 | .90605 | .90359 | .90115 | .89873 | .89632 | .89392 | .89154
107 | .92452 | .92230 | .92010 | .91791 | .91573 | .91356 | .91141 | .90927 | .90714 | .90502
108 | .94161 | .93987 | .93814 | .93641 | .93469 | .93298 | .93128 | .92958 | .92790 | .92622
109 | .97081 | .96992 | .96904 | .96816 | .96729 | .96642 | .96555 | .96468 | .96382 | .96296

Age | 8.2% | 8.4% | 8.6% | 8.8% | 9.0% | 9.2% | 9.4% | 9.6% | 9.8% | 10.0%
0 | .01906 | .01845 | .01790 | .01740 | .01694 | .01652 | .01613 | .01578 | .01546 | .01516
1 | .01098 | .01034 | .00977 | .00924 | .00876 | .00833 | .00793 | .00756 | .00722 | .00691
2 | .01113 | .01046 | .00986 | .00930 | .00880 | .00834 | .00791 | .00753 | .00717 | .00684
3 | .01155 | .01084 | .01020 | .00962 | .00909 | .00860 | .00816 | .00775 | .00737 | .00702
4 | .01211 | .01137 | .01069 | .01008 | .00952 | .00900 | .00853 | .00810 | .00770 | .00733
5 | .01279 | .01201 | .01130 | .01065 | .01006 | .00952 | .00902 | .00856 | .00814 | .00775
6 | .01356 | .01274 | .01199 | .01131 | .01068 | .01011 | .00959 | .00910 | .00865 | .00824
7 | .01442 | .01356 | .01277 | .01205 | .01140 | .01079 | .01023 | .00972 | .00925 | .00881
8 | .01536 | .01446 | .01363 | .01287 | .01218 | .01154 | .01096 | .01041 | .00991 | .00945
9 | .01641 | .01546 | .01460 | .01380 | .01307 | .01240 | .01178 | .01120 | .01068 | .01019
10 | .01758 | .01659 | .01567 | .01484 | .01407 | .01336 | .01270 | .01210 | .01154 | .01103
11 | .01886 | .01781 | .01686 | .01598 | .01517 | .01442 | .01373 | .01310 | .01251 | .01196
12 | .02024 | .01915 | .01814 | .01721 | .01636 | .01558 | .01485 | .01419 | .01357 | .01299
13 | .02168 | .02054 | .01948 | .01851 | .01762 | .01679 | .01603 | .01533 | .01467 | .01407
14 | .02313 | .02193 | .02083 | .01981 | .01887 | .01801 | .01721 | .01646 | .01578 | .01514
15 | .02456 | .02330 | .02214 | .02107 | .02009 | .01918 | .01834 | .01756 | .01684 | .01617
16 | .02593 | .02462 | .02340 | .02229 | .02126 | .02030 | .01942 | .01860 | .01785 | .01714
17 | .02728 | .02590 | .02463 | .02346 | .02238 | .02138 | .02046 | .01960 | .01880 | .01806
18 | .02861 | .02717 | .02584 | .02462 | .02348 | .02243 | .02146 | .02056 | .01972 | .01894
19 | .02998 | .02847 | .02708 | .02580 | .02461 | .02351 | .02249 | .02154 | .02066 | .01984
20 | .03142 | .02984 | .02839 | .02704 | .02580 | .02465 | .02357 | .02258 | .02165 | .02079
21 | .03295 | .03130 | .02978 | .02837 | .02706 | .02585 | .02473 | .02368 | .02271 | .02180
22 | .03455 | .03283 | .03124 | .02976 | .02839 | .02712 | .02594 | .02484 | .02382 | .02286
23 | .03626 | .03446 | .03279 | .03124 | .02981 | .02847 | .02723 | .02608 | .02500 | .02400
24 | .03809 | .03620 | .03446 | .03283 | .03133 | .02993 | .02863 | .02741 | .02628 | .02522
25 | .04005 | .03808 | .03625 | .03456 | .03298 | .03151 | .03014 | .02887 | .02768 | .02656
26 | .04216 | .04010 | .03819 | .03641 | .03476 | .03322 | .03178 | .03044 | .02919 | .02802
27 | .04444 | .04229 | .04029 | .03843 | .03670 | .03508 | .03357 | .03217 | .03085 | .02962
28 | .04687 | .04463 | .04254 | .04059 | .03877 | .03708 | .03550 | .03402 | .03263 | .03133
29 | .04946 | .04712 | .04493 | .04289 | .04099 | .03922 | .03756 | .03600 | .03455 | .03318
30 | .05221 | .04976 | .04748 | .04534 | .04335 | .04149 | .03975 | .03812 | .03659 | .03515
31 | .05511 | .05255 | .05017 | .04794 | .04585 | .04390 | .04208 | .04037 | .03876 | .03725
32 | .05818 | .05551 | .05302 | .05069 | .04851 | .04647 | .04455 | .04276 | .04107 | .03948
33 | .06144 | .05866 | .05606 | .05363 | .05135 | .04921 | .04720 | .04532 | .04355 | .04188
34 | .06489 | .06200 | .05928 | .05674 | .05436 | .05212 | .05002 | .04805 | .04619 | .04444
35 | .06857 | .06555 | .06273 | .06007 | .05758 | .05524 | .05304 | .05097 | .04902 | .04718
36 | .07246 | .06932 | .06638 | .06361 | .06101 | .05856 | .05626 | .05409 | .05205 | .05012
37 | .07659 | .07332 | .07025 | .06737 | .06466 | .06210 | .05969 | .05742 | .05528 | .05325
38 | .08098 | .07758 | .07439 | .07138 | .06855 | .06588 | .06336 | .06099 | .05874 | .05662
39 | .08563 | .08210 | .07878 | .07565 | .07270 | .06992 | .06729 | .06480 | .06245 | .06023
40 | .09059 | .08692 | .08347 | .08021 | .07714 | .07423 | .07149 | .06889 | .06643 | .06411
41 | .09586 | .09206 | .08848 | .08509 | .08189 | .07886 | .07600 | .07329 | .07072 | .06828
42 | .10147 | .09753 | .09381 | .09029 | .08696 | .08381 | .08083 | .07800 | .07531 | .07277
43 | .10742 | .10334 | .09948 | .09583 | .09237 | .08909 | .08598 | .08304 | .08024 | .07758
44 | .11373 | .10950 | .10551 | .10172 | .09813 | .09472 | .09148 | .08841 | .08549 | .08272
45 | .12035 | .11599 | .11185 | .10792 | .10420 | .10066 | .09730 | .09410 | .09106 | .08817
46 | .12732 | .12281 | .11853 | .11447 | .11061 | .10694 | .10345 | .10013 | .09696 | .09395
47 | .13460 | .12995 | .12553 | .12133 | .11733 | .11353 | .10991 | .10646 | .10317 | .10004
48 | .14223 | .13743 | .13287 | .12853 | .12439 | .12046 | .11671 | .11313 | .10972 | .10646
49 | .15020 | .14526 | .14056 | .13608 | .13181 | .12774 | .12385 | .12015 | .11661 | .11322
50 | .15855 | .15347 | .14862 | .14401 | .13960 | .13540 | .13138 | .12754 | .12388 | .12037
51 | .16727 | .16205 | .15707 | .15232 | .14777 | .14344 | .13929 | .13532 | .13153 | .12789
52 | .17634 | .17098 | .16587 | .16097 | .15630 | .15183 | .14755 | .14345 | .13953 | .13577
53 | .18576 | .18027 | .17501 | .16999 | .16518 | .16057 | .15616 | .15194 | .14789 | .14400
54 | .19552 | .18990 | .18451 | .17935 | .17441 | .16968 | .16514 | .16078 | .15661 | .15260
55 | .20564 | .19989 | .19437 | .18908 | .18402 | .17915 | .17449 | .17001 | .16571 | .16157
56 | .21613 | .21025 | .20461 | .19919 | .19400 | .18901 | .18422 | .17962 | .17519 | .17093
57 | .22698 | .22098 | .21522 | .20968 | .20436 | .19925 | .19434 | .18961 | .18507 | .18069
58 | .23816 | .23204 | .22616 | .22051 | .21507 | .20984 | .20481 | .19996 | .19530 | .19080
59 | .24962 | .24339 | .23740 | .23163 | .22608 | .22073 | .21558 | .21062 | .20584 | .20123
60 | .26136 | .25502 | .24892 | .24304 | .23738 | .23192 | .22666 | .22158 | .21669 | .21196
61 | .27339 | .26695 | .26075 | .25477 | .24900 | .24343 | .23806 | .23288 | .22787 | .22304
62 | .28578 | .27925 | .27295 | .26687 | .26100 | .25533 | .24985 | .24456 | .23945 | .23451
63 | .29854 | .29192 | .28553 | .27935 | .27339 | .26762 | .26205 | .25666 | .25145 | .24641
64 | .31164 | .30494 | .29846 | .29221 | .28615 | .28030 | .27463 | .26915 | .26384 | .25870
65 | .32508 | .31831 | .31177 | .30543 | .29930 | .29336 | .28761 | .28203 | .27663 | .27140
66 | .33891 | .33208 | .32547 | .31906 | .31285 | .30684 | .30101 | .29536 | .28987 | .28456
67 | .35318 | .34630 | .33963 | .33316 | .32689 | .32081 | .31491 | .30918 | .30363 | .29823
68 | .36785 | .36093 | .35422 | .34770 | .34138 | .33524 | .32928 | .32349 | .31787 | .31240
69 | .38290 | .37595 | .36920 | .36265 | .35628 | .35009 | .34408 | .33824 | .33256 | .32703
70 | .39823 | .39127 | .38450 | .37791 | .37151 | .36529 | .35924 | .35335 | .34762 | .34204
71 | .41378 | .40681 | .40003 | .39343 | .38701 | .38076 | .37467 | .36875 | .36298 | .35736
72 | .42950 | .42253 | .41575 | .40914 | .40271 | .39644 | .39034 | .38438 | .37858 | .37293
73 | .44535 | .43840 | .43162 | .42502 | .41858 | .41231 | .40619 | .40022 | .39440 | .38872
74 | .46139 | .45446 | .44771 | .44112 | .43469 | .42842 | .42230 | .41632 | .41049 | .40479
75 | .47769 | .47080 | .46408 | .45752 | .45111 | .44485 | .43874 | .43277 | .42693 | .42123
76 | .49430 | .48747 | .48079 | .47427 | .46790 | .46167 | .45558 | .44963 | .44380 | .43811
77 | .51123 | .50447 | .49786 | .49139 | .48506 | .47888 | .47282 | .46690 | .46111 | .45543
78 | .52845 | .52177 | .51523 | .50884 | .50257 | .49645 | .49044 | .48457 | .47881 | .47317
79 | .54584 | .53926 | .53282 | .52650 | .52032 | .51426 | .50833 | .50251 | .49681 | .49122
80 | .56325 | .55678 | .55044 | .54423 | .53813 | .53216 | .52630 | .52056 | .51492 | .50939
81 | .58054 | .57419 | .56797 | .56186 | .55587 | .54999 | .54422 | .53856 | .53300 | .52754
82 | .59762 | .59140 | .58530 | .57931 | .57343 | .56766 | .56198 | .55641 | .55094 | .54557
83 | .61448 | .60840 | .60243 | .59657 | .59081 | .58515 | .57958 | .57411 | .56874 | .56346
84 | .63124 | .62531 | .61949 | .61376 | .60813 | .60259 | .59715 | .59179 | .58652 | .58134
85 | .64800 | .64224 | .63657 | .63099 | .62550 | .62010 | .61478 | .60955 | .60441 | .59934
86 | .66461 | .65902 | .65351 | .64810 | .64276 | .63751 | .63233 | .62724 | .62222 | .61728
87 | .68083 | .67541 | .67008 | .66483 | .65965 | .65455 | .64953 | .64458 | .63970 | .63489
88 | .69663 | .69140 | .68624 | .68116 | .67615 | .67121 | .66634 | .66154 | .65680 | .65213
89 | .71201 | .70696 | .70199 | .69708 | .69224 | .68747 | .68276 | .67811 | .67353 | .66900
90 | .72694 | .72209 | .71730 | .71257 | .70791 | .70330 | .69876 | .69427 | .68984 | .68547
91 | .74117 | .73650 | .73190 | .72735 | .72286 | .71842 | .71404 | .70972 | .70545 | .70123
92 | .75439 | .74991 | .74548 | .74110 | .73678 | .73251 | .72829 | .72412 | .72000 | .71593
93 | .76664 | .76233 | .75806 | .75385 | .74969 | .74557 | .74150 | .73748 | .73350 | .72957
94 | .77809 | .77394 | .76983 | .76578 | .76177 | .75780 | .75388 | .75000 | .74616 | .74237
95 | .78899 | .78500 | .78106 | .77715 | .77329 | .76947 | .76569 | .76195 | .75826 | .75460
96 | .79928 | .79544 | .79165 | .78790 | .78418 | .78050 | .77686 | .77326 | .76970 | .76617
97 | .80883 | .80514 | .80149 | .79787 | .79430 | .79075 | .78725 | .78377 | .78033 | .77693
98 | .81781 | .81427 | .81075 | .80727 | .80382 | .80041 | .79703 | .79368 | .79036 | .78708
99 | .82661 | .82320 | .81982 | .81648 | .81316 | .80988 | .80662 | .80340 | .80020 | .79704
100 | .83519 | .83192 | .82868 | .82547 | .82228 | .81913 | .81600 | .81290 | .80982 | .80678
101 | .84368 | .84055 | .83744 | .83437 | .83131 | .82829 | .82529 | .82231 | .81936 | .81643
102 | .85203 | .84904 | .84607 | .84313 | .84021 | .83731 | .83444 | .83159 | .82876 | .82596
103 | .86034 | .85748 | .85465 | .85184 | .84906 | .84629 | .84355 | .84082 | .83812 | .83544
104 | .86923 | .86653 | .86385 | .86119 | .85855 | .85593 | .85333 | .85074 | .84818 | .84563
105 | .87792 | .87537 | .87283 | .87032 | .86782 | .86534 | .86287 | .86042 | .85799 | .85557
106 | .88918 | .88683 | .88450 | .88218 | .87987 | .87758 | .87530 | .87304 | .87079 | .86855
107 | .90291 | .90082 | .89873 | .89666 | .89460 | .89255 | .89051 | .88849 | .88647 | .88447
108 | .92455 | .92288 | .92123 | .91958 | .91794 | .91630 | .91468 | .91306 | .91145 | .90984
109 | .96211 | .96125 | .96041 | .95956 | .95872 | .95788 | .95704 | .95620 | .95537 | .95455

Age | 10.2% | 10.4% | 10.6% | 10.8% | 11.0% | 11.2% | 11.4% | 11.6% | 11.8% | 12.0%
0 | .01488 | .01463 | .01439 | .01417 | .01396 | .01377 | .01359 | .01343 | .01327 | .01312
1 | .00662 | .00636 | .00612 | .00589 | .00568 | .00548 | .00530 | .00513 | .00497 | .00482
2 | .00654 | .00626 | .00600 | .00576 | .00554 | .00533 | .00514 | .00496 | .00479 | .00463
3 | .00670 | .00641 | .00613 | .00588 | .00564 | .00542 | .00522 | .00502 | .00484 | .00468
4 | .00699 | .00668 | .00639 | .00612 | .00587 | .00563 | .00542 | .00521 | .00502 | .00484
5 | .00739 | .00706 | .00675 | .00646 | .00620 | .00595 | .00571 | .00550 | .00529 | .00510
6 | .00786 | .00751 | .00718 | .00687 | .00659 | .00633 | .00608 | .00585 | .00563 | .00543
7 | .00841 | .00803 | .00769 | .00736 | .00706 | .00678 | .00652 | .00627 | .00604 | .00582
8 | .00902 | .00863 | .00826 | .00791 | .00759 | .00730 | .00702 | .00675 | .00651 | .00628
9 | .00973 | .00931 | .00892 | .00856 | .00822 | .00790 | .00760 | .00733 | .00706 | .00682
10 | .01055 | .01010 | .00969 | .00930 | .00894 | .00861 | .00829 | .00799 | .00772 | .00746
11 | .01146 | .01099 | .01055 | .01014 | .00976 | .00940 | .00907 | .00875 | .00846 | .00818
12 | .01246 | .01196 | .01150 | .01106 | .01066 | .01028 | .00993 | .00960 | .00928 | .00899
13 | .01351 | .01298 | .01249 | .01204 | .01161 | .01121 | .01084 | .01049 | .01016 | .00985
14 | .01455 | .01400 | .01348 | .01300 | .01255 | .01213 | .01173 | .01136 | .01102 | .01069
15 | .01555 | .01497 | .01443 | .01392 | .01345 | .01300 | .01259 | .01220 | .01183 | .01148
16 | .01648 | .01587 | .01530 | .01477 | .01427 | .01380 | .01336 | .01295 | .01257 | .01220
17 | .01737 | .01673 | .01612 | .01556 | .01504 | .01455 | .01408 | .01365 | .01324 | .01286
18 | .01822 | .01754 | .01691 | .01632 | .01576 | .01525 | .01476 | .01430 | .01387 | .01347
19 | .01908 | .01837 | .01770 | .01708 | .01650 | .01595 | .01544 | .01495 | .01450 | .01407
20 | .01999 | .01924 | .01854 | .01788 | .01726 | .01669 | .01615 | .01564 | .01516 | .01471
21 | .02096 | .02017 | .01943 | .01874 | .01809 | .01748 | .01691 | .01637 | .01586 | .01539
22 | .02197 | .02114 | .02036 | .01963 | .01895 | .01830 | .01770 | .01713 | .01660 | .01610
23 | .02306 | .02218 | .02136 | .02059 | .01987 | .01919 | .01855 | .01795 | .01739 | .01686
24 | .02424 | .02331 | .02245 | .02163 | .02087 | .02016 | .01948 | .01885 | .01825 | .01769
25 | .02552 | .02455 | .02364 | .02278 | .02197 | .02122 | .02051 | .01984 | .01920 | .01861
26 | .02692 | .02589 | .02493 | .02403 | .02318 | .02238 | .02162 | .02091 | .02025 | .01961
27 | .02846 | .02738 | .02636 | .02541 | .02451 | .02367 | .02287 | .02212 | .02141 | .02074
28 | .03012 | .02898 | .02791 | .02690 | .02595 | .02506 | .02422 | .02342 | .02267 | .02196
29 | .03190 | .03070 | .02957 | .02851 | .02751 | .02656 | .02567 | .02483 | .02404 | .02329
30 | .03381 | .03254 | .03135 | .03023 | .02917 | .02817 | .02723 | .02634 | .02551 | .02471
31 | .03583 | .03450 | .03324 | .03206 | .03094 | .02989 | .02890 | .02796 | .02707 | .02623
32 | .03799 | .03659 | .03527 | .03402 | .03284 | .03173 | .03068 | .02968 | .02874 | .02785
33 | .04031 | .03883 | .03744 | .03612 | .03488 | .03371 | .03260 | .03155 | .03055 | .02961
34 | .04279 | .04123 | .03976 | .03838 | .03707 | .03583 | .03465 | .03354 | .03249 | .03149
35 | .04545 | .04382 | .04227 | .04081 | .03943 | .03812 | .03688 | .03571 | .03459 | .03354
36 | .04830 | .04658 | .04495 | .04341 | .04196 | .04058 | .03927 | .03803 | .03685 | .03573
37 | .05134 | .04953 | .04782 | .04620 | .04467 | .04321 | .04183 | .04052 | .03928 | .03809
38 | .05462 | .05272 | .05092 | .04921 | .04760 | .04606 | .04461 | .04322 | .04191 | .04066
39 | .05812 | .05613 | .05424 | .05245 | .05075 | .04913 | .04760 | .04614 | .04475 | .04343
40 | .06190 | .05981 | .05782 | .05594 | .05415 | .05245 | .05083 | .04929 | .04783 | .04643
41 | .06597 | .06378 | .06170 | .05972 | .05784 | .05605 | .05435 | .05272 | .05118 | .04970
42 | .07035 | .06806 | .06587 | .06380 | .06182 | .05994 | .05815 | .05644 | .05481 | .05326
43 | .07505 | .07265 | .07036 | .06818 | .06611 | .06414 | .06225 | .06045 | .05874 | .05710
44 | .08008 | .07757 | .07518 | .07290 | .07072 | .06865 | .06667 | .06478 | .06298 | .06125
45 | .08542 | .08279 | .08029 | .07791 | .07563 | .07346 | .07138 | .06940 | .06750 | .06569
46 | .09108 | .08834 | .08573 | .08324 | .08085 | .07858 | .07640 | .07432 | .07233 | .07043
47 | .09705 | .09419 | .09147 | .08886 | .08637 | .08399 | .08172 | .07954 | .07745 | .07545
48 | .10335 | .10038 | .09754 | .09482 | .09222 | .08973 | .08735 | .08507 | .08288 | .08078
49 | .10999 | .10690 | .10394 | .10111 | .09840 | .09581 | .09332 | .09093 | .08864 | .08644
50 | .11701 | .11380 | .11073 | .10778 | .10496 | .10225 | .09965 | .09716 | .09477 | .09247
51 | .12441 | .12108 | .11789 | .11482 | .11189 | .10907 | .10636 | .10376 | .10126 | .09886
52 | .13217 | .12871 | .12540 | .12222 | .11916 | .11623 | .11341 | .11071 | .10810 | .10560
53 | .14028 | .13670 | .13327 | .12997 | .12680 | .12375 | .12082 | .11801 | .11529 | .11268
54 | .14875 | .14505 | .14150 | .13808 | .13480 | .13163 | .12859 | .12566 | .12284 | .12012
55 | .15760 | .15378 | .15011 | .14657 | .14317 | .13989 | .13674 | .13370 | .13077 | .12794
56 | .16684 | .16290 | .15911 | .15546 | .15194 | .14855 | .14528 | .14213 | .13909 | .13615
57 | .17648 | .17242 | .16851 | .16474 | .16111 | .15760 | .15422 | .15096 | .14781 | .14477
58 | .18647 | .18229 | .17827 | .17438 | .17064 | .16702 | .16353 | .16015 | .15689 | .15374
59 | .19678 | .19249 | .18835 | .18435 | .18049 | .17676 | .17316 | .16968 | .16631 | .16305
60 | .20740 | .20300 | .19875 | .19464 | .19066 | .18682 | .18311 | .17952 | .17604 | .17268
61 | .21837 | .21385 | .20949 | .20527 | .20119 | .19724 | .19341 | .18971 | .18613 | .18266
62 | .22973 | .22511 | .22064 | .21631 | .21212 | .20807 | .20414 | .20033 | .19664 | .19306
63 | .24152 | .23680 | .23222 | .22779 | .22350 | .21934 | .21530 | .21139 | .20760 | .20392
64 | .25372 | .24890 | .24422 | .23969 | .23529 | .23103 | .22690 | .22289 | .21899 | .21521
65 | .26633 | .26141 | .25664 | .25201 | .24752 | .24316 | .23893 | .23482 | .23083 | .22695
66 | .27940 | .27439 | .26953 | .26481 | .26023 | .25577 | .25145 | .24724 | .24316 | .23918
67 | .29299 | .28790 | .28296 | .27815 | .27348 | .26894 | .26453 | .26024 | .25606 | .25200
68 | .30709 | .30193 | .29691 | .29202 | .28728 | .28265 | .27816 | .27378 | .26952 | .26537
69 | .32166 | .31643 | .31134 | .30639 | .30157 | .29687 | .29230 | .28785 | .28351 | .27928
70 | .33661 | .33133 | .32618 | .32116 | .31628 | .31152 | .30688 | .30235 | .29794 | .29364
71 | .35188 | .34654 | .34134 | .33627 | .33133 | .32651 | .32181 | .31722 | .31275 | .30838
72 | .36742 | .36204 | .35679 | .35168 | .34668 | .34181 | .33706 | .33241 | .32788 | .32345
73 | .38317 | .37776 | .37248 | .36733 | .36229 | .35738 | .35257 | .34788 | .34330 | .33882
74 | .39923 | .39380 | .38849 | .38330 | .37823 | .37328 | .36844 | .36370 | .35908 | .35455
75 | .41566 | .41021 | .40489 | .39968 | .39459 | .38961 | .38474 | .37997 | .37531 | .37074
76 | .43254 | .42709 | .42176 | .41655 | .41144 | .40645 | .40156 | .39677 | .39208 | .38749
77 | .44988 | .44444 | .43912 | .43391 | .42880 | .42380 | .41891 | .41411 | .40940 | .40479
78 | .46765 | .46224 | .45694 | .45174 | .44665 | .44166 | .43677 | .43197 | .42726 | .42265
79 | .48574 | .48037 | .47510 | .46993 | .46487 | .45990 | .45502 | .45024 | .44554 | .44094
80 | .50397 | .49865 | .49343 | .48830 | .48327 | .47834 | .47349 | .46873 | .46406 | .45947
81 | .52219 | .51693 | .51176 | .50669 | .50171 | .49682 | .49201 | .48729 | .48265 | .47809
82 | .54029 | .53510 | .53000 | .52499 | .52007 | .51523 | .51047 | .50580 | .50120 | .49667
83 | .55826 | .55315 | .54813 | .54319 | .53834 | .53356 | .52886 | .52424 | .51969 | .51522
84 | .57624 | .57123 | .56629 | .56144 | .55666 | .55195 | .54732 | .54277 | .53828 | .53386
85 | .59435 | .58944 | .58460 | .57984 | .57516 | .57054 | .56599 | .56151 | .55710 | .55275
86 | .61241 | .60762 | .60289 | .59824 | .59365 | .58913 | .58468 | .58029 | .57596 | .57170
87 | .63015 | .62548 | .62087 | .61633 | .61185 | .60744 | .60309 | .59880 | .59456 | .59039
88 | .64753 | .64299 | .63851 | .63409 | .62973 | .62543 | .62118 | .61700 | .61287 | .60879
89 | .66454 | .66013 | .65579 | .65150 | .64726 | .64308 | .63895 | .63488 | .63086 | .62689
90 | .68115 | .67689 | .67268 | .66853 | .66442 | .66037 | .65637 | .65241 | .64851 | .64465
91 | .69706 | .69294 | .68887 | .68486 | .68089 | .67696 | .67309 | .66925 | .66547 | .66173
92 | .71190 | .70792 | .70399 | .70011 | .69627 | .69247 | .68872 | .68501 | .68134 | .67771
93 | .72569 | .72184 | .71804 | .71429 | .71057 | .70689 | .70326 | .69967 | .69611 | .69259
94 | .73861 | .73490 | .73123 | .72759 | .72400 | .72044 | .71692 | .71344 | .71000 | .70659
95 | .75097 | .74739 | .74384 | .74033 | .73686 | .73342 | .73002 | .72665 | .72331 | .72001
96 | .76267 | .75922 | .75579 | .75240 | .74905 | .74572 | .74243 | .73917 | .73595 | .73275
97 | .77356 | .77022 | .76691 | .76363 | .76039 | .75718 | .75399 | .75084 | .74772 | .74463
98 | .78382 | .78059 | .77740 | .77423 | .77110 | .76799 | .76491 | .76186 | .75884 | .75584
99 | .79390 | .79079 | .78771 | .78465 | .78162 | .77862 | .77565 | .77270 | .76978 | .76688
100 | .80376 | .80076 | .79779 | .79485 | .79193 | .78904 | .78617 | .78333 | .78051 | .77771
101 | .81353 | .81066 | .80780 | .80497 | .80217 | .79938 | .79662 | .79388 | .79117 | .78847
102 | .82318 | .82042 | .81768 | .81496 | .81227 | .80960 | .80694 | .80431 | .80170 | .79911
103 | .83278 | .83014 | .82752 | .82491 | .82233 | .81977 | .81723 | .81470 | .81220 | .80971
104 | .84310 | .84059 | .83810 | .83563 | .83317 | .83073 | .82831 | .82591 | .82352 | .82115
105 | .85318 | .85079 | .84843 | .84607 | .84374 | .84142 | .83911 | .83682 | .83455 | .83229
106 | .86633 | .86413 | .86193 | .85975 | .85758 | .85543 | .85329 | .85116 | .84904 | .84694
107 | .88247 | .88049 | .87852 | .87656 | .87460 | .87266 | .87073 | .86881 | .86690 | .86500
108 | .90825 | .90666 | .90507 | .90350 | .90193 | .90037 | .89881 | .89727 | .89572 | .89419
109 | .95372 | .95290 | .95208 | .95126 | .95045 | .94964 | .94883 | .94803 | .94723 | .94643

Age | 12.2% | 12.4% | 12.6% | 12.8% | 13.0% | 13.2% | 13.4% | 13.6% | 13.8% | 14.0%
0 | .01298 | .01285 | .01273 | .01261 | .01250 | .01240 | .01230 | .01221 | .01212 | .01203
1 | .00468 | .00455 | .00443 | .00431 | .00420 | .00410 | .00400 | .00391 | .00382 | .00374
2 | .00448 | .00435 | .00421 | .00409 | .00398 | .00387 | .00376 | .00366 | .00357 | .00348
3 | .00452 | .00437 | .00423 | .00410 | .00398 | .00386 | .00375 | .00365 | .00355 | .00345
4 | .00468 | .00452 | .00437 | .00423 | .00410 | .00397 | .00386 | .00375 | .00364 | .00354
5 | .00493 | .00476 | .00460 | .00445 | .00431 | .00418 | .00405 | .00393 | .00382 | .00371
6 | .00524 | .00506 | .00489 | .00473 | .00458 | .00444 | .00430 | .00418 | .00406 | .00394
7 | .00562 | .00543 | .00525 | .00508 | .00492 | .00477 | .00462 | .00449 | .00436 | .00423
8 | .00606 | .00586 | .00566 | .00548 | .00531 | .00515 | .00499 | .00485 | .00471 | .00458
9 | .00659 | .00637 | .00616 | .00597 | .00579 | .00561 | .00545 | .00529 | .00514 | .00500
10 | .00721 | .00698 | .00676 | .00655 | .00636 | .00617 | .00600 | .00583 | .00567 | .00552
11 | .00792 | .00767 | .00744 | .00722 | .00701 | .00682 | .00663 | .00645 | .00628 | .00612
12 | .00871 | .00845 | .00821 | .00797 | .00775 | .00754 | .00735 | .00716 | .00698 | .00681
13 | .00955 | .00928 | .00902 | .00877 | .00854 | .00831 | .00810 | .00790 | .00771 | .00753
14 | .01038 | .01009 | .00981 | .00955 | .00930 | .00907 | .00885 | .00864 | .00843 | .00824
15 | .01116 | .01085 | .01056 | .01028 | .01002 | .00977 | .00954 | .00932 | .00910 | .00890
16 | .01186 | .01153 | .01123 | .01094 | .01066 | .01040 | .01015 | .00992 | .00969 | .00948
17 | .01250 | .01215 | .01183 | .01152 | .01124 | .01096 | .01070 | .01045 | .01022 | .00999
18 | .01308 | .01272 | .01238 | .01206 | .01175 | .01147 | .01119 | .01093 | .01068 | .01044
19 | .01367 | .01329 | .01293 | .01259 | .01227 | .01196 | .01167 | .01140 | .01113 | .01088
20 | .01428 | .01388 | .01350 | .01314 | .01280 | .01248 | .01217 | .01188 | .01161 | .01134
21 | .01494 | .01451 | .01411 | .01373 | .01337 | .01303 | .01271 | .01240 | .01211 | .01183
22 | .01562 | .01517 | .01475 | .01435 | .01397 | .01361 | .01326 | .01294 | .01263 | .01233
23 | .01635 | .01588 | .01543 | .01501 | .01460 | .01422 | .01386 | .01351 | .01319 | .01287
24 | .01716 | .01665 | .01618 | .01573 | .01530 | .01489 | .01451 | .01415 | .01380 | .01347
25 | .01804 | .01751 | .01701 | .01653 | .01608 | .01565 | .01524 | .01485 | .01448 | .01413
26 | .01902 | .01845 | .01792 | .01741 | .01693 | .01648 | .01604 | .01563 | .01524 | .01487
27 | .02011 | .01951 | .01895 | .01841 | .01790 | .01742 | .01696 | .01652 | .01610 | .01571
28 | .02129 | .02066 | .02006 | .01949 | .01895 | .01844 | .01795 | .01748 | .01704 | .01662
29 | .02258 | .02191 | .02127 | .02067 | .02009 | .01955 | .01903 | .01853 | .01806 | .01762
30 | .02396 | .02325 | .02257 | .02193 | .02132 | .02074 | .02019 | .01966 | .01916 | .01869
31 | .02543 | .02467 | .02396 | .02328 | .02263 | .02201 | .02143 | .02087 | .02034 | .01983
32 | .02701 | .02621 | .02545 | .02472 | .02404 | .02338 | .02276 | .02217 | .02160 | .02106
33 | .02871 | .02786 | .02706 | .02629 | .02556 | .02487 | .02420 | .02357 | .02297 | .02240
34 | .03054 | .02964 | .02879 | .02797 | .02720 | .02646 | .02576 | .02509 | .02445 | .02383
35 | .03253 | .03158 | .03067 | .02981 | .02898 | .02820 | .02745 | .02674 | .02606 | .02541
36 | .03467 | .03366 | .03269 | .03178 | .03090 | .03007 | .02928 | .02852 | .02779 | .02710
37 | .03697 | .03590 | .03488 | .03391 | .03298 | .03209 | .03125 | .03044 | .02967 | .02893
38 | .03947 | .03833 | .03725 | .03622 | .03524 | .03430 | .03340 | .03254 | .03172 | .03094
39 | .04217 | .04096 | .03982 | .03873 | .03768 | .03669 | .03573 | .03482 | .03395 | .03312
40 | .04510 | .04383 | .04262 | .04146 | .04035 | .03930 | .03828 | .03732 | .03639 | .03550
41 | .04830 | .04695 | .04567 | .04445 | .04327 | .04215 | .04108 | .04005 | .03907 | .03812
42 | .05177 | .05035 | .04900 | .04770 | .04646 | .04527 | .04413 | .04304 | .04200 | .04100
43 | .05553 | .05404 | .05261 | .05123 | .04992 | .04866 | .04746 | .04630 | .04520 | .04413
44 | .05960 | .05802 | .05651 | .05506 | .05368 | .05235 | .05107 | .04985 | .04867 | .04754
45 | .06395 | .06229 | .06069 | .05917 | .05770 | .05630 | .05495 | .05365 | .05241 | .05121
46 | .06860 | .06685 | .06517 | .06356 | .06202 | .06053 | .05911 | .05774 | .05643 | .05516
47 | .07353 | .07169 | .06992 | .06823 | .06660 | .06504 | .06353 | .06209 | .06070 | .05936
48 | .07877 | .07684 | .07498 | .07320 | .07149 | .06984 | .06826 | .06673 | .06527 | .06385
49 | .08433 | .08231 | .08036 | .07849 | .07669 | .07495 | .07329 | .07168 | .07013 | .06864
50 | .09026 | .08814 | .08609 | .08413 | .08224 | .08042 | .07867 | .07698 | .07535 | .07378
51 | .09655 | .09433 | .09219 | .09013 | .08815 | .08624 | .08440 | .08262 | .08091 | .07926
52 | .10318 | .10086 | .09863 | .09647 | .09439 | .09239 | .09046 | .08860 | .08680 | .08506
53 | .11017 | .10774 | .10541 | .10315 | .10098 | .09888 | .09686 | .09491 | .09302 | .09120
54 | .11750 | .11498 | .11254 | .11019 | .10792 | .10572 | .10361 | .10156 | .09958 | .09767
55 | .12522 | .12258 | .12005 | .11759 | .11522 | .11294 | .11072 | .10859 | .10652 | .10451
56 | .13332 | .13059 | .12794 | .12539 | .12292 | .12054 | .11823 | .11599 | .11383 | .11174
57 | .14183 | .13899 | .13624 | .13359 | .13102 | .12853 | .12613 | .12380 | .12154 | .11936
58 | .15070 | .14775 | .14490 | .14215 | .13948 | .13689 | .13439 | .13197 | .12962 | .12734
59 | .15990 | .15685 | .15389 | .15103 | .14826 | .14558 | .14298 | .14046 | .13801 | .13564
60 | .16942 | .16626 | .16321 | .16024 | .15737 | .15459 | .15189 | .14927 | .14673 | .14426
61 | .17929 | .17603 | .17287 | .16981 | .16684 | .16395 | .16115 | .15844 | .15580 | .15324
62 | .18960 | .18623 | .18297 | .17980 | .17673 | .17375 | .17085 | .16803 | .16530 | .16264
63 | .20035 | .19688 | .19352 | .19025 | .18708 | .18400 | .18100 | .17809 | .17525 | .17250
64 | .21154 | .20797 | .20451 | .20114 | .19787 | .19469 | .19159 | .18859 | .18566 | .18281
65 | .22318 | .21951 | .21595 | .21249 | .20912 | .20584 | .20265 | .19955 | .19652 | .19358
66 | .23532 | .23156 | .22790 | .22434 | .22088 | .21751 | .21422 | .21102 | .20791 | .20487
67 | .24804 | .24419 | .24044 | .23679 | .23324 | .22977 | .22640 | .22311 | .21990 | .21678
68 | .26133 | .25740 | .25356 | .24983 | .24618 | .24263 | .23917 | .23579 | .23250 | .22929
69 | .27516 | .27114 | .26723 | .26341 | .25969 | .25605 | .25251 | .24905 | .24567 | .24237
70 | .28945 | .28536 | .28137 | .27747 | .27367 | .26996 | .26633 | .26279 | .25934 | .25596
71 | .30412 | .29996 | .29590 | .29193 | .28806 | .28427 | .28057 | .27696 | .27343 | .26998
72 | .31913 | .31491 | .31078 | .30675 | .30281 | .29895 | .29519 | .29150 | .28790 | .28438
73 | .33444 | .33016 | .32597 | .32188 | .31788 | .31396 | .31013 | .30638 | .30271 | .29913
74 | .35012 | .34579 | .34155 | .33741 | .33335 | .32938 | .32549 | .32168 | .31795 | .31430
75 | .36628 | .36190 | .35762 | .35343 | .34932 | .34530 | .34136 | .33750 | .33372 | .33001
76 | .38299 | .37858 | .37427 | .37004 | .36589 | .36183 | .35784 | .35394 | .35011 | .34636
77 | .40028 | .39585 | .39151 | .38725 | .38307 | .37898 | .37496 | .37103 | .36716 | .36337
78 | .41812 | .41368 | .40933 | .40506 | .40086 | .39675 | .39271 | .38874 | .38485 | .38103
79 | .43641 | .43198 | .42762 | .42334 | .41914 | .41502 | .41096 | .40698 | .40308 | .39924
80 | .45496 | .45054 | .44619 | .44192 | .43772 | .43360 | .42954 | .42556 | .42164 | .41779
81 | .47360 | .46920 | .46487 | .46061 | .45643 | .45231 | .44827 | .44429 | .44038 | .43653
82 | .49223 | .48785 | .48355 | .47932 | .47516 | .47106 | .46703 | .46307 | .45916 | .45532
83 | .51081 | .50648 | .50221 | .49802 | .49388 | .48982 | .48581 | .48187 | .47799 | .47416
84 | .52951 | .52523 | .52101 | .51686 | .51277 | .50874 | .50477 | .50086 | .49701 | .49321
85 | .54847 | .54425 | .54009 | .53600 | .53196 | .52798 | .52406 | .52019 | .51638 | .51262
86 | .56749 | .56335 | .55926 | .55523 | .55126 | .54734 | .54348 | .53966 | .53591 | .53220
87 | .58627 | .58221 | .57820 | .57425 | .57035 | .56650 | .56270 | .55895 | .55526 | .55161
88 | .60477 | .60079 | .59688 | .59301 | .58919 | .58542 | .58170 | .57802 | .57439 | .57081
89 | .62297 | .61909 | .61527 | .61149 | .60776 | .60408 | .60044 | .59685 | .59330 | .58979
90 | .64084 | .63707 | .63335 | .62968 | .62604 | .62246 | .61891 | .61540 | .61194 | .60851
91 | .65803 | .65437 | .65076 | .64719 | .64366 | .64017 | .63672 | .63330 | .62993 | .62659
92 | .67412 | .67058 | .66707 | .66360 | .66017 | .65678 | .65342 | .65010 | .64682 | .64357
93 | .68911 | .68567 | .68227 | .67890 | .67557 | .67227 | .66901 | .66578 | .66258 | .65942
94 | .70321 | .69988 | .69657 | .69330 | .69006 | .68686 | .68369 | .68055 | .67744 | .67437
95 | .71674 | .71351 | .71031 | .70713 | .70399 | .70088 | .69781 | .69476 | .69174 | .68875
96 | .72959 | .72646 | .72335 | .72028 | .71724 | .71422 | .71123 | .70828 | .70534 | .70244
97 | .74156 | .73853 | .73552 | .73254 | .72959 | .72666 | .72376 | .72089 | .71804 | .71522
98 | .75287 | .74993 | .74702 | .74413 | .74126 | .73842 | .73561 | .73282 | .73006 | .72732
99 | .76401 | .76117 | .75834 | .75555 | .75277 | .75002 | .74730 | .74459 | .74191 | .73926
100 | .77494 | .77219 | .76946 | .76676 | .76408 | .76142 | .75878 | .75616 | .75357 | .75099
101 | .78580 | .78315 | .78052 | .77791 | .77532 | .77275 | .77021 | .76768 | .76517 | .76268
102 | .79654 | .79399 | .79146 | .78894 | .78645 | .78397 | .78152 | .77908 | .77666 | .77426
103 | .80724 | .80479 | .80236 | .79994 | .79755 | .79517 | .79280 | .79046 | .78813 | .78582
104 | .81879 | .81646 | .81413 | .81183 | .80954 | .80726 | .80501 | .80276 | .80054 | .79832
105 | .83005 | .82782 | .82560 | .82340 | .82121 | .81904 | .81688 | .81474 | .81260 | .81049
106 | .84485 | .84277 | .84071 | .83866 | .83662 | .83459 | .83257 | .83057 | .82857 | .82659
107 | .86311 | .86124 | .85937 | .85751 | .85566 | .85382 | .85199 | .85017 | .84835 | .84655
108 | .89266 | .89114 | .88963 | .88812 | .88662 | .88513 | .88364 | .88216 | .88068 | .87922
109 | .94563 | .94484 | .94405 | .94326 | .94248 | .94170 | .94092 | .94014 | .93937 | .93860

Table 90CM.—Life Table Applicable After April 30, 1999
Age x | l(x) | Age x | l(x) | Age x | l(x)
(1) | (2) | (1) | (2) | (1) | (2)
0 | 100000 | 37 | 95969 | 74 | 62852
1 | 99064 | 38 | 95780 | 75 | 60449
2 | 98992 | 39 | 95581 | 76 | 57955
3 | 98944 | 40 | 95373 | 77 | 55373
4 | 98907 | 41 | 95156 | 78 | 52704
5 | 98877 | 42 | 94928 | 79 | 49943
6 | 98850 | 43 | 94687 | 80 | 47084
7 | 98826 | 44 | 94431 | 81 | 44129
8 | 98803 | 45 | 94154 | 82 | 41091
9 | 98783 | 46 | 93855 | 83 | 37994
10 | 98766 | 47 | 93528 | 84 | 34876
11 | 98750 | 48 | 93173 | 85 | 31770
12 | 98734 | 49 | 92787 | 86 | 28687
13 | 98713 | 50 | 92370 | 87 | 25638
14 | 98681 | 51 | 91918 | 88 | 22658
15 | 98635 | 52 | 91424 | 89 | 19783
16 | 98573 | 53 | 90885 | 90 | 17046
17 | 98497 | 54 | 90297 | 91 | 14466
18 | 98409 | 55 | 89658 | 92 | 12066
19 | 98314 | 56 | 88965 | 93 | 9884
20 | 98215 | 57 | 88214 | 94 | 7951
21 | 98113 | 58 | 87397 | 95 | 6282
22 | 98006 | 59 | 86506 | 96 | 4868
23 | 97896 | 60 | 85537 | 97 | 3694
24 | 97784 | 61 | 84490 | 98 | 2745
25 | 97671 | 62 | 83368 | 99 | 1999
26 | 97556 | 63 | 82169 | 100 | 1424
27 | 97441 | 64 | 80887 | 101 | 991
28 | 97322 | 65 | 79519 | 102 | 672
29 | 97199 | 66 | 78066 | 103 | 443
30 | 97070 | 67 | 76531 | 104 | 284
31 | 96934 | 68 | 74907 | 105 | 175
32 | 96791 | 69 | 73186 | 106 | 105
33 | 96642 | 70 | 71357 | 107 | 60
34 | 96485 | 71 | 69411 | 108 | 33
35 | 96322 | 72 | 67344 | 109 | 17
36 | 96150 | 73 | 65154 | 110 | 0

(e) Effective dates. This section applies after April 30, 1999.

§ 20.2031-7T [Removed]

Par. 13a. Section 20.2031-7T is removed.

Par. 14. Section 20.7520-1 is amended by revising paragraphs (a)(2), (b)(2), (c)(1), (c)(2) and (d) to read as follows:

§ 20.7520-1 Valuation of annuities, unitrust interests, interests for life or term of years, and remainder or reversionary interests.

(a) * * *

(2) In the case of a transfer to a pooled income fund with a valuation date after April 30, 1999, see § 1.642(c)-6(e) (or, for certain prior periods, § 1.642(c)-6A of this chapter) of this chapter with respect to the valuation of the remainder interest.

* * * * *

(b) * * *

(2) Mortality component. The mortality component reflects the mortality data most recently available from the United States Census. As new mortality data becomes available after each decennial census, the mortality component described in this section will be revised periodically and the mortality component tables will be published in the regulations at that time. For decedents' estates with valuation dates after April 30, 1999, the mortality component table (Table 90CM) is included in § 20.2031-7(d)(7). See § 20.2031-7A for mortality component tables applicable to decedent's estates with valuation dates before May 1, 1999.

(c) * * *

(1) Regulation sections containing tables with interest rates between 4.2 and 14 percent for valuation dates after April 30, 1999. Section 1.642(c)-6(e)(6) of this chapter contains Table S used for determining the present value of a single life remainder interest in a pooled income fund as defined in § 1.642(c)-5 of this chapter. See § 1.642(c)-6A of this chapter for single life remainder factors applicable to valuation dates before May 1, 1999. Section 1.664-4(e)(6) of this chapter contains Table F (payout factors) and Table D (actuarial factors used in determining the present value of a remainder interest postponed for a term of years). Section 1.664-4(e)(7) of this chapter contains Table U(1) (unitrust single life remainder factors). These tables are used in determining the present value of a remainder interest in a charitable remainder unitrust as defined in § 1.664-3 of this chapter. See § 1.664-4A of this chapter for unitrust single life remainder factors applicable to valuation dates before May 1, 1999. Section 20.2031-(d)(6) contains Table B (actuarial factors used in determining the present value of an interest for a term of years), Table K (annuity end-of-interval adjustment factors), and Table J (term certain annuity beginning-of-interval adjustment factors). Section 20.2031-7(d)(7) contains Table S (single life remainder factors) and Table 90CM (mortality components). These tables are used in determining the present value of annuities, life estates, remainders, and reversions. See § 20.2031-7A for single life remainder factors and mortality components applicable to valuation dates before May 1, 1999.

(2) Internal Revenue Service publications containing tables with interest rates between 2.2 and 22 percent for valuation dates after April 30, 1999. The following documents are available for purchase from the Superintendent of Documents, United States Government Printing Office, Washington, DC 20402:

(i) Internal Revenue Service Publication 1457, “Actuarial Values, Book Aleph,” (7-1999). This publication includes tables of valuation factors, as well as examples that show how to compute other valuation factors, for determining the present value of annuities, life estates, terms of years, remainders, and reversions, measured by one or two lives. These factors may also be used in the valuation of interests in a charitable remainder annuity trust as defined in § 1.664-2 of this chapter and a pooled income fund as defined in § 1.642(c)-5 of this chapter. See § 20.2031-7A for publications containing tables for valuation dates before May 1, 1999.

(ii) Internal Revenue Service Publication 1458, “Actuarial Values, Book Beth,” (7-1999). This publication includes term certain tables and tables of one and two life valuation factors for determining the present value of remainder interests in a charitable remainder unitrust as defined in § 1.664-3 of this chapter. See § 1.664-4A of this chapter for publications containing tables for valuation dates before May 1, 1999.

(iii) Internal Revenue Service Publication 1459, “Actuarial Values, Book Gimel,” (7-1999). This publication includes tables for computing depreciation adjustment factors. See § 1.170A-12 of this chapter.

(d) Effective date. This section applies after April 30, 1989.

§ 20.7520-1T [Removed]

Par. 15. Section 20.7520-1T is removed.

PART 25—GIFT TAX; GIFTS MADE AFTER DECEMBER 31, 1954

Par. 16. The authority citation for part 25 is amended by removing the entries for Sections 25-2512-5T and 25.7520-1T to read in part as follows:

Authority: 26 U.S.C. 7805 * * *

§ 25.2512-0 [Amended]

Par. 17. Section 25.2512-0 is amended by removing the entry for § 25.2512-5T from the contents listing.

Par. 18. Section 25.2512-5 is amended by revising paragraphs (c), (d) and (e) to read as follows:

§ 25.2512-5 Valuation of annuities, unitrust interests, interests for life or term of years, and remainder or reversionary interests.

* * * * *

(c) Actuarial valuations. The present value of annuities, unitrust interests, life estates, terms of years, remainders, and reversions transferred by gift after April 30, 1999, is determined under paragraph (d) of this section. The present value of annuities, unitrust interests, life estates, terms of years, remainders, and reversions transferred by gift before May 1, 1999, is determined under the following sections:

Transfers: After | Transfers: Before | Applicable regulations
| 01-01-52 | 25.2512-5A(a)
12-31-51 | 01-01-71 | 25.2512-5A(b)
12-31-70 | 12-01-83 | 25.2512-5A(c)
11-30-83 | 05-01-89 | 25.2512-5A(d)
04-30-89 | 05-01-99 | 25.2512-5A(e)

(d) Actuarial valuations after April 30, 1999—(1) In general. Except as otherwise provided in paragraph (b) of this section and § 25.7520-3(b) (relating to exceptions to the use of prescribed tables under certain circumstances), if the valuation date for the gift is after April 30, 1999, the fair market value of annuities, life estates, terms of years, remainders, and reversions transferred after April 30, 1999, is the present value of such interests determined under paragraph (d)(2) of this section and by use of standard or special section 7520 actuarial factors. These factors are derived by using the appropriate section 7520 interest rate and, if applicable, the mortality component for the valuation date of the interest that is being valued. See §§ 25.7520-1 through 25.7520-4. The fair market value of a qualified annuity interest described in section 2702(b)(1) and a qualified unitrust interest described in section 2702(b)(2) is the present value of such interests determined under § 25.7520-1(c).

(2) Specific interests. When the donor transfers property in trust or otherwise and retains an interest therein, generally, the value of the gift is the value of the property transferred less the value of the donor's retained interest. However, if the donor transfers property after October 8, 1990, to or for the benefit of a member of the donor's family, the value of the gift is the value of the property transferred less the value of the donor's retained interest as determined under section 2702. If the donor assigns or relinquishes an annuity, life estate, remainder, or reversion that the donor holds by virtue of a transfer previously made by the donor or another, the value of the gift is the value of the interest transferred. However, see section 2519 for a special rule in the case of the assignment of an income interest by a person who received the interest from a spouse.

(i) Charitable remainder trusts. The fair market value of a remainder interest in a pooled income fund, as defined in § 1.642(c)-5 of this chapter, is its value determined under § 1.642(c)-6(e) of this chapter (see § 1.642(c)-6A for certain prior periods). The fair market value of a remainder interest in a charitable remainder annuity trust, as described in § 1.664-2(a) of this chapter, is its present value determined under § 1.664-2(c) of this chapter. The fair market value of a remainder interest in a charitable remainder unitrust, as defined in § 1.664-3 of this chapter, is its present value determined under § 1.664-4(e) of this chapter. The fair market value of a life interest or term for years in a charitable remainder unitrust is the fair market value of the property as of the date of transfer less the fair market value of the remainder interest, determined under § 1.664-4(e)(4) and (5) of this chapter.

(ii) Ordinary remainder and reversionary interests. If the interest to be valued is to take effect after a definite number of years or after the death of one individual, the present value of the interest is computed by multiplying the value of the property by the appropriate remainder interest actuarial factor (that corresponds to the applicable section 7520 interest rate and remainder interest period) in Table B (for a term certain) or the appropriate Table S (for one measuring life), as the case may be. Table B is contained in § 20.2031-7(d)(6) of this chapter and Table S (for one measuring life when the valuation date is after April 30, 1999) is included in § 20.2031-7(d)(7) of this chapter and Internal Revenue Service Publication 1457. See § 20.2031-7A(e)(4) of this chapter containing Table S and Life Table 80CNSMT for valuation of interests after April 30, 1989, and before May 1, 1999. For information about obtaining actuarial factors for other types of remainder interests, see paragraph (d)(4) of this section.

(iii) Ordinary term-of-years and life interests. If the interest to be valued is the right of a person to receive the income of certain property, or to use certain nonincome-producing property, for a term of years or for the life of one individual, the present value of the interest is computed by multiplying the value of the property by the appropriate term-of-years or life interest actuarial factor (that corresponds to the applicable section 7520 interest rate and term-of-years or life interest period). Internal Revenue Service Publication 1457 includes actuarial factors for an interest for a term of years in Table B and for the life of one individual in Table S (for one measuring life when the valuation date is after April 30, 1999). However, term-of-years and life interest actuarial factors are not included in Table B in § 20.2031-7(d)(6) or Table S in § 20.2031-7(d)(7) (or in § 20.2031-7A(e)(4)) of this chapter. If Internal Revenue Service Publication 1457 (or any other reliable source of term-of-years and life interest actuarial factors) is not conveniently available, an actuarial factor for the interest may be derived mathematically. This actuarial factor may be derived by subtracting the correlative remainder factor (that corresponds to the applicable section 7520 interest rate) in Table B (for a term of years) in § 20.2031-7(d)(6) of this chapter or in Table S (for the life of one individual) in § 20.2031-7(d)(7) of this chapter, as the case may be, from 1.000000. For information about obtaining actuarial factors for other types of term-of-years and life interests, see paragraph (d)(4) of this section.

(iv) Annuities. (A) If the interest to be valued is the right of a person to receive an annuity that is payable at the end of each year for a term of years or for the life of one individual, the present value of the interest is computed by multiplying the aggregate amount payable annually by the appropriate annuity actuarial factor (that corresponds to the applicable section 7520 interest rate and annuity period). Internal Revenue Service Publication 1457 includes actuarial factors in Table B (for an annuity payable for a term of years) and in Table S (for an annuity payable for the life of one individual when the valuation date is after April 30, 1999). However, annuity actuarial factors are not included in Table B in § 20.2031-7(d)(6) of this chapter or Table S in § 20.2031-7(d)(7) (or in § 20.2031-7A(e)(4)) of this chapter. If Internal Revenue Service Publication 1457 (or any other reliable source of annuity actuarial factors) is not conveniently available, an annuity factor for a term of years or for one life may be derived mathematically. This annuity factor may be derived by subtracting the applicable remainder factor (that corresponds to the applicable section 7520 interest rate and annuity period) in Table B (in the case of a term-of-years annuity) in § 20.2031-7(d)(6) of this chapter or in Table S (in the case of a one-life annuity) in § 20.2031-7(d)(7) of this chapter, as the case may be, from 1.000000 and then dividing the result by the applicable section 7520 interest rate expressed as a decimal number. See § 20.2031-7(d)(2)(iv) of this chapter for an example that illustrates the computation of the present value of an annuity.

(B) If the annuity is payable at the end of semiannual, quarterly, monthly, or weekly periods, the product obtained by multiplying the annuity factor by the aggregate amount payable annually is then multiplied by the applicable adjustment factor set forth in Table K in § 20.2031-7(d)(6) of this chapter at the appropriate interest rate component for payments made at the end of the specified periods. The provisions of this paragraph (d)(2)(iv)(B) are illustrated by the following example:

Example. In July, the donor agreed to pay the annuitant the sum of $10,000 per year, payable in equal semiannual installments at the end of each period. The semiannual installments are to be made on each December 31st and June 30th. The annuity is payable until the annuitant's death. On the date of the agreement, the annuitant is 68 years and 5 months old. The donee annuitant's age is treated as 68 for purposes of computing the present value of the annuity. The section 7520 rate on the date of the agreement is 10.6 percent. Under Table S in § 20.2031-7(d)(7) of this chapter, the factor at 10.6 percent for determining the present value of a remainder interest payable at the death of an individual aged 68 is .29691. Converting the remainder factor to an annuity factor, as described above, the annuity factor for determining the present value of an annuity transferred to an individual age 68 is 6.6329 (1.00000 minus .29691 divided by .106). The adjustment factor from Table K in § 20.2031-7(d)(6) of this chapter in the column for payments made at the end of each semiannual period at the rate of 10.6 percent is 1.0258. The aggregate annual amount of the annuity, $10,000, is multiplied by the factor 6.6329 and the product multiplied by 1.0258. The present value of the donee's annuity is, therefore, $68,040.29 ($10,000 × 6.6329 × 1.0258).

(C) If an annuity is payable at the beginning of annual, semiannual, quarterly, monthly, or weekly periods for a term of years, the value of the annuity is computed by multiplying the aggregate amount payable annually by the annuity factor described in paragraph (d)(2)(iv)(A) of this section; and the product so obtained is then multiplied by the adjustment factor in Table J in § 20.2031-7(d)(6) of this chapter at the appropriate interest rate component for payments made at the beginning of specified periods. If an annuity is payable at the beginning of annual, semiannual, quarterly, monthly, or weekly periods for one or more lives, the value of the annuity is the sum of the first payment plus the present value of a similar annuity, the first payment of which is not to be made until the end of the payment period, determined as provided in paragraph (d)(2)(iv)(B) of this section.

(v) Annuity and unitrust interests for a term of years or until the prior death of an individual—(A) Annuity interests. The present value of an annuity interest that is payable until the earlier to occur of the lapse of a specific number of years or the death of an individual may be computed with values from the tables in § 20.2031-7(d)(6) and (d)(7) of this chapter as described in the following example:

Example. The donor transfers $100,000 into a trust and retains the right to receive an annuity from the trust in the amount of $6,000 per year, payable in equal semiannual installments at the end of each period. The semiannual installments are to be made on each June 30th and December 31st. The annuity is payable for 10 years or until the donor's prior death. At the time of the transfer, the donor is 59 years and 6 months old. The donor's age is taken as 60 for purposes of computing the present value of the retained annuity. The section 7520 rate for the month in which the transfer occurred is 9.8 percent. The present value of the donor's retained interest is $35,709.13, determined as follows:

TABLE S value at 9.8 percent, age 60 | .21669
TABLE S value at 9.8 percent, age 70 | .34762
TABLE 90CM value at age 70 | .71357
TABLE 90CM value at age 60 | .85537
TABLE B value at 9.8 percent, 10 years | .392624
TABLE K value at 9.8 percent | 1.0239

Factor for donor's retained interest at 9.8 percent:

Present value of donor's retained interest:

($6,000 × 5.8126 × 1.0239)...$35,709.13

(B) Unitrust interests. The present value of a unitrust interest that is payable until the earlier to occur of the lapse of a specific number of years or the death of an individual may be computed with values from the tables in §§ 1.664-4(e)(6) and (e)(7) and § 20.2031-7(d)(7) of this chapter as described in the following example:

Example. The donor who, as of the nearest birthday, is 60 years old, transfers $100,000 to a unitrust on January 1st. The trust instrument requires that each year the trust pay to the donor, in equal semiannual installments on June 30th and December 31st, 6 percent of the fair market value of the trust assets, valued as of January 1st each year, for 10 years or until the prior death of the donor. The section 7520 rate for the January in which the transfer occurred is 9.8 percent. Under Table F(9.8) in § 1.664-4(e)(6) of this chapter, the appropriate adjustment factor is .932539 for semiannual payments payable at the end of the semiannual period. The adjusted payout rate is 5.595 percent (6% × .932539). The present value of the donor's retained interest is $40,848.00 determined as follows:

TABLE U(1) value at 5.6 percent, age 60 | .35375
TABLE U(1) value at 5.6 percent, age 70 | .49342
TABLE 90CM value at age 70 | 71357
TABLE 90CM value at age 60 | 85537
TABLE D value at 5.6 percent, 10 years | .561979

Factor for donor's retained interest at 5.6 percent:

(1.000000 − .35375) − (.561979 × (71357/85537) × (1.000000 − .49342)) = .40876

TABLE U(1) value at 5.4 percent, age 60 | .36542
TABLE U(1) value at 5.4 percent, age 70 | .50473
TABLE 90CM value at age 70 | 71357
TABLE 90CM value at age 60 | 85537
TABLE D value at 5.4 percent, 10 years | .573999

Factor for donor's retained interest at 5.4 percent:

Interpolation adjustment:

­
Factor at 5.4 percent, age 60 | .39742
Plus: Interpolation adjustment | .01106
Interpolated Factor | .40848

Present value of donor's retained interest:

($100,000 × .40848)..........$40,848.00

(3) Transitional rule. If the valuation date of a transfer of property by gift is after April 30, 1999, and before July 1, 1999, the fair market value of the interest transferred is determined by use of the section 7520 interest rate for the month in which the valuation date occurs (see §§ 25.7520-1(b) and 25.7520-2(a)(2)) and the appropriate actuarial tables under either paragraph (d)(2) of this section or § 25.2512-5A(e), at the option of the donor. However, with respect to each individual transaction and with respect to all transfers occurring on the valuation date, the donor must use the same actuarial tables (for example, gift and income tax charitable deductions with respect to the same transfer must be determined based on the same tables, and all transfers made on the same date must be valued based on the same tables).

(4) Publications and actuarial computations by the Internal Revenue Service. Many standard actuarial factors not included in §§ 20.2031-7(d)(6) or (d)(7) of this chapter are included in Internal Revenue Service Publication 1457, “Actuarial Values, Book Aleph,” (7-1999). Internal Revenue Service Publication 1457 also includes examples that illustrate how to compute many special factors for more unusual situations. A copy of this publication is available for purchase from the Superintendent of Documents, United States Government Printing Office, Washington, DC 20402. See § 25.2512-5A for publications containing actuarial factors for valuing interests for which the valuation date is before May 1, 1999. If a special factor is required in the case of a completed gift, the Service may furnish the factor to the donor upon a request for a ruling. The request for a ruling must be accompanied by a recitation of the facts including a statement of the date of birth for each measuring life, the date of the gift, any other applicable dates, and a copy of the will, trust, or other relevant documents. A request for a ruling must comply with the instructions for requesting a ruling published periodically in the Internal Revenue Bulletin (see §§ 601.201 and 601.601(d)(2)(ii)(b) of this chapter) and include payment of the required user fee.

(e) Effective dates. This section applies after April 30, 1999.

§ 25.2512-5T [Removed]

Par. 19. Section 25.2512-5T is removed.

Par. 20. Section 25.7520-1 is amended by revising paragraphs (b)(2), (c)(1), (c)(2) and (d) to read as follows:

§ 25.7520-1 Valuation of annuities, unitrust interests, interests for life or term of years, and remainder or reversionary interests.

* * * * *

(b) * * *

(2) Mortality component. The mortality component reflects the mortality data most recently available from the United States Census. As new mortality data becomes available after each decennial census, the mortality component described in this section will be revised periodically and the mortality component tables will be published in the regulations at that time. For gifts with valuation dates after April 30, 1999, the mortality component table (Table 90CM) is included in § 20.2031-7(d)(7) of this chapter. See § 20.2031-7A of this chapter for mortality component tables applicable to decedent's estates with valuation dates before May 1, 1999.

(c) * * *

(1) Regulation sections containing tables with interest rates between 4.2 and 14 percent for valuation dates after April 30, 1999. Section 1.642(c)-6(e)(6) of this chapter contains Table S used for determining the present value of a single life remainder interest in a pooled income fund as defined in § 1.642(c)-5 of this chapter. See § 1.642(c)-6A for single life remainder factors applicable to valuation dates before May 1, 1999. Section 1.664-4(e)(6) of this chapter contains Table F (payout factors) and Table D (actuarial factors used in determining the present value of a remainder interest postponed for a term of years). Section 1.664-4(e)(7) of this chapter contains Table U(1) (unitrust single life remainder factors). These tables are used in determining the present value of a remainder interest in a charitable remainder unitrust as defined in § 1.664-3 of this chapter. See § 1.664-4A for unitrust single life remainder factors applicable to valuation dates before May 1, 1999. Section 20.2031-7(d)(6) of this chapter contains Table B (actuarial factors used in determining the present value of an interest for a term of years), Table K (annuity end-of-interval adjustment factors), Table J (term certain annuity beginning-of-interval adjustment factors). Section 20.2031-7(d)(7) of this chapter contains Table S (single life remainder factors) and Table 90CM (mortality components). These tables are used in determining the present value of annuities, life estates, remainders, and reversions. See § 20.2031-7A of this chapter for single life remainder factors and mortality components applicable to valuation dates before May 1, 1999.

(2) Internal Revenue Service publications containing tables with interest rates between 2.2 and 22 percent for valuation dates after April 30, 1999. The following documents are available for purchase from the Superintendent of Documents, United States Government Printing Office, Washington, DC 20402:

(i) Internal Revenue Service Publication 1457, “Actuarial Values, Book Aleph,” (7-1999). This publication includes tables of valuation factors, as well as examples that show how to compute other valuation factors, for determining the present value of annuities, life estates, terms of years, remainders, and reversions, measured by one or two lives. These factors may also be used in the valuation of interests in a charitable remainder annuity trust as defined in § 1.664-2 of this chapter and a pooled income fund as defined in § 1.642(c)-5 of this chapter. See § 25-2512-5A for publications containing tables for valuation dates before May 1, 1999.

(ii) Internal Revenue Service Publication 1458, “Actuarial Values, Book Beth,” (7-1999). This publication includes term certain tables and tables of one and two life valuation factors for determining the present value of remainder interests in a charitable remainder unitrust as defined in § 1.664-3 of this chapter. See § 1.664-4A of this chapter for publications containing tables for valuation dates before May 1, 1999.

(iii) Internal Revenue Service Publication 1459, “Actuarial Values, Book Gimel,” (7-1999). This publication includes tables for computing depreciation adjustment factors. See § 1.170A-12 of this chapter.

(d) Effective date. This section applies after April 30, 1989.

§ 25.7520-1T [Removed]

Par. 21. Section 25.7520-1T is removed.

PARTS 1, 20 AND 25—[AMENDED]

Par. 22. In the list below, for each section indicated in the left column, remove the language in the middle column and add the language in the right column:

Section | Remove | Add
1.170A-12(e)(2), following the formula | § 20.2031-7T | § 20.2031-7.
1.642(c)-6A(e)(2)(ii), last sentence | § 1.642(c)-6T(e)(3)(ii) | § 1.642(c)-6(e)(3)(ii).
1.642(c)-6A(e)(3) | § 1.642(c)-6T(e)(4) | § 1.642(c)-6(e)(4).
1.642(c)-6A(e)(4), last sentence | § 1.642(c)-6T(e)(5) | § 1.642(c)-6(e)(5).
1.664-1(a)(6), introductory text | §§ 1.664-4T(e), 1.664-4T(e) and 1.664-4A(d) and (e) | §§ 1.664-4(e) and 1.664-4A(d) and (e).
1.664-4(e)(6), second sentence | § 1.664-4T(e)(7) | paragraph (e)(5) of this section.
1.664-4A(e)(4), fifth sentence | § 1.664-4T(e)(4) | § 1.664-4(e)(4).
1.664-4A(e)(4), last sentence | § 1.664-4T(e)(4) | § 1.664-4(e)(4).
1.664-4A(e)(5), fourth sentence | § 1.664-4T(e)(5) | § 1.664-4(e)(5).
1.664-4A(e)(5), last sentence | § 1.664-4T(e)(5) | § 1.664-4(e)(5).
1.7520-1(a)(2) | § 1.642(c)-6T(e) | § 1.642(c)-6(e).
20.2031-7A(e)(1), first sentence | § 20.2031-7T(d) | § 20.2031-7(d).
20.2055-2(f)(4) | § 20.2031-7T(d) | § 20.2031-7(d).
25.2512-5A(e)(1), first sentence | § 25.2512-5T(d) | § 25.2512-5(d).
25.7520-1(a)(2) | § 1.642(c)-6T(e) | § 1.642(c)-6(e).
25.7520-3(b)(2)(v), Example 5 (iii) | § 20.2031-7T(d)(7) | § 20.2031-7(d)(7).

Robert E. Wenzel,
Deputy Commissioner of Internal Revenue.

Approved: May 17, 2000.
Jonathan Talisman,
Deputy Assistant Secretary of the Treasury (Tax Policy).

[FR Doc. 00-12986 Filed 6-9-00; 8:45 am]

BILLING CODE 4830-01-P